DEPARTMENT OF HOUSING AND URBAN DEVELOPMENT

[Docket No. FR-5220-FA-01]

Announcement of Funding Awards for the Continuum of Care Homeless Assistance Grants Program Fiscal Year 2008

AGENCY: Office of the Assistant Secretary for Community Planning and Development, HUD.

ACTION: Notice of funding awards.

SUMMARY: In accordance with Section 102(a)(4)(C) of the Department of Housing and Urban Development Reform Act of 1989, this announcement notifies the public of past funding decisions made by the Department in a competition for funding under the 2008 Notice of Funding Availability (NOFA) for the Continuum of Care Homeless Assistance Grants program. This announcement contains the names of the awardees and the amounts of the awards made available by HUD in 2009. A Federal Register notice on this action was not published at the time; however, the public was advised of these grant selections since they were posted on HUD's Web site. The posting contained a listing of the selected applicants including descriptions of the projects.

FOR FURTHER INFORMATION CONTACT: Ann M. Oliva, Director, Office of Special Needs Assistance Programs, Office of Community Planning and Development, 451 Seventh Street, SW., Room 7262, Washington, DC 20410-7000; telephone (202) 708-4300 (this is not a toll-free number). Hearing- and speech-impaired persons may access this number via TTY by calling the Federal Relay Service toll-free at (800) 877-8339. For general information on this and other HUD programs, call Community Connections at (800) 998-9999 or visit the HUD Web site at http://www.hud.gov.

SUPPLEMENTARY INFORMATION: HUD's Homeless Assistance grants provide federal support to one of the nation's most vulnerable populations while working to reduce overall homelessness and end chronic homelessness. Competitive Homeless Assistance grants include the Supportive Housing Program, Shelter Plus Care, and the Section 8 Moderate Rehabilitation Single Room Occupancy Program, which are distributed through a competitive process called the Continuum of Care (CoC) in which federal funding is driven by local decisionmaking. The CoC system is a community-based process that provides a coordinated housing and service delivery system that enables communities to plan for and provide a comprehensive response to homeless individuals and families. It is an inclusive process that is coordinated with nonprofit organizations, state and local government agencies, service providers, private foundations, faith-based organizations, law enforcement, local businesses, and homeless or formerly homeless persons.

In 2009, HUD awarded 6,341 competitive Homeless Assistance grants totaling $1,417,604,582. Subsequent to HUD's announcement of the 2008 awards on February 19, 2009, an additional five (5) renewal grants were awarded in California, New Jersey, and New York. They are added at the end of Appendix A. These additional awards were made based on further review by HUD of specific circumstances surrounding their renewal requests. This notice provides details regarding the organizations that were awarded funding in 2008. Applications were reviewed and rated on the basis of selection criteria contained in the NOFA. This notice fulfills a required grants management action.

The competition was announced in the Federal Register on July 10, 2008 (73 FR 39840) and amended on August 13, 2008 (73 FR 47205) and October 9, 2008 (73 FR 59643).

In accordance with Section 102(a)(4)(C) of the Department of Housing and Urban Development Reform Act of 1989 (103 Stat. 1987, 42 U.S.C. 3545), the Department is publishing the details of these funding grant announcements in Appendix A.

Dated: September 2, 2009.
Mercedes Márquez,
Assistant Secretary for Community Planning and Development.

Recipient | State | Amount
Alaska Housing Finance Corporation | AK | $96,228
Anchorage Community Mental Health Services, Inc | AK | $207,790
Covenant House Alaska | AK | $245,629
The LeeShore Center | AK | $73,791
Valley Residential Services, Inc | AK | $26,340
Valley Residential Services, Inc | AK | $46,463
Valley Residential Services, Inc | AK | $102,499
Rural Alaska Community Action Program, Inc | AK | $141,168
Rural Alaska Community Action Program, Inc | AK | $361,073
Anchorage Community Mental Health Services, Inc | AK | $657,475
Interior Alaska Center for Non-Violent Living | AK | $50,965
Alaska Housing Finance Corporation | AK | $88,212
Alaska Housing Finance Corporation | AK | $102,312
Alaska Housing Finance Corporation | AK | $18,460
Alaska Housing Finance Corporation | AK | $27,600
Alaska Housing Finance Corporation | AK | $274,752
Catholic Social Services | AK | $193,485
Tundra Women's Coalition | AK | $28,212
Anchorage Housing Initiatives, Inc | AK | $84,578
Alaskan AIDS Assistance Association | AK | $104,665
Municipality of Anchorage | AK | $296,714
Interior Alaska Center for Non-Violent Living | AK | $32,824
Lighthouse Counseling Center, Inc | AL | $181,414
Montgomery Area Mental Health Authority | AL | $82,639
Montgomery Area Mental Health Authority | AL | $300,547
Montgomery Area Mental Health Authority | AL | $212,695
State of Alabama | AL | $234,108
Huntsville Housing Authority | AL | $294,504
Pathways Inc | AL | $128,181
Pathways Inc | AL | $168,453
Housing First, Inc | AL | $90,284
City of Gadsden | AL | $29,297
Jefferson County Housing Authority | AL | $182,016
Lighthouse Counseling Center, Inc | AL | $197,854
Lighthouse Counseling Center, Inc | AL | $293,602
Metropolitan Birmingham Services for the Homeless | AL | $138,600
University of Alabama at Birmingham | AL | $250,510
The Salvation Army, a Georgia Corporation | AL | $159,973
Alabama Coalition Against Domestic Violence | AL | $128,638
Housing First, Inc | AL | $123,060
The Salvation Army, a Georgia Corporation | AL | $69,087
YWCA Birmingham | AL | $304,727
First Light, Inc | AL | $82,368
First Light, Inc | AL | $86,068
AIDS Alabama Inc | AL | $186,873
AIDS Alabama Inc | AL | $262,903
AIDS Alabama Inc | AL | $149,300
Althea House | AL | $314,705
Althea House | AL | $108,857
Montgomery Area Mental Health Authority | AL | $110,652
YWCA Birmingham | AL | $64,688
Montgomery Area Mental Health Authority | AL | $64,147
The Cooperative Downtown Ministries, Inc | AL | $146,917
The Cooperative Downtown Ministries, Inc | AL | $126,426
The Cooperative Downtown Ministries, Inc | AL | $47,835
The Cooperative Downtown Ministries, Inc | AL | $222,381
Independent Living Resources of Greater Birmingham, Inc | AL | $26,460
Jefferson County Housing Authority | AL | $3,451,812
Jefferson County Housing Authority | AL | $44,664
Housing First, Inc | AL | $163,077
Crisis Services of North Alabama | AL | $56,393
Mental Health Center of North Central Alabama, Inc | AL | $131,593
Housing First, Inc | AL | $175,061
Housing First, Inc | AL | $123,088
Housing First, Inc | AL | $94,756
Housing First, Inc | AL | $105,000
Housing First, Inc | AL | $25,261
The Volunteer & Information Center, Inc | AL | $70,327
Housing First, Inc | AL | $235,521
Housing First, Inc | AL | $384,573
Housing First, Inc | AL | $479,261
City of Tuscaloosa | AL | $20,983
Interfaith Mission Services, Inc | AL | $81,009
Housing First, Inc | AL | $241,720
Jefferson-Blount-St. Clair Mental Health/Mental Retardation | AL | $238,439
Montgomery Area Family Violence Program Inc | AL | $164,652
Montgomery Area Family Violence Program Inc | AL | $138,606
Housing First, Inc | AL | $146,187
Housing First, Inc | AL | $103,751
Faith Crusades Ministries Inc | AL | $59,902
University of Alabama at Birmingham | AL | $246,975
Safeplace, Inc | AL | $520,531
Housing First, Inc | AL | $160,019
Housing First, Inc | AL | $86,100
Housing First, Inc | AL | $148,732
Housing First, Inc | AL | $78,178
Women & Children First: Center Against Family Violence | AR | $93,113
Committee Against Spouse Abuse | AR | $31,307
Little Rock Community Mental Health Center | AR | $36,311
Little Rock Community Mental Health Center | AR | $45,896
City of Pine Bluff | AR | $237,426
Little Rock Community Mental Health Center | AR | $96,088
Arkansas Supportive Housing Network, Inc | AR | $562,993
Youth Bridge, Inc | AR | $93,485
Health Resources of Arkansas | AR | $170,224
Little Rock Community Mental Health Center | AR | $287,729
Our House, Inc | AR | $36,371
Arkansas Department of Human Services | AR | $371,856
Black Community Developers, Inc | AR | $40,306
Arkansas Department of Human Services | AR | $194,460
Arkansas Department of Human Services | AR | $164,112
Arkansas Department of Human Services | AR | $917,688
Little Rock Housing Authority | AR | $38,688
Health Resources of Arkansas | AR | $133,596
Bethlehem House, Inc | AR | $21,600
Our House, Inc | AR | $162,568
Arkansas Supportive Housing Network, Inc | AR | $99,210
Black Community Developers, Inc | AR | $110,125
Counseling Associates, Inc | AR | $200,000
Pima County | AZ | $221,935
Pima County | AZ | $387,476
Southern Arizona AIDS Foundation | AZ | $86,499
Southern Arizona AIDS Foundation | AZ | $87,783
Pima County | AZ | $461,425
Southern Arizona AIDS Foundation | AZ | $28,373
the EXCEL group, Inc | AZ | $133,488
Chrysalis Shelter for Victims of Domestic Violence, Inc | AZ | $24,269
Arizona Department of Housing | AZ | $112,237
Labor's Community Service Agency | AZ | $279,594
Pima County CDNC | AZ | $181,089
Community Bridges, Inc | AZ | $344,610
Native American Connections, Inc | AZ | $35,000
Native American Connections, Inc | AZ | $91,043
Pima County CDNC | AZ | $434,713
United States Veterans Initiative | AZ | $500,157
Catholic Charities Community Services | AZ | $24,039
Sojourner Center | AZ | $417,763
Old Pueblo Community Foundation | AZ | $221,516
Old Pueblo Community Foundation | AZ | $68,391
COPE Community Services, Inc | AZ | $222,646
Arizona Housing, Inc | AZ | $58,025
Arizona Housing, Inc | AZ | $79,804
Arizona Housing, Inc | AZ | $523,810
Native American Connections, Inc | AZ | $163,178
UMOM New Day Centers, Inc | AZ | $201,671
Arizona Department of Housing | AZ | $1,474,356
Arizona Behavioral Health Corporation | AZ | $1,118,788
Arizona Behavioral Health Corporation | AZ | $711,879
Arizona Behavioral Health Corporation | AZ | $70,456
Arizona Behavioral Health Corporation | AZ | $20,775
Arizona Behavioral Health Corporation | AZ | $1,801,534
Arizona Behavioral Health Corporation | AZ | $519,019
UMOM New Day Centers, Inc | AZ | $1,888,326
Arizona Behavioral Health Corporation | AZ | $903,424
UMOM New Day Centers, Inc | AZ | $80,126
UMOM New Day Centers, Inc | AZ | $187,584
City of Tucson | AZ | $741,272
City of Tucson | AZ | $60,385
City of Tucson | AZ | $91,037
City of Tucson | AZ | $727,932
City of Tucson | AZ | $289,248
La Frontera Center, Inc | AZ | $425,148
Southwest Behavioral Health Services, Inc | AZ | $205,977
HomeBase Youth Services | AZ | $333,371
Phoenix Shanti Group | AZ | $34,600
PREHAB of Arizona, Inc | AZ | $510,688
Chicanos Por La Causa, Inc | AZ | $101,737
The Salvation Army Western Territory | AZ | $73,080
The Salvation Army Western Territory | AZ | $45,360
Arizona Behavioral Health Corporation | AZ | $974,551
Save the Family Foundation of Arizona | AZ | $420,100
Mesa Community Action Network | AZ | $58,878
Area Agency on Aging, Region One | AZ | $60,735
Area Agency on Aging, Region One | AZ | $63,064
Area Agency on Aging, Region One | AZ | $126,575
Arizona Behavioral Health Corporation | AZ | $870,836
Arizona Behavioral Health Corporation | AZ | $202,031
Arizona Behavioral Health Corporation | AZ | $388,240
Arizona Behavioral Health Corporation | AZ | $713,200
Save the Family Foundation of Arizona | AZ | $215,406
The Primavera Foundation, Inc | AZ | $103,306
Arizona Department of Housing | AZ | $34,604
Arizona Department of Housing | AZ | $129,225
Arizona Department of Housing | AZ | $799,824
Arizona Department of Housing | AZ | $1,859,916
Arizona Department of Housing | AZ | $2,870,664
Our Family Services, Inc | AZ | $60,789
Arizona Department of Housing | AZ | $157,500
The Primavera Foundation, Inc | AZ | $112,486
Arizona Department of Housing | AZ | $48,937
CODAC Behavioral Health Services | AZ | $171,443
CODAC Behavioral Health Services | AZ | $221,118
Homeward Bound | AZ | $26,250
Homeward Bound | AZ | $313,761
Tumbleweed Center for Youth Development | AZ | $318,729
Tumbleweed Center for Youth Development | AZ | $214,429
Tumbleweed Center for Youth Development | AZ | $439,700
Recovery Innovations of Arizona, Inc | AZ | $990,010
Arizona Department of Housing | AZ | $76,685
Pima County | AZ | $428,470
Arizona Department of Housing | AZ | $249,328
Arizona Department of Housing | AZ | $357,641
Arizona Department of Housing | AZ | $136,686
Arizona Department of Housing | AZ | $34,187
Arizona Department of Housing | AZ | $164,877
Arizona Department of Housing | AZ | $80,660
Arizona Department of Housing | AZ | $208,104
Arizona Department of Housing | AZ | $108,701
Arizona Department of Housing | AZ | $78,175
Arizona Department of Housing | AZ | $102,534
Arizona Department of Housing | AZ | $134,750
Arizona Department of Housing | AZ | $30,332
Arizona Department of Housing | AZ | $99,805
Arizona Department of Housing | AZ | $93,186
Arizona Department of Housing | AZ | $195,943
WINR/Women In New Recovery | AZ | $46,862
Arizona Department of Housing | AZ | $78,858
Community Information & Referral | AZ | $176,753
Arizona Department of Housing | AZ | $216,156
Community Information & Referral | AZ | $400,921
Santa Barbara Community Houding Corp | CA | $99,444
Los Angeles Homeless Services Authority | CA | $223,929
Los Angeles Homeless Services Authority | CA | $200,258
Los Angeles Homeless Services Authority | CA | $198,095
Los Angeles Homeless Services Authority | CA | $402,558
The Eli Home, Inc | CA | $524,275
Salvation Army | CA | $102,008
Homes For Life Foundation | CA | $72,067
Los Angeles Homeless Services Authority | CA | $249,362
Los Angeles Homeless Services Authority | CA | $263,401
Los Angeles Homeless Services Authority | CA | $225,355
Los Angeles Homeless Services Authority | CA | $244,623
John XXIII AIDS Ministry | CA | $129,312
Los Angeles Homeless Services Authority | CA | $76,059
Los Angeles Homeless Services Authority | CA | $94,295
Los Angeles Homeless Services Authority | CA | $387,581
Los Angeles Homeless Services Authority | CA | $130,971
Los Angeles Homeless Services Authority | CA | $258,248
Los Angeles Homeless Services Authority | CA | $151,802
Los Angeles Homeless Services Authority | CA | $120,164
Los Angeles Homeless Services Authority | CA | $241,135
Los Angeles Homeless Services Authority | CA | $169,419
Beacon Housing, Inc | CA | $76,192
Los Angeles Homeless Services Authority | CA | $210,433
Service League of San Mateo County | CA | $45,837
Orange Coast Interfaith Shelter | CA | $283,129
Los Angeles Homeless Services Authority | CA | $182,955
Los Angeles Homeless Services Authority | CA | $110,824
Rubicon Programs Inc | CA | $204,120
Rubicon Programs Inc | CA | $94,500
Rubicon Programs Inc | CA | $44,013
Individuals Now dba Social Advocates for Youth | CA | $40,000
Antelope Valley Domestic Violence Council | CA | $143,911
Los Angeles Homeless Services Authority | CA | $125,824
Los Angeles Homeless Services Authority | CA | $93,310
Los Angeles Homeless Services Authority | CA | $140,946
Los Angeles Homeless Services Authority | CA | $149,707
Los Angeles Homeless Services Authority | CA | $286,999
Los Angeles Homeless Services Authority | CA | $349,666
Los Angeles Homeless Services Authority | CA | $201,506
Los Angeles Homeless Services Authority | CA | $59,052
Los Angeles Homeless Services Authority | CA | $267,828
Los Angeles Homeless Services Authority | CA | $629,647
Los Angeles Homeless Services Authority | CA | $157,707
Los Angeles Homeless Services Authority | CA | $209,799
Los Angeles Homeless Services Authority | CA | $119,280
City of Woodland | CA | $177,343
Los Angeles Homeless Services Authority | CA | $61,041
Los Angeles Homeless Services Authority | CA | $68,320
Los Angeles Homeless Services Authority | CA | $154,997
Los Angeles Homeless Services Authority | CA | $63,655
Los Angeles Homeless Services Authority | CA | $282,734
Los Angeles Homeless Services Authority | CA | $206,461
Pajaro Valley Shelter Services | CA | $13,623
Los Angeles Homeless Services Authority | CA | $198,507
Southern California Alcohol and Drug Programs, Inc | CA | $355,943
Los Angeles Homeless Services Authority | CA | $337,805
South Bay Community Services, Inc | CA | $96,832
Los Angeles Homeless Services Authority | CA | $118,347
New Directions, Inc | CA | $574,640
Los Angeles Homeless Services Authority | CA | $63,687
Los Angeles Homeless Services Authority | CA | $180,897
Los Angeles Homeless Services Authority | CA | $54,498
Los Angeles Homeless Services Authority | CA | $196,350
Los Angeles Homeless Services Authority | CA | $162,775
Los Angeles Homeless Services Authority | CA | $223,552
Los Angeles Homeless Services Authority | CA | $92,217
St. Joseph Center | CA | $47,246
Los Angeles Homeless Services Authority | CA | $263,685
Los Angeles Homeless Services Authority | CA | $97,677
Families Forward | CA | $73,819
Los Angeles Homeless Services Authority | CA | $400,000
Mental Health Systems Inc | CA | $273,283
South Bay Community Services, Inc | CA | $86,951
United Christian Centers Of The Greater Sacramento Area, Inc | CA | $46,527
Homes For Life Foundation | CA | $338,590
Vallejo Lord's Fellowship A/G | CA | $42,600
City of Oceanside | CA | $146,702
Greater Richmond Interfaith Program | CA | $97,817
Greater Richmond Interfaith Program | CA | $75,306
Family Services of Tulare County | CA | $160,684
County of Santa Cruz | CA | $89,985
Community Working Group, Inc | CA | $51,100
Stop Homelessness in the Rio Hondo Area, Inc | CA | $165,207
Solano County Health and Social Services | CA | $80,502
WomanHaven, Inc | CA | $171,717
Los Angeles Homeless Services Authority | CA | $137,485
Families Forward | CA | $132,941
Women's Daytime Drop-In Center | CA | $68,975
Family Assistance Ministries | CA | $558,832
Los Angeles Homeless Services Authority | CA | $112,450
Los Angeles Homeless Services Authority | CA | $34,999
Los Angeles Homeless Services Authority | CA | $287,114
Clinca Sierra Vista, Inc | CA | $93,903
Orange County Housing Authority | CA | $777,600
Orange County Housing Authority | CA | $1,166,400
Orange County Housing Authority | CA | $534,672
Orange County Housing Authority | CA | $983,832
Orange County Housing Authority | CA | $399,156
Mary Lind Recovery Centers | CA | $442,317
Los Angeles Homeless Services Authority | CA | $331,546
Mental Health Systems Inc | CA | $287,042
Los Angeles Homeless Services Authority | CA | $70,391
Los Angeles Homeless Services Authority | CA | $177,929
Los Angeles Homeless Services Authority | CA | $147,972
Los Angeles Homeless Services Authority | CA | $121,874
Los Angeles Homeless Services Authority | CA | $147,775
Los Angeles Homeless Services Authority | CA | $381,940
Los Angeles Homeless Services Authority | CA | $200,000
Los Angeles Homeless Services Authority | CA | $193,880
Los Angeles Homeless Services Authority | CA | $256,710
Los Angeles Homeless Services Authority | CA | $131,286
Vietnam Veterans of San Diego | CA | $202,850
Vietnam Veterans of San Diego | CA | $209,600
Rubicon Programs Inc | CA | $654,229
Orange County Housing Authority | CA | $3,027,372
Committee on the Shelterless | CA | $29,744
County of San Diego | CA | $480,480
County of San Diego | CA | $575,640
City of Oxnard | CA | $52,747
Housing Authority of the City of San Buenaventura | CA | $118,404
City of Oxnard | CA | $123,348
Vietnam Veterans of California | CA | $265,807
Vietnam Veterans of California | CA | $44,536
Vietnam Veterans of California | CA | $83,107
North County Interfaith Council, Inc | CA | $103,415
North County Interfaith Council, Inc | CA | $64,214
North County Interfaith Council, Inc | CA | $347,774
North County Interfaith Council, Inc | CA | $82,129
Los Angeles Homeless Services Authority | CA | $159,179
Families In Transition of Santa Cruz County, Inc | CA | $189,786
County of San Diego | CA | $445,011
Committee on the Shelterless | CA | $16,000
Committee on the Shelterless | CA | $78,359
Committee on the Shelterless | CA | $75,000
County of Sutter | CA | $30,300
Garden Park Apartments Community (GPAC) | CA | $224,870
Whiteside Manor, Inc | CA | $884,051
Samaritan House | CA | $105,000
Los Angeles Homeless Services Authority | CA | $66,685
Los Angeles Homeless Services Authority | CA | $51,771
Los Angeles Homeless Services Authority | CA | $96,975
Los Angeles Homeless Services Authority | CA | $573,405
Rubicon Programs Inc | CA | $221,628
Families In Transition of Santa Cruz County, Inc | CA | $185,638
County of Riverside | CA | $408,234
Central California Family Crisis Center, Inc | CA | $283,120
Building Opportunities for Self-Sufficiency | CA | $274,259
Building Opportunities for Self-Sufficiency | CA | $74,500
Building Opportunities for Self-Sufficiency | CA | $96,147
Building Opportunities for Self-Sufficiency | CA | $164,038
Building Opportunities for Self-Sufficiency | CA | $736,155
Building Opportunities for Self-Sufficiency | CA | $185,727
County of Riverside | CA | $135,756
County of Riverside | CA | $89,373
County of Riverside | CA | $525,000
County of Riverside | CA | $240,968
County of Riverside | CA | $260,498
County of San Diego | CA | $208,224
County of Riverside | CA | $646,847
County of San Diego | CA | $614,760
County of Riverside | CA | $218,484
County of Riverside | CA | $80,591
County of Riverside | CA | $744,120
County of Riverside | CA | $436,000
County of Riverside | CA | $213,300
County of San Diego | CA | $96,843
County of San Diego | CA | $63,000
County of San Diego | CA | $74,843
Housing Authority of the County of Stanislaus | CA | $132,120
Housing Authority of the County of Stanislaus | CA | $538,140
County of San Diego | CA | $43,557
JWCH Institute, Inc | CA | $308,999
Goodwill Industries of the Greater Eastbay | CA | $863,257
County of Riverside | CA | $134,136
Los Angeles Homeless Services Authority | CA | $134,592
Los Angeles Homeless Services Authority | CA | $259,875
Los Angeles Homeless Services Authority | CA | $387,743
County of Ventura Human Services Agency | CA | $49,085
County of Ventura Human Services Agency | CA | $217,276
County of Ventura Human Services Agency | CA | $31,214
County of Ventura Human Services Agency | CA | $163,795
Housing Authority of the City of Napa | CA | $59,820
Project Understanding | CA | $53,642
Turning Point Foundation | CA | $250,184
Turning Point Foundation | CA | $26,074
Turning Point Foundation | CA | $35,460
Turning Point Foundation | CA | $31,361
Los Angeles Homeless Services Authority | CA | $476,401
Los Angeles Homeless Services Authority | CA | $259,701
Los Angeles Homeless Services Authority | CA | $192,600
Gramercy Housing Group | CA | $210,960
CORA (Community Overcoming Relationship Abuse) | CA | $230,763
Los Angeles Homeless Services Authority | CA | $113,971
Episcopal Community Services | CA | $557,110
Catholic Charities of Los Angeles, Inc | CA | $142,900
Catholic Charities of Los Angeles, Inc | CA | $103,425
Los Angeles Homeless Services Authority | CA | $385,943
Los Angeles Homeless Services Authority | CA | $143,432
Los Angeles Homeless Services Authority | CA | $128,980
Episcopal Community Services | CA | $509,328
The City of Oakland | CA | $1,829,618
Rubicon Programs Inc | CA | $1,018,766
Los Angeles Homeless Services Authority | CA | $282,429
Housing Authority City of Fresno | CA | $170,988
Resources for Independent Living, Inc | CA | $97,876
Los Angeles Homeless Services Authority | CA | $156,635
Los Angeles Homeless Services Authority | CA | $350,396
Los Angeles Homeless Services Authority | CA | $149,846
Los Angeles Homeless Services Authority | CA | $248,942
Los Angeles Homeless Services Authority | CA | $250,000
Los Angeles Homeless Services Authority | CA | $24,331
Los Angeles Homeless Services Authority | CA | $366,345
Los Angeles Homeless Services Authority | CA | $344,504
Los Angeles Homeless Services Authority | CA | $178,238
Los Angeles Homeless Services Authority | CA | $364,882
Los Angeles Homeless Services Authority | CA | $106,479
Los Angeles Homeless Services Authority | CA | $220,461
Housing Authority City of Fresno | CA | $135,000
Los Angeles Homeless Services Authority | CA | $489,638
Los Angeles Homeless Services Authority | CA | $253,423
Los Angeles Homeless Services Authority | CA | $570,870
Housing Authority City of Fresno | CA | $632,520
Housing Authority City of Fresno | CA | $644,246
Housing Authority City of Fresno | CA | $555,754
Los Angeles Homeless Services Authority | CA | $71,796
Los Angeles Homeless Services Authority | CA | $161,815
Los Angeles Homeless Services Authority | CA | $140,300
Los Angeles Homeless Services Authority | CA | $157,436
County of Sacramento | CA | $154,110
County of Kern Department of Mental Health Services | CA | $82,050
Los Angeles Homeless Services Authority | CA | $362,250
Solano County Health and Social Services | CA | $109,925
Housing Authority City of Fresno | CA | $2,155,440
Domestic Violence Solutions for Santa Barbara County | CA | $76,219
Solano County Health and Social Services | CA | $199,246
Catholic Charities, Diocese of San Diego | CA | $33,333
Filipino American Service Group, Inc | CA | $190,449
Step Up on Second Street, Inc | CA | $126,728
Mercy House Living Centers | CA | $90,240
Mercy House Living Centers | CA | $118,000
The Salvation Army | CA | $430,824
Testimonial Community Love Center | CA | $136,887
Emergency Housing Consortium of Santa Clara County | CA | $262,723
Emergency Housing Consortium of Santa Clara County | CA | $93,866
Emergency Housing Consortium of Santa Clara County | CA | $102,462
United States Veterans Initiative | CA | $289,795
Center for Human Services | CA | $232,500
St. Joseph's Family Center | CA | $291,770
Ford Street Project | CA | $73,816
United Friends of the Children | CA | $295,657
Jewish Family Service of Los Angeles | CA | $180,498
Northern Valley Catholic Social Service, Inc | CA | $129,868
Ocean Park Community Center | CA | $305,938
Interim, Inc | CA | $97,407
Interim, Inc | CA | $138,168
1736 Family Crisis Center | CA | $521,823
County of Los Angeles, Housing Authority | CA | $1,667,520
County of Los Angeles, Housing Authority | CA | $312,252
County of Los Angeles, Housing Authority | CA | $516,924
County of Los Angeles, Housing Authority | CA | $625,800
County of Los Angeles, Housing Authority | CA | $326,292
St. Joseph's Family Center | CA | $364,804
The Salvation Army, a California Corporation | CA | $204,637
PATH (People Assisting the Homeless) | CA | $114,529
City of Pomona | CA | $162,154
YMCA of Metropolitan Los Angeles | CA | $177,486
The Salvation Army, a California corporation | CA | $221,485
The Salvation Army, a California corporation | CA | $172,089
The Salvation Army, a California corporation | CA | $174,133
The Salvation Army, a California corporation | CA | $169,948
The Salvation Army, a California corporation | CA | $360,500
The Salvation Army, a California corporation | CA | $276,039
The Salvation Army, a California corporation | CA | $218,221
The Salvation Army, a California corporation | CA | $360,500
YMCA of San Diego County | CA | $178,739
Rainbow Services, Ltd | CA | $255,012
The John Henry Foundation | CA | $146,369
Caminar | CA | $25,000
Housing Authority of the County of Kern | CA | $254,484
Faithworks Community Coalition | CA | $17,823
Human Options, Inc | CA | $30,793
Harbor Interfaith Services, Inc | CA | $127,673
Human Options, Inc | CA | $111,122
Southern California Alcohol and Drug Programs, Inc | CA | $382,527
Center Point, Inc | CA | $479,316
Center Point, Inc | CA | $42,210
Fairfield Suisun Community Action Council | CA | $186,290
STAND! Against Domestic Violence | CA | $75,571
Mental Health Association of San Mateo County | CA | $73,271
Mental Health Association of San Mateo County | CA | $39,530
Center for Human Rights and Constitutional Law, Inc | CA | $134,943
County of Sacramento | CA | $497,726
Shelter Outreach Plus | CA | $115,999
County of Sacramento | CA | $89,932
County of Sacramento | CA | $4,100,988
City of Santa Monica | CA | $491,791
City of Pomona Housing Authority | CA | $717,084
Venice Community Housing Corporation | CA | $81,170
Champions Recovery Alternative Programs, Inc | CA | $212,628
County of Sacramento | CA | $114,696
County of Sacramento | CA | $499,037
County of Sacramento | CA | $187,714
County of Sacramento | CA | $312,138
County of Sacramento | CA | $655,440
County of Los Angeles, Housing Authority | CA | $173,568
County of Sacramento | CA | $110,250
Venice Family Clinic | CA | $284,842
County of Sacramento | CA | $259,830
County of Sacramento | CA | $81,746
County of Sacramento | CA | $362,022
County of Sacramento | CA | $327,869
County of Sacramento | CA | $256,032
County of Sacramento | CA | $275,838
County of Sacramento | CA | $403,435
County of Sacramento | CA | $316,033
County of Sacramento | CA | $102,107
County of Sacramento | CA | $226,000
County of Sacramento | CA | $3,061,636
County of Sacramento | CA | $99,959
County of Sacramento | CA | $128,148
Serra Ancillary Care Corp dba The Serra Project | CA | $303,173
Amador-Tuolumne Community Action Agency | CA | $39,900
Caminar | CA | $48,547
The Salvation Army | CA | $158,521
County of Los Angeles Department of Children and Family Services | CA | $89,062
County of Los Angeles Department of Children and Family Services | CA | $274,400
County of Los Angeles Department of Children and Family Services | CA | $384,676
County of Los Angeles Department of Children and Family Services | CA | $197,621
The Salvation Army, a California Corporation | CA | $86,437
Bethany Services dba Bakersfield Homeless Center | CA | $176,881
Bethany Services dba Bakersfield Homeless Center | CA | $269,408
NAMI Tuolumne County | CA | $30,957
NAMI Tuolumne County | CA | $91,282
Shelter Outreach Plus | CA | $166,599
County of Sacramento | CA | $123,496
Shelter Outreach Plus | CA | $121,833
Serra Ancillary Care Corp dba The Serra Project | CA | $326,848
Single Room Occupancy Housing Corporation | CA | $92,610
Single Room Occupancy Housing Corporation | CA | $279,510
Single Room Occupancy Housing Corporation | CA | $369,601
County of Sacramento | CA | $178,849
Beyond Shelter | CA | $141,911
Citizens Housing Corporation | CA | $79,240
County of Sacramento | CA | $229,204
L.A. Family Housing | CA | $355,664
L.A. Family Housing | CA | $363,659
Shields For Families | CA | $90,395
The Salvation Army, a California Corporation | CA | $83,137
County of Los Angeles, Housing Authority | CA | $2,765,148
San Diego Youth & Community Services | CA | $87,571
Pasadena Community Development Commission | CA | $106,095
Pasadena Community Development Commission | CA | $122,097
Pasadena Community Development Commission | CA | $608,688
Pasadena Community Development Commission | CA | $43,724
Pasadena Community Development Commission | CA | $137,754
City of Santa Monica Housing Authority | CA | $1,540,476
City of Santa Monica Housing Authority | CA | $97,632
City of Santa Monica Housing Authority | CA | $1,635,000
Pasadena Community Development Commission | CA | $235,695
Yolo Community Care Continuum | CA | $84,423
Su Casa Domestic Abuse Network | CA | $52,463
Placer County Health and Human Services Adult System of Care | CA | $299,927
Pasadena Community Development Commission | CA | $163,700
City of Glendale/Glendale Housing Authority | CA | $21,420
Pasadena Community Development Commission | CA | $121,404
San Joaquin County | CA | $524,116
Pasadena Community Development Commission | CA | $155,416
Pasadena Community Development Commission | CA | $108,480
Interfaith Shelter Network, Inc | CA | $61,134
Interfaith Shelter Network, Inc | CA | $24,780
City of Glendale/Glendale Housing Authority | CA | $185,425
City of Glendale/Glendale Housing Authority | CA | $753,330
City of Glendale/Glendale Housing Authority | CA | $153,802
City of Glendale/Glendale Housing Authority | CA | $181,966
City of Glendale/Glendale Housing Authority | CA | $217,292
OC Partnership | CA | $57,043
OC Partnership | CA | $433,263
PATH (People Assisting the Homeless) | CA | $209,161
Housing for Independent People | CA | $136,897
San Francisco Network Ministries Housing Corporation | CA | $70,749
The City of Oakland | CA | $245,420
Los Angeles Homeless Services Authority | CA | $246,780
The City of Oakland | CA | $259,824
The City of Oakland | CA | $699,770
American Family Housing | CA | $630,958
American Family Housing | CA | $572,553
Thomas House Temporary Shelter | CA | $30,799
Thomas House Temporary Shelter | CA | $57,034
Serving People In Need, Inc | CA | $806,415
South County Outreach formerly Saddleback Community Outreach | CA | $25,034
South County Outreach formerly Saddleback Community Outreach | CA | $25,157
South County Outreach formerly Saddleback Community Outreach | CA | $175,959
San Joaquin County | CA | $463,190
Crisis House, Inc | CA | $189,081
San Joaquin County | CA | $96,698
Santa Barbara County—ADMHS | CA | $115,315
Community Development Commission of Mendocino County | CA | $45,120
Community Development Commission of Mendocino County | CA | $1,334,520
Housing Authority of the County of Marin | CA | $836,292
Townspeople | CA | $400,000
Volunteers of America Southwest CA | CA | $301,164
Volunteers of America Southwest CA | CA | $298,453
California Council for Veterans Affairs, Inc | CA | $136,216
San Joaquin County | CA | $1,628,304
San Joaquin County | CA | $379,488
San Joaquin County | CA | $433,389
San Joaquin County | CA | $730,577
City of Glendale/Glendale Housing Authority | CA | $115,968
Solano County Health and Social Services | CA | $102,317
City of Long Beach | CA | $52,209
City of Long Beach | CA | $378,202
City of Long Beach | CA | $285,838
Marin Abused Women's Services | CA | $55,642
Marin Abused Women's Services | CA | $64,540
City of Long Beach | CA | $241,279
City of Long Beach | CA | $256,340
City of Long Beach | CA | $50,085
City of Long Beach | CA | $45,178
City of Long Beach | CA | $50,017
City of Long Beach | CA | $132,884
City of Long Beach | CA | $182,128
City of Long Beach | CA | $102,379
City of Glendale/Glendale Housing Authority | CA | $93,000
City of Long Beach | CA | $650,823
City of Long Beach | CA | $327,000
City of Long Beach | CA | $88,299
City of Long Beach | CA | $165,122
City of Long Beach | CA | $196,623
City of Long Beach | CA | $284,097
City of Long Beach | CA | $46,998
City of Long Beach | CA | $351,508
City of Long Beach | CA | $102,363
City of Long Beach | CA | $105,870
City of Long Beach | CA | $220,638
Anaheim Supportive Housing for Senior Adults, Inc | CA | $139,020
PATH (People Assisting the Homeless) | CA | $100,275
Building Opportunities for Self-Sufficiency | CA | $114,997
City of Long Beach | CA | $222,721
Merced County Community Action Board | CA | $81,163
Weingart Center Association, Inc | CA | $170,760
Weingart Center Association, Inc | CA | $314,478
City of Glendale/Glendale Housing Authority | CA | $100,548
City of Glendale/Glendale Housing Authority | CA | $158,496
City of Glendale/Glendale Housing Authority | CA | $148,156
Fullerton Interfaith Emergency Service | CA | $252,000
Redwood Community Action Agency | CA | $38,359
Redwood Community Action Agency | CA | $118,074
San Jose Cathedral Foundation | CA | $46,036
San Jose Cathedral Foundation | CA | $97,368
YWCA of San Diego County | CA | $553,691
Catholic Charities of Santa Clara County | CA | $702,702
City of Long Beach | CA | $343,145
Catholic Charities of Santa Clara County | CA | $433,431
City of Long Beach | CA | $88,992
The Los Angeles Gay and Lesbian Community Services Center | CA | $367,493
Asian Pacific Women's Center | CA | $149,813
Interval House | CA | $73,268
City of Long Beach | CA | $367,278
City of Long Beach | CA | $244,998
City of Long Beach | CA | $218,639
City of Long Beach | CA | $102,327
City of Long Beach | CA | $78,120
City of Long Beach | CA | $54,120
Arcata House, Inc | CA | $108,844
Women's Transitional Living Center, Inc | CA | $149,119
Women's Transitional Living Center, Inc | CA | $84,167
South Central Health & Rehabilitation Program | CA | $224,759
Catholic Charities of Santa Clara County | CA | $501,800
InnVision the Way Home | CA | $172,135
Contra Costa Health Services | CA | $177,477
Contra Costa Health Services | CA | $513,028
Turning Point Community Programs | CA | $474,160
Stanislaus Community Assistance Project | CA | $570,052
Stanislaus Community Assistance Project | CA | $262,189
Los Angeles Homeless Services Authority | CA | $168,843
Community Action Partnership of Sonoma County | CA | $107,000
Housing Authority of the City of Calexico | CA | $80,994
InnVision the Way Home | CA | $348,831
InnVision the Way Home | CA | $38,530
Tarzana Treatment Centers, Inc | CA | $188,491
SHELTER, Inc. of Contra Costa County | CA | $277,845
InnVision the Way Home | CA | $88,715
Contra Costa Health Services | CA | $158,041
InnVision the Way Home | CA | $228,335
InnVision the Way Home | CA | $140,741
InnVision the Way Home | CA | $108,408
InnVision the Way Home | CA | $74,266
InnVision the Way Home | CA | $193,719
InnVision the Way Home | CA | $74,897
Inland Counties Legal Services, Inc | CA | $38,395
Community HousingWorks | CA | $104,559
Santa Clara County Department of Mental Health | CA | $514,196
Housing Authority of the County of Monterey | CA | $367,867
Affordable Housing Associates | CA | $36,665
Homeless Services Center | CA | $142,591
InnVision the Way Home | CA | $131,928
St. Vincent de Paul Village, Inc | CA | $630,256
Alameda County | CA | $266,832
SHELTER, Inc. of Contra Costa County | CA | $80,797
SHELTER, Inc. of Contra Costa County | CA | $407,333
Cloverdale Community Outreach | CA | $132,643
Regional Task Force on the Homeless Inc | CA | $222,007
Regional Task Force on the Homeless Inc | CA | $89,798
Regional Task Force on the Homeless Inc | CA | $108,914
Santa Cruz Community Counseling Center | CA | $41,540
Santa Cruz Community Counseling Center | CA | $15,353
Kings United Way | CA | $305,760
Community Resource Center | CA | $55,000
Toby's House | CA | $119,545
Catholic Charities of the Diocese of Santa Rosa | CA | $80,424
St. Vincent de Paul Village, Inc | CA | $513,712
Catholic Charities of the Diocese of Santa Rosa | CA | $74,963
St. Vincent de Paul Village, Inc | CA | $897,485
St. Vincent de Paul Village, Inc | CA | $1,717,496
St. Vincent de Paul Village, Inc | CA | $402,182
Greater Bakersfield Legal Assistance, Inc | CA | $120,044
St. Vincent de Paul Society of San Francisco | CA | $132,544
Tri-City Homeless Coalition | CA | $529,612
Housing Authority of the City of Santa Barbara | CA | $583,008
Community Support Network | CA | $40,842
YWCA Sonoma County | CA | $52,500
Contra Costa Health Services | CA | $510,971
Contra Costa Health Services | CA | $290,355
Resources for Community Development | CA | $70,187
Catholic Charities CYO | CA | $140,267
Housing Authority of the City of Los Angeles (HACLA) | CA | $440,040
City of Fremont | CA | $269,790
Housing Authority of the City of Los Angeles (HACLA) | CA | $343,260
Housing Authority of the City of Los Angeles (HACLA) | CA | $1,417,320
Housing Authority of the City of Los Angeles (HACLA) | CA | $141,648
Housing Authority of the City of Los Angeles (HACLA) | CA | $1,649,172
Housing Authority of the City of Los Angeles (HACLA) | CA | $267,048
Housing Authority of the City of Los Angeles (HACLA) | CA | $146,448
Housing Authority of the City of Los Angeles (HACLA) | CA | $209,280
Housing Authority of the City of Los Angeles (HACLA) | CA | $1,172,232
Housing Authority of the City of Los Angeles (HACLA) | CA | $1,263,744
Housing Authority of the City of Los Angeles (HACLA) | CA | $151,872
Housing Authority of the City of Los Angeles (HACLA) | CA | $216,960
Housing Authority of the City of Los Angeles (HACLA) | CA | $6,273,720
Housing Authority of the City of Los Angeles (HACLA) | CA | $286,728
The Association For Community Housing Solutions | CA | $73,500
Housing Authority of the City of Los Angeles (HACLA) | CA | $308,880
Housing Authority of the City of Los Angeles (HACLA) | CA | $2,237,400
Housing Authority of the City of Los Angeles (HACLA) | CA | $376,332
Housing Authority of the City of Los Angeles (HACLA) | CA | $310,524
Housing Authority of the City of Los Angeles (HACLA) | CA | $1,773,648
Housing Authority of the City of Los Angeles (HACLA) | CA | $686,520
Housing Authority of the City of Los Angeles (HACLA) | CA | $365,304
Alameda County | CA | $1,090,393
Alameda County | CA | $184,771
Alameda County | CA | $4,003,776
Los Angeles Youth Network | CA | $40,528
Alameda County | CA | $952,128
Housing Authority of the City of Los Angeles (HACLA) | CA | $216,960
Community Action Agency of Butte County, Inc | CA | $45,880
Placer Women's Center dba PEACE for Families | CA | $217,898
Resources for Community Development | CA | $55,392
Many Mansions a California Non Profit Corporation | CA | $60,952
Many Mansions a California Non Profit Corporation | CA | $39,998
Many Mansions a California Non Profit Corporation | CA | $61,600
El Dorado County Human Services-Community Services Division | CA | $13,339
Many Mansions a California Non Profit Corporation | CA | $59,911
Fred Finch Children's Home | CA | $651,460
City of Berkeley | CA | $117,648
City of Berkeley | CA | $1,814,400
City of Berkeley | CA | $114,468
The Ark of Refuge, Inc | CA | $208,502
Housing Authority of the City of Los Angeles (HACLA) | CA | $986,100
Community Action Agency of Butte County, Inc | CA | $53,946
Resources for Community Development | CA | $75,528
Community Action Agency of Butte County, Inc | CA | $105,000
Community Housing Partnership | CA | $157,490
City and County of San Francisco | CA | $508,873
Alameda County | CA | $44,122
Alameda County | CA | $687,732
Alameda County | CA | $157,189
Alameda County | CA | $181,335
Alameda County | CA | $384,582
Alameda County | CA | $130,164
Alameda County | CA | $79,800
City and County of San Francisco | CA | $684,014
Alameda County | CA | $192,266
Alameda County | CA | $42,170
City and County of San Francisco | CA | $47,700
San Diego Housing Commission | CA | $208,896
City and County of San Francisco | CA | $303,572
City and County of San Francisco | CA | $353,232
City and County of San Francisco | CA | $776,640
City and County of San Francisco | CA | $240,685
City and County of San Francisco | CA | $234,609
City and County of San Francisco | CA | $132,117
San Diego Housing Commission | CA | $178,488
City and County of San Francisco | CA | $194,160
City and County of San Francisco | CA | $179,026
City and County of San Francisco | CA | $509,076
SHELTER, Inc. of Contra Costa County | CA | $692,099
City and County of San Francisco | CA | $381,721
San Diego Housing Commission | CA | $186,120
City and County of San Francisco | CA | $77,616
City and County of San Francisco | CA | $954,809
City and County of San Francisco | CA | $760,152
City and County of San Francisco | CA | $97,080
City and County of San Francisco | CA | $1,173,199
City and County of San Francisco | CA | $135,219
City and County of San Francisco | CA | $174,744
City and County of San Francisco | CA | $359,777
City and County of San Francisco | CA | $563,064
City and County of San Francisco | CA | $73,008
City and County of San Francisco | CA | $145,620
City and County of San Francisco | CA | $75,588
City and County of San Francisco | CA | $284,592
Pacific Clinics | CA | $960,122
Veterans Transition Center | CA | $79,420
Veterans Transition Center | CA | $194,525
Community Housing and Shelter Services | CA | $264,741
Swords to Plowshares Veterans Rights Organization | CA | $254,335
Swords to Plowshares Veterans Rights Organization | CA | $232,623
Poverello House | CA | $708,338
Inland Behavioral and Health Services, Inc | CA | $367,063
Housing Authority of the County of Santa Cruz | CA | $190,320
Housing Authority of the County of Santa Cruz | CA | $56,000
Homeward Bound of Marin | CA | $30,789
Homeward Bound of Marin | CA | $50,148
Homeward Bound of Marin | CA | $326,216
City and County of San Francisco | CA | $873,720
San Diego Housing Commission | CA | $350,400
City and County of San Francisco | CA | $75,407
Bill Wilson Center | CA | $554,340
Bill Wilson Center | CA | $303,562
City and County of San Francisco | CA | $1,099,560
San Diego Housing Commission | CA | $284,076
San Diego Housing Commission | CA | $189,504
City and County of San Francisco | CA | $2,000,000
San Diego Housing Commission | CA | $136,128
City and County of San Francisco | CA | $331,020
Lompoc Housing and Community Development Corporation | CA | $36,565
Lompoc Housing and Community Development Corporation | CA | $49,875
San Diego Housing Commission | CA | $184,320
City and County of San Francisco | CA | $799,368
Homeward Bound of Marin | CA | $197,531
Berkeley Food and Housing Project | CA | $242,217
City and County of San Francisco | CA | $180,074
Buckelew Programs | CA | $170,040
Buckelew Programs | CA | $27,476
Buckelew Programs | CA | $196,698
Buckelew Programs | CA | $164,490
Bridge Focus Inc | CA | $99,225
West Valley Community Services of Santa Clara County, Inc | CA | $82,533
Santa Barbara County | CA | $160,586
County of Santa Cruz Health Services Agency | CA | $363,625
South County Housing Corporation | CA | $92,011
Transitional Living and Community Support, Inc | CA | $256,849
Transitional Living and Community Support, Inc | CA | $305,666
Santa Barbara County | CA | $102,810
Transitional Living and Community Support, Inc | CA | $246,855
Santa Barbara County | CA | $17,850
Berkeley Food and Housing Project | CA | $253,627
Berkeley Food and Housing Project | CA | $141,019
A Community of Friends | CA | $175,000
A Community of Friends | CA | $52,250
Penny Lane Centers | CA | $174,969
A Community of Friends | CA | $213,003
LifeLong Medical Care | CA | $539,398
Victor Valley Domestic Violence, Inc | CA | $283,537
Fresno County Economic Opportunities | CA | $577,956
Sonoma County Community Development Commission | CA | $448,560
Sonoma County Community Development Commission | CA | $216,432
Sonoma County Community Development Commission | CA | $135,329
Transitional Living and Community Support, Inc | CA | $75,142
Housing Authority of the County of San Mateo | CA | $1,398,288
Community Action Partnership of Sonoma County | CA | $40,624
City and County of San Francisco | CA | $114,640
City and County of San Francisco | CA | $127,185
City and County of San Francisco | CA | $636,564
City and County of San Francisco | CA | $835,608
City and County of San Francisco | CA | $576,984
City and County of San Francisco | CA | $355,787
Turning Point of Central California, Inc | CA | $74,602
Covenant House California | CA | $129,736
Turning Point of Central California, Inc | CA | $173,564
Housing Authority of the County of Santa Cruz | CA | $62,040
New Economics for Women | CA | $155,254
Upward Bound House | CA | $281,424
Housing Authority of the County of San Mateo | CA | $763,433
City and County of San Francisco | CA | $270,923
Housing Authority of the County of San Mateo | CA | $944,928
Santa Clara Unified School District | CA | $200,534
Colette's Children Home, Inc | CA | $157,278
Coalition of Homeless Services Providers | CA | $70,875
Colette's Children Home, Inc | CA | $127,309
Community Technology Alliance | CA | $303,716
Compass Community Services | CA | $295,006
United Way of Ventura County | CA | $44,541
United Way of Ventura County | CA | $44,541
Community Awareness & Treatment Services, Inc | CA | $348,153
Family Supportive Housing, Inc | CA | $211,231
Family Supportive Housing, Inc | CA | $201,927
North County Serenity House | CA | $44,207
City of Tulare | CA | $185,100
Larkin Street Youth Services | CA | $110,624
Glenn County Human Resource Agency | CA | $111,173
Humboldt, County of, DBA—Dept. of Health and Human Services | CA | $82,353
Humboldt, County of, DBA—Dept. of Health and Human Services | CA | $53,954
County of Tuolumne | CA | $59,234
YWCA of Central Orange County | CA | $93,880
Mendocino County Health and Human Services Agency | CA | $200,412
Housing Authority of the County of Santa Clara | CA | $2,407,056
Bonita House, Inc | CA | $33,080
Shelter Network of San Mateo County | CA | $381,471
County of Napa | CA | $125,794
Transition House | CA | $61,763
Transition House | CA | $55,792
Veterans First | CA | $254,804
Shelter Network of San Mateo County | CA | $52,500
Shelter Network of San Mateo County | CA | $131,250
Shelter Network of San Mateo County | CA | $225,750
Shelter Network of San Mateo County | CA | $131,250
Shelter Network of San Mateo County | CA | $494,788
Anka Behavioral Health Services | CA | $105,311
Transitions-Mental Health Association | CA | $55,000
Housing Authority of Contra Costa County | CA | $262,320
County of Riverside | CA | $136,166
County of Riverside | CA | $325,277
County of Riverside | CA | $350,857
County of Riverside | CA | $235,620
City of Davis | CA | $106,752
County of Riverside | CA | $42,192
County of Riverside | CA | $380,448
County of Riverside | CA | $72,654
San Luis Obispo County | CA | $60,000
Veterans First | CA | $159,700
Housing Authority of Contra Costa County | CA | $2,749,500
Anka Behavioral Health Services | CA | $494,271
Anka Behavioral Health Services | CA | $155,027
Economic Opportunity Commission of San Luis Obispo County, I | CA | $48,091
Economic Opportunity Commission of San Luis Obispo County, I | CA | $477,246
Economic Opportunity Commission of San Luis Obispo County, I | CA | $211,395
County of Napa | CA | $13,500
County of Napa | CA | $19,950
Housing Authority of Contra Costa County | CA | $393,480
Colorado Coalition for the Homeless | CO | $146,856
Greeley Center for Independence, Inc | CO | $30,893
Colorado Coalition for the Homeless | CO | $73,821
Colorado Coalition for the Homeless | CO | $40,320
Colorado Coalition for the Homeless | CO | $117,967
Colorado Coalition for the Homeless | CO | $19,416
Housing Solutions for the Southwest | CO | $19,008
Colorado Coalition for the Homeless | CO | $182,725
Colorado Coalition for the Homeless | CO | $132,363
Family Tree, Inc | CO | $80,085
Third Way Center, Inc | CO | $116,538
Colorado Coalition for the Homeless | CO | $78,500
Colorado Coalition for the Homeless | CO | $132,768
Colorado Coalition for the Homeless | CO | $289,760
Colorado Coalition for the Homeless | CO | $85,521
Colorado Coalition for the Homeless | CO | $114,994
Grand Valley Catholic Outreach, Inc | CO | $97,151
The Housing Authority City Boulder dba Boulder Housing Partner | CO | $29,903
The Salvation Army, a California Corporation | CO | $19,050
Denver Department of Human Services | CO | $88,848
Denver Department of Human Services | CO | $66,672
Denver Department of Human Services | CO | $301,812
Denver Department of Human Services | CO | $83,340
Denver Department of Human Services | CO | $842,484
Denver Department of Human Services | CO | $152,064
Denver Department of Human Services | CO | $422,928
Denver Department of Human Services | CO | $168,960
Denver Department of Human Services | CO | $101,376
City of Colorado Springs | CO | $66,267
Denver Department of Human Services | CO | $346,368
Posada, Inc | CO | $249,900
Colorado Coalition for the Homeless | CO | $413,642
Colorado Springs Housing Authority | CO | $98,280
Volunteers of America Colorado Branch | CO | $166,245
The Salvation Army, a California Corporation | CO | $107,000
North Range Behavioral Health | CO | $109,543
Community Housing Services, Inc | CO | $970,595
Colorado Department of Local Affairs | CO | $19,151
Pikes Peak United Way | CO | $141,776
Pikes Peak United Way | CO | $55,000
Colorado Department of Human Services | CO | $85,872
Colorado Department of Human Services | CO | $341,335
Colorado Department of Human Services | CO | $2,050,944
Colorado Department of Human Services | CO | $273,528
Colorado Department of Human Services | CO | $106,200
Urban Peak Denver | CO | $104,160
Volunteers of America Colorado Branch | CO | $514,783
Denver Department of Human Services | CO | $323,772
Partners In Housing, Inc | CO | $50,710
Colorado Coalition for the Homeless | CO | $1,578,753
Colorado Coalition for the Homeless | CO | $457,654
Colorado Coalition for the Homeless | CO | $840,860
Colorado Coalition for the Homeless | CO | $276,339
Colorado Coalition for the Homeless | CO | $319,609
Partners In Housing, Inc | CO | $88,784
Colorado Coalition for the Homeless | CO | $48,549
Partners In Housing, Inc | CO | $32,510
Colorado Coalition for the Homeless | CO | $507,627
Partners In Housing, Inc | CO | $81,838
Colorado Coalition for the Homeless | CO | $479,236
Colorado Coalition for the Homeless | CO | $198,187
Colorado Coalition for the Homeless | CO | $107,439
Colorado Coalition for the Homeless | CO | $690,000
Colorado Coalition for the Homeless | CO | $108,293
Colorado Coalition for the Homeless | CO | $184,889
Colorado Coalition for the Homeless | CO | $91,065
Larimer Center for Mental Health | CO | $54,827
Colorado Coalition for the Homeless | CO | $84,135
Colorado Coalition for the Homeless | CO | $109,948
Colorado Coalition for the Homeless | CO | $137,292
Colorado Coalition for the Homeless | CO | $619,334
Colorado Coalition for the Homeless | CO | $60,529
Immaculate Conception Shelter & Housing Corporation | CT | $99,993
Mercy Housing and Shelter Corporation | CT | $241,190
Mid Fairfield AIDS Project, Inc | CT | $49,496
My Sisters' Place, Inc | CT | $249,999
United Way of Norwalk & Wilton | CT | $113,966
Family and Children's Agency | CT | $146,177
City of Bridgeport | CT | $173,520
Regional Network of Programs, Inc | CT | $265,768
CT Department of Mental Health and Addiction Services | CT | $337,368
New Opportunities, Inc | CT | $40,485
Friendship Service Center of New Britain, Inc | CT | $96,272
Catholic Charities of Fairfield County, Inc | CT | $381,026
Immaculate Conception Shelter & Housing Corporation | CT | $233,579
Immaculate Conception Shelter & Housing Corporation | CT | $268,894
City of Bridgeport | CT | $144,756
City of Bridgeport | CT | $139,857
New Opportunities, Inc | CT | $384,559
ReFocus Outreach Ministry, Inc | CT | $189,825
City of Bridgeport | CT | $202,514
Emerge, Inc | CT | $44,890
CT Department of Mental Health and Addiction Services | CT | $1,544,256
CT Department of Mental Health and Addiction Services | CT | $222,900
CT Department of Mental Health and Addiction Services | CT | $213,380
CT Department of Mental Health and Addiction Services | CT | $250,500
CT Department of Mental Health and Addiction Services | CT | $187,992
Mid Fairfield AIDS Project, Inc | CT | $123,200
Pathways, Inc | CT | $39,676
Shelter for the Homeless, Inc | CT | $84,051
CT Department of Mental Health and Addiction Services | CT | $112,704
Connecticut Coalition to End Homelessness | CT | $50,000
CT Department of Mental Health and Addiction Services | CT | $270,940
CT Department of Mental Health and Addiction Services | CT | $76,356
St. Philip House, Inc | CT | $165,569
Windham Regional Community Council | CT | $279,758
CT Department of Mental Health and Addiction Services | CT | $110,292
CT Department of Mental Health and Addiction Services | CT | $105,696
Connecticut Women's Consortium, Inc | CT | $173,249
Christian Community Action, Inc | CT | $200,025
American Red Cross Middlesex Central CT Chapter | CT | $135,640
CT Department of Mental Health and Addiction Services | CT | $237,344
CT Department of Mental Health and Addiction Services | CT | $49,800
CT Department of Mental Health and Addiction Services | CT | $414,840
St. Vincent DePaul Place, Middletown, Inc | CT | $23,789
Friendship Service Center of New Britain, Inc | CT | $229,818
St. Luke's Community Services, Inc | CT | $398,715
CT Department of Mental Health and Addiction Services | CT | $446,160
United Way of Coastal Fairfield County | CT | $39,999
CT Department of Mental Health and Addiction Services | CT | $200,400
Housing Authority of the City of Danbury | CT | $142,320
Friendship Service Center of New Britain, Inc | CT | $210,007
Housing Authority of City of Torrington | CT | $70,920
Friendship Service Center of New Britain, Inc | CT | $48,785
CT Department of Mental Health and Addiction Services | CT | $120,744
Connecticut Coalition to End Homelessness | CT | $63,329
Birmingham Group Health Services, Inc | CT | $137,659
CT Department of Mental Health and Addiction Services | CT | $184,044
Chrysalis Center, Inc | CT | $211,747
Torrington Community Housing Corporation | CT | $95,736
Thames River Community Service Inc | CT | $195,983
Friendship Service Center of New Britain, Inc | CT | $107,311
CT Department of Mental Health and Addiction Services | CT | $334,284
CT Department of Mental Health and Addiction Services | CT | $138,552
CT Department of Mental Health and Addiction Services | CT | $132,360
Alliance for Living, Inc | CT | $75,705
CT Department of Mental Health and Addiction Services | CT | $1,141,680
CT Department of Mental Health and Addiction Services | CT | $167,280
CT Department of Mental Health and Addiction Services | CT | $78,588
CT Department of Mental Health and Addiction Services | CT | $169,068
Liberation Programs, Inc | CT | $179,626
Hall-Brooke Behavioral Health Services | CT | $746,102
CT Department of Mental Health and Addiction Services | CT | $208,404
InterCommunity Mental Health Group Inc | CT | $71,015
St. Vincent DePaul Mission of Waterbury, Inc | CT | $301,051
InterCommunity Mental Health Group Inc | CT | $155,015
CT Department of Mental Health and Addiction Services | CT | $100,887
Operation Hope of Fairfield, Inc | CT | $191,711
CTE, Inc | CT | $132,882
The Thames Valley Council for Community Action, Inc | CT | $673,047
Applied Behavioral Rehabilitation Institute, Inc | CT | $99,878
Holy Family Home and Shelter, Inc | CT | $125,631
Liberty Community Services, Inc | CT | $292,500
Liberty Community Services, Inc | CT | $1,049,463
Young Women's Christian Association of the Hartford Region | CT | $166,667
South Park Inn, Inc | CT | $284,289
CT Department of Mental Health and Addiction Services | CT | $199,068
Hall-Brooke Behavioral Health Services | CT | $96,366
CT Department of Mental Health and Addiction Services | CT | $150,300
CT Department of Mental Health and Addiction Services | CT | $71,160
CT Department of Mental Health and Addiction Services | CT | $453,204
Community Health Resources | CT | $111,267
Bethsaida Community, Inc | CT | $87,528
Bethsaida Community, Inc | CT | $86,984
CT Department of Mental Health and Addiction Services | CT | $416,864
Mutual Housing Association of Southwestern Connecticut, Inc | CT | $165,900
Harbor Health Services, Inc | CT | $63,548
Community Renewal Team, Inc | CT | $212,611
CT Department of Mental Health and Addiction Services | CT | $1,473,408
St. Vincent DePaul Mission of Bristol, Inc | CT | $27,019
Youth Continuum | CT | $304,160
Hall-Brooke Behavioral Health Services | CT | $309,030
Housing Authority of the City of Waterbury | CT | $34,860
Women's Center of Southeastern Connecticut, Inc | CT | $50,584
Community Renewal Team, Inc | CT | $369,918
Housing Authority of the City of Waterbury | CT | $201,936
St. Vincent DePaul Mission of Bristol, Inc | CT | $321,830
Harbor Health Services, Inc | CT | $16,462
Housing Authority of the City of Waterbury | CT | $230,712
Community Mental Health Affiliates | CT | $197,940
Housing Authority City of Norwalk | CT | $163,440
Columbus House, Inc | CT | $30,902
Micah Housing, Inc | CT | $73,909
Micah Housing, Inc | CT | $73,501
CT Department of Mental Health and Addiction Services | CT | $187,992
Laurel House, Inc | CT | $19,703
Housing Authority of the City of Waterbury | CT | $77,040
The Salvation Army | CT | $73,150
Housing Authority of the City of Waterbury | CT | $90,240
Community Renewal Team, Inc | CT | $55,860
Norwalk Emergency Shelter, Inc | CT | $47,830
Laurel House, Inc | CT | $89,895
Laurel House, Inc | CT | $20,087
Community Renewal Team, Inc | CT | $475,913
United Way of Western Connecticut | CT | $49,999
Community Renewal Team, Inc | CT | $576,997
The Community Partnership for the Prevention of Homelessness | DC | $899,866
The Community Partnership for the Prevention of Homelessness | DC | $141,214
The Community Partnership for the Prevention of Homelessness | DC | $275,106
The Community Partnership for the Prevention of Homelessness | DC | $100,905
The Community Partnership for the Prevention of Homelessness | DC | $144,758
The Community Partnership for the Prevention of Homelessness | DC | $149,203
The Community Partnership for the Prevention of Homelessness | DC | $121,727
House of Ruth | DC | $84,383
Community Family Life Services, Inc | DC | $140,205
Transitional Housing Corporation | DC | $127,720
The Community Partnership for the Prevention of Homelessness | DC | $132,300
The Community Partnership for the Prevention of Homelessness | DC | $592,184
The Community Partnership for the Prevention of Homelessness | DC | $201,038
House of Ruth | DC | $114,586
The Community Partnership for the Prevention of Homelessness | DC | $102,199
House of Ruth | DC | $144,083
District of Columbia Department of Housing and Urban Develop | DC | $800,208
The Community Partnership for the Prevention of Homelessness | DC | $430,837
District of Columbia Department of Housing and Urban Develop | DC | $2,761,740
The Community Partnership for the Prevention of Homelessness | DC | $78,342
The Community Partnership for the Prevention of Homelessness | DC | $134,834
SOME, Inc | DC | $513,940
The Community Partnership for the Prevention of Homelessness | DC | $75,000
The Community Partnership for the Prevention of Homelessness | DC | $541,313
The Community Partnership for the Prevention of Homelessness | DC | $285,457
The Community Partnership for the Prevention of Homelessness | DC | $86,003
The Community Partnership for the Prevention of Homelessness | DC | $239,506
House of Ruth | DC | $321,806
SOME, Inc | DC | $101,333
The Community Partnership for the Prevention of Homelessness | DC | $165,819
Families Forward, Inc | DC | $234,862
Families Forward, Inc | DC | $207,041
Sasha Bruce Youthwork, Inc | DC | $189,057
The Community Partnership for the Prevention of Homelessness | DC | $232,879
The Community Partnership for the Prevention of Homelessness | DC | $245,421
The Community Partnership for the Prevention of Homelessness | DC | $261,004
The Salvation Army, a Georgia Corporation | DC | $475,935
The Community Partnership for the Prevention of Homelessness | DC | $189,000
Community Connections, Inc | DC | $98,751
Sasha Bruce Youthwork, Inc | DC | $129,593
Catholic Charities of the Archdiocese of Washington DC | DC | $171,840
Sasha Bruce Youthwork, Inc | DC | $67,628
Coalition for the Homeless | DC | $171,453
District of Columbia Department of Health HIV/AIDS Administration | DC | $287,592
District of Columbia Department of Health HIV/AIDS Administration | DC | $217,152
The Community Partnership for the Prevention of Homelessness | DC | $148,924
Community Connections, Inc | DC | $106,863
The Community Partnership for the Prevention of Homelessness | DC | $350,173
The Community Partnership for the Prevention of Homelessness | DC | $150,000
The Community Partnership for the Prevention of Homelessness | DC | $211,621
Pathways to Housing DC | DC | $514,025
The Community Partnership for the Prevention of Homelessness | DC | $109,725
The Community Partnership for the Prevention of Homelessness | DC | $143,742
The Community Partnership for the Prevention of Homelessness | DC | $181,025
The Community Partnership for the Prevention of Homelessness | DC | $141,366
The Community Partnership for the Prevention of Homelessness | DC | $110,674
The Community Partnership for the Prevention of Homelessness | DC | $204,747
Hannah House, Inc | DC | $148,115
The Community Partnership for the Prevention of Homelessness | DC | $851,548
The Community Partnership for the Prevention of Homelessness | DC | $78,750
SOME, Inc | DC | $323,673
The Community Partnership for the Prevention of Homelessness | DC | $1,866,274
Delaware | DE | $1,276,317
Connections CSP, Inc | DE | $249,240
Connections CSP, Inc | DE | $212,970
Connections CSP, Inc | DE | $149,429
The Ministry of Caring Inc | DE | $129,874
The Ministry of Caring Inc | DE | $647,697
Gateway House, Inc | DE | $67,334
Connections CSP, Inc | DE | $152,421
Delaware | DE | $26,596
West End Neighborhood House Inc | DE | $252,207
YWCA Delaware Inc | DE | $323,967
The Ministry of Caring Inc | DE | $66,467
The Ministry of Caring Inc | DE | $200,408
Connections CSP, Inc | DE | $399,128
The Ministry of Caring Inc | DE | $145,034
Connections CSP, Inc | DE | $291,161
The Ministry of Caring Inc | DE | $374,174
The Ministry of Caring Inc | DE | $212,357
The Ministry of Caring Inc | DE | $45,612
Delaware | DE | $128,049
Adopt-A-Family of the Palm Beaches, Inc | FL | $207,038
Miami-Dade County | FL | $460,236
Miami-Dade County | FL | $219,943
Miami-Dade County | FL | $363,478
Homeless Services Network of Central Florida, Inc | FL | $92,302
Homeless Services Network of Central Florida, Inc | FL | $61,950
Miami-Dade County | FL | $40,533
Homeless Services Network of Central Florida, Inc | FL | $127,840
Miami-Dade County | FL | $118,393
Miami-Dade County | FL | $63,993
Miami-Dade County | FL | $349,770
Miami-Dade County | FL | $343,080
Miami-Dade County | FL | $1,303,680
Volunteers of America of Florida, Inc | FL | $217,549
Miami-Dade County | FL | $113,661
The Lord's Place, Inc | FL | $283,023
Miami-Dade County | FL | $192,664
Miami-Dade County | FL | $555,720
Miami-Dade County | FL | $264,012
Miami-Dade County | FL | $434,828
Miami-Dade County | FL | $650,784
Miami-Dade County | FL | $528,062
Coalition For The Hungry and Homeless of Brevard County, Inc | FL | $230,453
Volunteers of America of Florida, Inc | FL | $68,612
Homeless Services Network of Central Florida, Inc | FL | $259,900
Homeless Services Network of Central Florida, Inc | FL | $517,942
Homeless Services Network of Central Florida, Inc | FL | $181,989
Homeless Services Network of Central Florida, Inc | FL | $124,388
Homeless Services Network of Central Florida, Inc | FL | $94,852
Family Renew Community, Inc | FL | $52,980
Coalition For The Hungry and Homeless of Brevard County, Inc | FL | $4,810
Family Renew Community, Inc | FL | $19,045
Miami-Dade County | FL | $377,223
Alpha House of Tampa, Inc | FL | $68,819
Alpha House of Tampa, Inc | FL | $77,219
Alpha House of Tampa, Inc | FL | $83,013
Coalition For The Hungry and Homeless of Brevard County, Inc | FL | $171,054
Coalition For The Hungry and Homeless of Brevard County, Inc | FL | $151,788
Coalition For The Hungry and Homeless of Brevard County, Inc | FL | $137,327
Miami-Dade County | FL | $149,891
Volunteers of America of Florida, Inc | FL | $57,177
Adopt-A-Family of the Palm Beaches, Inc | FL | $207,811
Highlands County Coalition for the Homeless, Inc | FL | $39,309
The Salvation Army, a Georgia Corporation | FL | $127,780
Homeless Coalition of Polk, Inc | FL | $116,531
Homeless Services Network of Central Florida, Inc | FL | $243,898
Collier County Board of County Commissioners | FL | $113,000
Punta Gorda Housing Authority | FL | $105,456
Volunteers of America of Florida, Inc | FL | $698,113
The Lord's Place, Inc | FL | $182,984
Volunteers of America of Florida, Inc | FL | $344,110
Volunteers of America of Florida, Inc | FL | $382,628
Volunteers of America of Florida, Inc | FL | $358,313
Homeless Services Network of Central Florida, Inc | FL | $1,116,127
Homeless Services Network of Central Florida, Inc | FL | $240,597
The Salvation Army, a Georgia Corporation for the Salvation Army | FL | $233,735
Homeless Services Network of Central Florida, Inc | FL | $278,427
Volunteers of America of Florida, Inc | FL | $354,510
Homeless Services Network of Central Florida, Inc | FL | $52,500
Lakeview Center Incorporated | FL | $158,701
Lakeview Center Incorporated | FL | $105,777
Lakeview Center Incorporated | FL | $307,887
Homeless Services Network of Central Florida, Inc | FL | $123,134
Homeless Services Network of Central Florida, Inc | FL | $78,352
Homeless Services Network of Central Florida, Inc | FL | $51,747
Escarosa Coalition on the Homeless, Inc | FL | $108,273
Big Bend Homeless Coalition, Inc | FL | $311,105
Homeless Services Network of Central Florida, Inc | FL | $84,630
Homeless Services Network of Central Florida, Inc | FL | $48,999
Homeless Services Network of Central Florida, Inc | FL | $42,105
Homeless Services Network of Central Florida, Inc | FL | $175,988
Homeless Services Network of Central Florida, Inc | FL | $210,000
Homeless Services Network of Central Florida, Inc | FL | $283,455
The Salvation Army, a Georgia Corporation | FL | $71,045
Agency for Community Treatment Services, Inc. (ACTS) | FL | $42,997
Agency for Community Treatment Services, Inc. (ACTS) | FL | $23,333
Homeless Services Network of Central Florida, Inc | FL | $37,203
Community Connections of Jacksonville, Inc | FL | $532,794
Miami-Dade County | FL | $125,000
Agency for Community Treatment Services, Inc. (ACTS) | FL | $403,035
Domestic Abuse Council, Inc | FL | $125,490
Domestic Abuse Council, Inc | FL | $70,498
Domestic Abuse Council, Inc | FL | $62,815
Talbot House Ministries of Lakeland, Inc | FL | $47,374
Talbot House Ministries of Lakeland, Inc | FL | $255,925
Homeless Services Network of Central Florida, Inc | FL | $168,345
Community Connections of Jacksonville, Inc | FL | $162,380
Homeless Services Network of Central Florida, Inc | FL | $123,553
Community Connections of Jacksonville, Inc | FL | $228,950
Serenity House of Volusia, Inc | FL | $171,920
Serenity House of Volusia, Inc | FL | $129,273
Serenity House of Volusia, Inc | FL | $191,250
Serenity House of Volusia, Inc | FL | $23,012
Serenity House of Volusia, Inc | FL | $60,249
Serenity House of Volusia, Inc | FL | $138,886
Loaves and Fishes Soup Kitchen, Inc | FL | $250,912
Homeless and Hunger Coalition of Northwest Florida, Inc | FL | $45,222
Coalition for the Homeless of Pasco County, Inc | FL | $13,856
Miami-Dade County | FL | $712,327
Seminole County Government | FL | $568,920
Agency for Community Treatment Services, Inc. (ACTS) | FL | $171,597
Mid Florida Homeless Coalition, Inc | FL | $78,143
Agency for Community Treatment Services, Inc. (ACTS) | FL | $93,181
Agency for Community Treatment Services, Inc. (ACTS) | FL | $50,400
Suncoast Partnership to End Homelessness, Inc | FL | $37,993
United Way of Suwannee Valley | FL | $32,146
Children's Home Society of Florida | FL | $129,156
Young Women's Christian Association of Tampa Bay, Inc | FL | $176,237
Coalition for the Homeless of Pasco County, Inc | FL | $19,950
Agency for Community Treatment Services, Inc. (ACTS) | FL | $169,270
Coalition for the Homeless of Pasco County, Inc | FL | $189,929
Orange County Housing and Community Development Division | FL | $134,472
Okaloosa Walton Homeless Continuum of Care/Opportunity, Inc | FL | $61,853
Monroe Association for Retarded Citizens, Inc | FL | $102,268
The Salvation Army, a Georgia Corporation, for The Salvation Army | FL | $170,432
Suncoast Partnership to End Homelessness, Inc | FL | $37,698
Boley Centers, Inc | FL | $77,363
Homeless Emergency Project, Inc | FL | $33,101
Homeless Emergency Project, Inc | FL | $71,000
Homeless Emergency Project, Inc | FL | $60,851
Community Action Stops Abuse, Inc | FL | $241,151
Religious Community Services, Inc | FL | $110,056
Boley Centers, Inc | FL | $294,918
Clara White Mission, Inc | FL | $132,039
Agency for Community Treatment Services, Inc. (ACTS) | FL | $48,153
Boley Centers, Inc | FL | $82,554
Volusia/Flagler County Coalition for the Homeless | FL | $85,286
Boley Centers, Inc | FL | $356,438
Boley Centers, Inc | FL | $253,779
Boley Centers, Inc | FL | $581,560
Boley Centers, Inc | FL | $375,768
Operation PAR, Inc | FL | $100,452
Brookwood Florida-Central, Inc | FL | $98,430
Volusia/Flagler County Coalition for the Homeless | FL | $54,566
Emergency Services and Homeless Coalition of Jacksonville | FL | $75,042
Boley Centers, Inc | FL | $133,929
Miami-Dade County | FL | $85,677
Tri-County Human Services, Inc | FL | $76,199
The Wilson House, Inc | FL | $96,337
Miami-Dade County | FL | $297,336
Miami-Dade County | FL | $177,066
United Way of Marion County | FL | $62,160
Miami-Dade County | FL | $46,964
Miami-Dade County | FL | $262,174
Miami-Dade County | FL | $534,832
Miami-Dade County | FL | $357,790
Miami-Dade County | FL | $437,868
Miami-Dade County | FL | $34,188
Mental Health Care Inc | FL | $199,500
Mental Health Care Inc | FL | $295,333
Mental Health Care Inc | FL | $839,791
Miami-Dade County | FL | $222,288
Miami-Dade County | FL | $339,721
Agency for Community Treatment Services, Inc. (ACTS) | FL | $133,334
Miami-Dade County | FL | $487,296
Miami-Dade County | FL | $106,992
Miami-Dade County | FL | $33,957
Miami-Dade County | FL | $176,264
Miami-Dade County | FL | $296,020
Miami-Dade County | FL | $150,685
Miami-Dade County | FL | $347,128
Miami-Dade County | FL | $12,075
Miami-Dade County | FL | $292,660
Tri-County Human Services, Inc | FL | $76,052
Miami-Dade County | FL | $879,311
Tri-County Human Services, Inc | FL | $96,337
Miami-Dade County | FL | $162,685
Miami-Dade County | FL | $318,974
Miami-Dade County | FL | $151,582
Miami-Dade County | FL | $129,138
Miami-Dade County | FL | $57,668
The Salvation Army, a Georgia Corporation | FL | $107,625
Miami-Dade County | FL | $714,079
Miami-Dade County | FL | $194,592
Miami-Dade County | FL | $138,789
Oakwood Center of The Palm Beaches, Inc | FL | $137,615
Collier County Board of County Commissioners | FL | $113,117
Homeless Services Network of Central Florida, Inc | FL | $156,661
Homeless Services Network of Central Florida, Inc | FL | $81,885
Miami-Dade County | FL | $53,112
Miami-Dade County | FL | $108,612
Collier County Board of County Commissioners | FL | $104,646
Mental Health Resource Center, Inc | FL | $252,317
Miami-Dade County | FL | $251,071
Flagler Ecumenical Social Service Center, Inc | FL | $73,167
Miami-Dade County | FL | $178,171
Oakwood Center of The Palm Beaches, Inc | FL | $386,104
Miami-Dade County | FL | $314,753
Miami-Dade County | FL | $321,509
Miami-Dade County | FL | $390,590
Catholic Charities of the Archdiocese of Miami, Inc | FL | $172,517
Emergency Services and Homeless Coalition of Jacksonville | FL | $463,275
Emergency Services and Homeless Coalition of Jacksonville | FL | $64,374
Miami-Dade County | FL | $285,900
Miami-Dade County | FL | $114,360
Miami-Dade County | FL | $948,503
Miami-Dade County | FL | $273,807
Miami-Dade County | FL | $352,358
Miami-Dade County | FL | $336,002
Miami-Dade County | FL | $737,089
Miami-Dade County | FL | $687,505
Miami-Dade County | FL | $893,037
Miami-Dade County | FL | $220,336
Miami-Dade County | FL | $127,744
Miami-Dade County | FL | $161,668
Miami-Dade County | FL | $347,796
Miami-Dade County | FL | $154,980
Miami-Dade County | FL | $394,999
Miami-Dade County | FL | $79,581
Miami-Dade County | FL | $169,798
Miami-Dade County | FL | $162,929
Miami-Dade County | FL | $84,000
Miami-Dade County | FL | $226,056
Miami-Dade County | FL | $425,391
Broward County Board of County Commissioners | FL | $964,262
Broward County Board of County Commissioners | FL | $81,406
Broward County Board of County Commissioners | FL | $948,025
Broward County Board of County Commissioners | FL | $284,042
Broward County Board of County Commissioners | FL | $346,049
Broward County Board of County Commissioners | FL | $969,696
Peace River Center for Personal Development Inc | FL | $184,688
Lee County Board of County Commissioners | FL | $75,084
Broward County Board of County Commissioners | FL | $388,548
The Salvation Army a Georgia Corporation | FL | $603,641
Broward County Board of County Commissioners | FL | $421,488
Broward County Board of County Commissioners | FL | $320,688
Aid to Victims of Domestic Abuse, Inc | FL | $106,540
Broward County Board of County Commissioners | FL | $1,266,936
Gateway Community Services, Inc | FL | $61,705
Gateway Community Services, Inc | FL | $54,727
Peace River Center for Personal Development Inc | FL | $99,574
Palm Beach County Board of County Commissioners | FL | $197,280
Lee County Board of County Commissioners | FL | $109,656
Lee County Board of County Commissioners | FL | $1,286,206
Lee County Board of County Commissioners | FL | $89,668
Lee County Board of County Commissioners | FL | $122,657
City of Gainesville | FL | $105,098
City of Gainesville | FL | $100,699
Broward County Board of County Commissioners | FL | $493,784
Palm Beach County Board of County Commissioners | FL | $442,158
Covenant House Florida, Inc | FL | $185,329
WestCare Gulf Coast-Florida, Inc | FL | $273,000
Palm Beach County Board of County Commissioners | FL | $431,520
2-1-1 Tampa Bay Cares, Inc | FL | $172,454
YWCA of Palm Beach County, FL | FL | $229,547
Project Return, Inc | FL | $153,956
Broward County Housing Authority | FL | $1,410,264
2-1-1 Brevard, Inc | FL | $76,751
Alachua County Housing Authority | FL | $80,569
Housing Partnership, Inc | FL | $62,587
River Region Human Services, Inc | FL | $258,775
Indian River County Board of County Commissioners | FL | $70,063
Indian River County Board of County Commissioners | FL | $69,264
Indian River County Board of County Commissioners | FL | $364,500
Gulfstream Goodwill Industries, Inc | FL | $607,322
Gulfstream Goodwill Industries, Inc | FL | $198,867
Indian River County Board of County Commissioners | FL | $105,300
Peaceful Paths Domestic Abuse Network, Inc | FL | $84,974
Indian River County Board of County Commissioners | FL | $153,900
The Salvation Army, a Georgiaa Corp, for The Salvation Army, Tampa | FL | $144,467
Housing Authority of the City of Tampa | FL | $171,960
The Salvation Army, a Georgiaa Corp, for The Salvation Army, Tampa | FL | $244,745
The Spring of Tampa Bay Inc | FL | $177,557
I.M. Sulzbacher Center for the Homeless, Inc | FL | $237,169
I.M. Sulzbacher Center for the Homeless, Inc | FL | $157,460
Crosswinds Youth Services, Inc | FL | $88,088
Gulfstream Goodwill Industries, Inc | FL | $184,029
Homeless Coalition of Hillsborough County, Inc | FL | $65,510
Broward County Board of County Commissioners | FL | $206,823
Bridgeway Center, Inc | FL | $327,898
Bridgeway Center, Inc | FL | $197,249
HOPE Family Services, Inc | FL | $70,387
Charlotte County Homeless Coalition, Inc | FL | $26,775
Homeless Coalition of Hillsborough County, Inc | FL | $44,191
Indian River County Board of County Commissioners | FL | $36,177
Homeless Coalition of Hillsborough County, Inc | FL | $63,333
Alpha House of Pinellas County | FL | $69,888
211 Palm Beach/Treasure Coast | FL | $20,636
211 Palm Beach/Treasure Coast | FL | $134,441
Miami-Dade County | FL | $124,621
Florida Keys Outreach Coalition, Inc | FL | $175,879
Carrfour Supportive Housing | FL | $409,479
Martin County Board of County Commissioners | FL | $96,576
Martin County Board of County Commissioners | FL | $90,024
Homeless Coalition of Hillsborough County, Inc | FL | $150,000
Catholic Charities, Diocese of Venice, Inc | FL | $120,137
Catholic Charities, Diocese of Venice, Inc | FL | $79,166
Gainesville Housing Authority | FL | $94,752
Emergency Shelter & Homeless Coalition of St. Johns County | FL | $89,610
Goodwill of North Florida | FL | $284,588
Lee County Board of County Commissioners | FL | $180,510
Lee County Board of County Commissioners | FL | $119,722
Lee County Board of County Commissioners | FL | $79,320
Emergency Shelter & Homeless Coalition of St. Johns County | FL | $62,790
Gainesville Housing Authority | FL | $138,624
Lee County Board of County Commissioners | FL | $52,978
Georgia Housing and Finance Authority | GA | $169,500
Georgia Housing and Finance Authority | GA | $340,560
Georgia Housing and Finance Authority | GA | $106,512
Georgia Housing and Finance Authority | GA | $182,088
Georgia Housing and Finance Authority | GA | $186,360
Georgia Housing and Finance Authority | GA | $49,476
Georgia Housing and Finance Authority | GA | $284,040
Georgia Housing and Finance Authority | GA | $61,200
Georgia Housing and Finance Authority | GA | $584,100
Georgia Housing and Finance Authority | GA | $31,860
Georgia Housing and Finance Authority | GA | $946,800
Georgia Housing and Finance Authority | GA | $63,000
Georgia Housing and Finance Authority | GA | $80,508
H.O.P.E. Through Divine Intervention, Inc | GA | $159,819
Georgia Housing and Finance Authority | GA | $185,520
Georgia Housing and Finance Authority | GA | $1,057,500
Georgia Housing and Finance Authority | GA | $244,944
Hodac, Inc | GA | $42,891
Georgia Housing and Finance Authority | GA | $174,960
Georgia Housing and Finance Authority | GA | $328,200
Georgia Housing and Finance Authority | GA | $329,388
Georgia Housing and Finance Authority | GA | $276,084
Georgia Housing and Finance Authority | GA | $371,820
Saint Joseph's Mercy Care Services, Inc | GA | $36,823
Georgia Housing and Finance Authority | GA | $546,660
Goodwill Industries of Middle GA, Inc | GA | $89,761
Buckhead Christian Ministry | GA | $82,800
Loaves & Fishes Ministry of Macon, Inc | GA | $23,230
Progressive Redevelopment, Inc | GA | $563,245
Progressive Redevelopment, Inc | GA | $44,090
Gwinnett Housing Resource Partnership, Inc. dba: The IMPACT | GA | $146,895
Zion Keepers, Inc | GA | $50,692
Citizens Against Violence, Inc | GA | $269,179
Furniture Bank of Metro Atlanta, Inc | GA | $70,009
Georgia Law Center on Homelessness & Poverty Inc | GA | $295,200
YWCA of Northwest Georgia | GA | $173,053
Marietta Housing Authority | GA | $227,232
Open Door Community House, Inca | GA | $267,745
City of Hinesville | GA | $64,929
Georgia Housing and Finance Authority | GA | $106,608
Union Mission, Inc | GA | $169,381
Union Mission, Inc | GA | $171,367
Union Mission, Inc | GA | $218,875
South Georgia Coalition to End Homelessness | GA | $248,500
ALTERNATE LIFE PATHS PROGRAM, INC | GA | $48,571
Jewish Family & Career Services | GA | $158,269
Housing Initiative of North Fulton | GA | $23,632
Georgia Housing and Finance Authority | GA | $285,996
Georgia Housing and Finance Authority | GA | $289,320
St. Jude's Recovery Center, Inc | GA | $278,342
Georgia Housing and Finance Authority | GA | $142,560
Georgia Housing and Finance Authority | GA | $588,000
Gwinnett Housing Resource Partnership, Inc. dba: The IMPACT | GA | $73,448
Macon-Bibb Economic Opportunity Council, Inc | GA | $99,750
Genesis Shelter, Inc | GA | $136,500
City of Savannah | GA | $296,340
Trinity Community Ministries | GA | $108,917
Calvary Refuge, Inc | GA | $203,326
New Horizons Community Service Board | GA | $45,122
DeKalb Community Service Board | GA | $387,465
The Center for Family Resources | GA | $450,489
The Center for Family Resources | GA | $194,061
The Center for Family Resources | GA | $96,700
The Center for Family Resources | GA | $85,323
Initiative for Affordable Housing, Inc | GA | $321,418
Mary Hall Freedom House, Inc | GA | $557,830
Macon-Bibb Economic Opportunity Council, Inc | GA | $94,500
Atlanta Enterprise Center, Inc | GA | $60,594
Community Advanced Practice Nurses, Inc | GA | $46,423
Community Advanced Practice Nurses, Inc | GA | $18,517
Community Advanced Practice Nurses, Inc | GA | $39,039
The House of TIME | GA | $349,383
Hope House, Inc | GA | $58,842
CSRA Economic Opportunity Authority, Inc | GA | $122,198
Travelers Aid of Metropolitan Atlanta, Inc | GA | $367,317
Greenbriar Children's Center, Inc | GA | $400,098
Stewart Community Home, Inc | GA | $285,619
Travelers Aid of Metropolitan Atlanta, Inc | GA | $156,541
Nicholas House Inc | GA | $36,141
Zion Hill Community Development Corporation | GA | $466,420
Jerusalem House, Inc | GA | $193,704
Unified Government of Athens-Clarke County | GA | $56,834
Loaves & Fishes Ministry of Macon, Inc | GA | $74,199
Dalton-Whitfield Community Development Corporation | GA | $31,058
Georgia Housing and Finance Authority | GA | $335,772
Mary Hall Freedom House, Inc | GA | $292,265
St. Jude's Recovery Center, Inc | GA | $737,988
City of Albany | GA | $116,217
Unified Government of Athens-Clarke County | GA | $80,000
Augusta, Georgia | GA | $181,027
Fulton County Board of Commissioners | GA | $373,951
Asian American Resource Foundation, Inc | GA | $159,167
Fulton County Board of Commissioners | GA | $686,487
Fulton County Board of Commissioners | GA | $264,210
Rainbow Village, Inc | GA | $226,295
Cobb Community Collaborative, Inc | GA | $30,000
Maranatha Outreach, Inc | GA | $60,178
Gateway Behavioral Health Services | GA | $400,000
Housing Authority of Savannah | GA | $1,097,808
Unified Government of Athens-Clarke County | GA | $105,991
Georgia Coalition Against Domestic Violence | GA | $347,690
Georgia Coalition Against Domestic Violence | GA | $92,476
Chatham-Savannah Authority for the Homeless | GA | $223,661
Chatham-Savannah Authority for the Homeless | GA | $179,256
Anchor Center, Inc | GA | $380,652
Advantage Behavioral Health Systems | GA | $167,095
Travelers Aid of Metropolitan Atlanta, Inc | GA | $56,556
The Extension, Inc | GA | $104,654
Cobb County Community Services Boards | GA | $35,000
Travelers Aid of Metropolitan Atlanta, Inc | GA | $56,378
Action Ministries, Inc | GA | $70,014
Douglas County Continuum of Care Coalition, inc | GA | $137,638
Goodwill Industries of Middle Georgia, Inc | GA | $148,066
Families First, Inc | GA | $172,493
Ministries United for Service and Training | GA | $35,000
Ministries United for Service and Training | GA | $35,280
Ministries United for Service and Training | GA | $70,560
Goodwill Industries of Middle Georgia, Inc | GA | $110,310
Action Ministries, Inc | GA | $486,342
S.H.A.R.E. House, Inc | GA | $128,396
Gwinnett Housing Resource Partnership, Inc. dba: The IMPACT | GA | $188,326
Georgia Housing and Finance Authority | GA | $506,520
Lowndes Associated Ministries to People, Inc | GA | $146,459
Lowndes Associated Ministries to People, Inc | GA | $140,571
Economic Opportunity Authority for Savannah-Chatham County | GA | $220,500
Colquitt County Serenity House Project, Inc | GA | $201,731
Our House, Inc | GA | $47,235
Government of Guam/Guam Housing & Urban Renewal Authority | GU | $28,224
Government of Guam/Guam Housing & Urban Renewal Authority | GU | $313,363
Government of Guam/Guam Housing & Urban Renewal Authority | GU | $46,033
Government of Guam/Guam Housing & Urban Renewal Authority | GU | $60,019
Government of Guam/Guam Housing & Urban Renewal Authority | GU | $173,712
Government of Guam/Guam Housing & Urban Renewal Authority | GU | $125,415
Government of Guam/Guam Housing & Urban Renewal Authority | GU | $33,049
Steadfast Housing Development Corporation | HI | $27,874
United States Veterans Initiative, Inc | HI | $341,263
United States Veterans Initiative, Inc | HI | $142,282
The Salvation Army | HI | $289,302
City and County of Honolulu | HI | $384,516
Hawaii Public Housing Authority | HI | $101,160
Steadfast Housing Development Corporation | HI | $36,960
City and County of Honolulu | HI | $1,897,500
Hawaii Public Housing Authority | HI | $184,800
Legal Aid Society of Hawaii | HI | $64,669
Steadfast Housing Development Corporation | HI | $207,198
Gregory House Programs | HI | $363,080
Hale Kipa, inc | HI | $136,680
Hawaii Public Housing Authority | HI | $42,288
Steadfast Housing Development Corporation | HI | $29,653
Hawaii Public Housing Authority | HI | $437,928
City and County of Honolulu | HI | $185,147
Hawaii Public Housing Authority | HI | $77,536
Hawaii Public Housing Authority | HI | $503,304
Steadfast Housing Development Corporation | HI | $33,384
Steadfast Housing Development Corporation | HI | $36,384
Steadfast Housing Development Corporation | HI | $32,924
Steadfast Housing Development Corporation | HI | $31,598
Maui Economic Concerns of the Community, Inc | HI | $91,717
Maui Economic Concerns of the Community, Inc | HI | $46,245
Housing Solutions Incorporated | HI | $55,132
Mental Health Kokua | HI | $876,273
Hawaii Public Housing Authority | HI | $41,160
Hawaii Public Housing Authority | HI | $31,131
City and County of Honolulu | HI | $133,607
Child and Family Service | HI | $84,488
City and County of Honolulu | HI | $426,948
City and County of Honolulu | HI | $388,116
City and County of Honolulu | HI | $520,344
City and County of Honolulu | HI | $500,160
City and County of Honolulu | HI | $285,900
Parents And Children Together | HI | $92,400
The Salvation Army | IA | $148,666
Manasseh House | IA | $78,829
Community Housing Initiatives, Inc | IA | $136,201
Crisis Intervention & Advocacy Center | IA | $158,918
Youth and Shelter Services, Inc | IA | $191,096
City of Des Moines | IA | $805,692
Hillcrest Family Services | IA | $71,538
Crisis Intervention Services | IA | $36,166
City of Sioux City | IA | $113,452
Shelter House Community Shelter and Transition Services | IA | $448,318
Humility of Mary Shelter, Inc | IA | $492,800
Humility of Mary Shelter, Inc | IA | $159,120
Community Housing Initiatives, Inc | IA | $380,865
City of Des Moines | IA | $289,732
YWCA Clinton | IA | $49,232
Youth and Shelter Services, Inc | IA | $129,733
City of Des Moines | IA | $152,713
City of Des Moines | IA | $84,999
City of Des Moines | IA | $110,250
Area Substance Abuse Council, dba. New Directions | IA | $104,223
City of Des Moines | IA | $60,530
City of Des Moines | IA | $198,780
Cedar Valley Friends of the Family | IA | $256,767
City of Des Moines | IA | $227,468
City of Des Moines | IA | $256,109
City of Des Moines | IA | $250,320
City of Des Moines | IA | $250,787
Iowa Institute for Community Alliances | IA | $29,750
Community Action Agency of Siouxland | IA | $137,239
City of Des Moines | IA | $288,266
Iowa Institute for Community Alliances | IA | $252,980
Hawkeye Area Community Action Program, Inc | IA | $26,749
Humility of Mary Shelter, Inc | IA | $220,000
Hawkeye Area Community Action Program, Inc | IA | $213,827
Family Resources, Inc | IA | $39,525
Humility of Mary Housing, Inc | IA | $37,549
Center For Siouxland | IA | $128,168
Family Resources, Inc | IA | $38,946
Crittenton Center | IA | $189,167
Project Concern, Inc | IA | $31,570
Opening Doors | IA | $42,221
Center For Siouxland | IA | $80,062
Hawkeye Area Community Action Program, Inc | IA | $466,174
Idaho Housing and Finance Association | ID | $76,054
Idaho Housing and Finance Association | ID | $41,576
Idaho Housing and Finance Association | ID | $66,402
Idaho Housing and Finance Association | ID | $81,539
Idaho Housing and Finance Association | ID | $193,128
Idaho Housing and Finance Association | ID | $70,632
Idaho Housing and Finance Association | ID | $102,930
Idaho Housing and Finance Association | ID | $69,050
Idaho Housing and Finance Association | ID | $44,208
Idaho Housing and Finance Association | ID | $75,967
Idaho Housing and Finance Association | ID | $79,539
Idaho Housing and Finance Association | ID | $107,508
Idaho Housing and Finance Association | ID | $187,929
Idaho Housing and Finance Association | ID | $116,235
Idaho Housing and Finance Association | ID | $24,436
Idaho Housing and Finance Association | ID | $154,350
Idaho Housing and Finance Association | ID | $46,597
Idaho Housing and Finance Association | ID | $116,378
Idaho Housing and Finance Association | ID | $75,277
Boise City Housing Authority | ID | $64,514
Idaho Housing and Finance Association | ID | $75,412
Idaho Housing and Finance Association | ID | $81,735
Idaho Housing and Finance Association | ID | $81,435
Idaho Housing and Finance Association | ID | $49,488
Boise City Housing Authority | ID | $7,696
Boise City Housing Authority | ID | $18,410
Idaho Housing and Finance Association | ID | $30,135
Idaho Housing and Finance Association | ID | $131,250
Idaho Housing and Finance Association | ID | $305,388
Ada County Housing Authority | ID | $102,912
Idaho Housing and Finance Association | ID | $55,840
Ada County Housing Authority | ID | $72,312
Ada County Housing Authority | ID | $541,169
Women's and Children's Alliance | ID | $119,122
Idaho Housing and Finance Association | ID | $49,416
YWCA Peoria IL | IL | $75,668
Northwestern Memorial Hospital | IL | $153,844
YWCA Peoria IL | IL | $214,530
Alliance to End Homelessness in Suburban Cook County | IL | $252,725
YWCA Peoria IL | IL | $92,912
Stopping Woman Abuse Now | IL | $143,656
HOPE of East Central Illinois | IL | $77,552
Renaissance Social Services, Inc | IL | $133,970
Housing Opportunities for Women, Inc | IL | $464,308
Northwestern Memorial Hospital | IL | $301,910
Northwestern Memorial Hospital | IL | $217,518
Western Egyptian Economic Opportunity Council, Inc | IL | $50,878
PADS to HOPE, Inc | IL | $183,665
The Women's Center | IL | $29,308
Good Samaritan House of Granite City, Inc | IL | $154,355
Good Samaritan Ministries—A Project of the Carbondale Interfaith | IL | $74,212
County of Kendall | IL | $70,000
YWCA Peoria IL | IL | $196,215
Connections for Abused Women and their Children | IL | $23,695
Anna Bixby Women's Center | IL | $229,079
WINGS Program, Inc | IL | $43,402
WINGS Program, Inc | IL | $124,554
Mercy Housing Lakefront | IL | $129,785
DuPage County Health Department | IL | $573,994
AIDS Foundation of Chicago | IL | $375,530
Helping Hands of Springfield, Inc | IL | $116,964
Mercy Housing Lakefront | IL | $238,645
Residents for Effective Shelter Transitions | IL | $167,813
WINGS Program, Inc | IL | $89,874
Abundant Faith Ministry | IL | $13,892
WINGS Program, Inc | IL | $84,968
South Suburban PADS | IL | $284,574
Residents for Effective Shelter Transitions | IL | $286,520
City of Bloomington | IL | $32,917
M.E.R.C.Y. Communities, Inc | IL | $83,190
M.E.R.C.Y. Communities, Inc | IL | $169,614
MCS Community Services | IL | $101,994
Embarras River Basin Agency, Inc | IL | $252,920
Heartland Human Care Services, Inc | IL | $41,668
Embarras River Basin Agency, Inc | IL | $154,722
Community Mental Health Council, Inc | IL | $128,453
City of Bloomington | IL | $23,082
Abundant Faith Ministry | IL | $20,090
Pioneer Center for Human Services | IL | $105,000
Freedom House | IL | $62,000
Pioneer Center for Human Services | IL | $261,822
Stopping Woman Abuse Now | IL | $53,788
Anna Bixby Women's Center | IL | $77,105
Heartland Health Outreach, Inc | IL | $357,170
Stopping Woman Abuse Now | IL | $71,640
Heartland Human Care Services, Inc | IL | $149,874
WINGS Program, Inc | IL | $44,693
City of Bloomington | IL | $5,217
Pioneer Center for Human Services | IL | $231,548
Chicago Christian Industrial League | IL | $329,711
YMCA of Metropolitan Chicago | IL | $225,546
YMCA of Metropolitan Chicago | IL | $468,552
Interfaith House Inc | IL | $175,086
Interfaith House Inc | IL | $189,633
Catholic Charities of the Archdiocese of Chicago | IL | $258,078
Call For Help | IL | $527,382
YMCA of Metropolitan Chicago | IL | $36,313
Western Illinois Regional Council—Community Action Agency | IL | $55,483
City of Bloomington | IL | $130,914
Pillars Community Services | IL | $24,993
Catholic Charities of the Archdiocese of Chicago | IL | $194,713
Catholic Charities of the Archdiocese of Chicago | IL | $391,507
Bethel New Life, Inc | IL | $212,378
Bethel New Life, Inc | IL | $344,365
Family Rescue Incorporated | IL | $58,165
Family Rescue Incorporated | IL | $571,732
Home of the Sparrow, Inc | IL | $54,600
Apna Ghar, Inc | IL | $123,087
Community Mental Health Council, Inc | IL | $123,736
Catholic Charities of the Archdiocese of Chicago | IL | $89,379
Madison, County of | IL | $308,320
Pillars Community Services | IL | $521,332
Pillars Community Services | IL | $477,060
Connections for the Homeless Inc | IL | $112,560
Pillars Community Services | IL | $31,177
Bethel New Life, Inc | IL | $87,284
Kane County, Illinois | IL | $109,853
B.C.M.W. Community Services Inc | IL | $19,597
AIDS Foundation of Chicago | IL | $4,280,553
Pillars Community Services | IL | $110,000
Chicago Christian Industrial League | IL | $52,447
Housing Options for the Mentally Ill | IL | $83,560
DuPage P.A.D.S., Inc | IL | $123,472
City of Urbana | IL | $196,879
New Moms Inc | IL | $245,039
Fellowship Housing Corporation | IL | $100,120
Catholic Charities of the Archdiocese of Chicago | IL | $130,428
Housing Options for the Mentally Ill | IL | $112,962
Catholic Charities of the Archdiocese of Chicago | IL | $56,700
DuPage P.A.D.S., Inc | IL | $101,061
DuPage P.A.D.S., Inc | IL | $197,960
Catholic Charities of the Archdiocese of Chicago | IL | $140,000
Fifth Street Renaissance | IL | $24,150
Home of the Sparrow, Inc | IL | $27,064
Catholic Charities of the Archdiocese of Chicago | IL | $1,693,872
Fifth Street Renaissance | IL | $34,929
Southern Illinois Coalition for the Homeless | IL | $60,511
Southern Illinois Coalition for the Homeless | IL | $84,702
Catholic Charities of the Archdiocese of Chicago | IL | $107,100
Interdependent Living Solutions Center | IL | $156,964
Housing Options for the Mentally Ill | IL | $120,413
Madison, County of | IL | $106,740
Children's Home + Aid | IL | $38,650
Heartland Human Care Services, Inc | IL | $1,162,457
Thresholds Inc | IL | $403,605
The Salvation Army of Kankakee County | IL | $109,927
DuPage County | IL | $151,667
Heartland Human Care Services, Inc | IL | $943,789
Housing Opportunity Development Corporation | IL | $17,750
Bridge Communities, Inc | IL | $111,376
Housing Opportunity Development Corporation | IL | $47,392
DuPage P.A.D.S., Inc | IL | $102,001
Community Mental Health Council, Inc | IL | $97,391
Community Mental Health Council, Inc | IL | $66,007
South Side Office of Concern | IL | $52,977
Thresholds Inc | IL | $403,199
South Side Office of Concern | IL | $14,962
Illinois Valley Economic Development Corporation | IL | $104,044
Thresholds Inc | IL | $351,158
Thresholds Inc | IL | $199,489
Thresholds Inc | IL | $162,687
Thresholds Inc | IL | $243,889
Thresholds Inc | IL | $78,490
Thresholds Inc | IL | $78,490
DuPage County | IL | $35,550
North Side Housing and Supportive Services | IL | $61,271
Iroquois-Kankakee Regional Office of Education #32 | IL | $53,550
Heartland Human Care Services, Inc | IL | $254,948
North Side Housing and Supportive Services | IL | $112,120
NCO YOUTH & FAMILY SERVICES | IL | $202,584
DuPage County Health Department | IL | $51,920
St. Leonard's Ministries | IL | $42,525
Ecker Center for Mental Health | IL | $164,930
Ecker Center for Mental Health | IL | $173,302
The Larkin Center | IL | $300,575
Prairie State Legal Services, Inc | IL | $50,000
Prairie State Legal Services, Inc | IL | $68,780
Beacon Therapeutic School, Inc | IL | $983,922
Community Crisis Center | IL | $30,135
Community Mental Health Council, Inc | IL | $73,013
Catholic Charities of the Archdiocese of Chicago | IL | $327,507
Heartland Health Outreach, Inc | IL | $948,721
Heartland Health Outreach, Inc | IL | $484,722
Heartland Health Outreach, Inc | IL | $320,269
Heartland Health Outreach, Inc | IL | $126,332
The Center of Concern | IL | $130,534
Bethel Human Resources Corp | IL | $340,000
Catholic Charities of the Archdiocese of Chicago | IL | $145,520
Heartland Human Care Services, Inc | IL | $441,059
Community Crisis Center | IL | $66,500
Community Counseling Center of Northern Madison County | IL | $281,693
Lake County | IL | $143,424
Connections for the Homeless Inc | IL | $94,535
Brand New Beginnings | IL | $100,406
Lake County | IL | $186,240
Mental Health Center of Champaign County, Inc | IL | $185,543
Mental Health Center of Champaign County, Inc | IL | $43,043
Hull House Association | IL | $378,229
Lake County | IL | $45,507
Lake County | IL | $110,250
Lake County | IL | $24,434
Single Room Housing Assistance Corporation | IL | $488,047
Lake County | IL | $184,940
Public Action to Deliver Shelter, Inc | IL | $64,060
Public Action to Deliver Shelter, Inc | IL | $64,061
Inspiration Corporation | IL | $323,235
Inspiration Corporation | IL | $199,224
Inspiration Corporation | IL | $83,462
FEATHERFIST | IL | $141,395
The Inner Voice, Inc | IL | $362,611
City of Rockford | IL | $195,840
Dove, Inc | IL | $35,747
Mercy Housing Lakefront | IL | $61,950
Dove, Inc | IL | $74,828
Dove, Inc | IL | $16,941
Lake County | IL | $21,840
C.E.F.S. Economic Opportunity Corporation | IL | $199,675
Bethel Human Resources Corp | IL | $184,231
WilPower, Inc | IL | $25,519
YMCA of Metropolitan Chicago | IL | $231,259
Hope Haven of DeKalb County, Inc | IL | $95,268
Single Room Housing Assistance Corporation | IL | $365,000
WilPower, Inc | IL | $252,077
Community and Economic Development Assn of Cook County Inc | IL | $265,875
Sarah's Circle | IL | $66,463
Cornerstone Services, Inc | IL | $25,476
Cornerstone Services, Inc | IL | $115,071
FEATHERFIST | IL | $300,843
Mercy Housing Lakefront | IL | $187,833
C.E.F.S. Economic Opportunity Corporation | IL | $136,670
Chicago House and Social Service Agency | IL | $40,639
Lake County | IL | $95,648
Lake County | IL | $42,290
Lake County | IL | $58,184
Lake County | IL | $82,766
Deborah's Place | IL | $188,064
Your Family Resource Connection | IL | $137,743
Deborah's Place | IL | $150,144
Deborah's Place | IL | $417,076
Deborah's Place | IL | $330,293
Lake County | IL | $137,331
Dove, Inc | IL | $156,326
Cornerstone Services, Inc | IL | $1,702,441
New Phoenix Assistance Center | IL | $316,829
Dove, Inc | IL | $17,103
City of Rockford | IL | $250,566
The Inner Voice, Inc | IL | $331,601
St. Clair County | IL | $164,076
St. Clair County | IL | $275,700
St. Clair County | IL | $169,439
Mercy Housing Lakefront | IL | $125,546
St. Clair County | IL | $50,000
The Inner Voice, Inc | IL | $76,484
The Inner Voice, Inc | IL | $196,062
New Phoenix Assistance Center | IL | $237,290
CDBG Operations Corporation | IL | $96,687
The Housing Authority of the County of DeKalb | IL | $386,796
CDBG Operations Corporation | IL | $344,907
I-PLUS | IL | $12,805
McDermott Center | IL | $58,026
CEDA Bloom-Rich | IL | $231,678
Community Supportive Living Systems, Inc | IL | $201,120
Heartland Health Outreach, Inc | IL | $270,101
FEATHERFIST | IL | $129,817
AIDSCARE, INC | IL | $366,108
Youth Service Bureau | IL | $91,899
Latin United Community Housing Association | IL | $32,130
Together We Cope | IL | $190,517
Together We Cope | IL | $124,837
South Suburban Family Shelter Inc | IL | $281,957
City of Rockford | IL | $117,504
WilPower, Inc | IL | $205,205
Freeport Area Church Cooperative | IL | $57,109
Inspiration Corporation | IL | $111,182
PADS Crisis Services, Inc | IL | $226,376
Hoyleton Youth and Family Services | IL | $41,362
Healthcare Alternative Systems, Inc | IL | $197,711
The Renaissance Collaborative, Inc | IL | $166,006
Ministers United Against Human Suffering | IL | $50,000
City of Rockford | IL | $195,840
City of Rockford | IL | $156,672
Goodwill Industries of Central Illinois, Inc | IL | $167,696
CDBG Operations Corporation | IL | $172,973
Bethany Place | IL | $48,641
Dove, Inc | IL | $329,047
New Phoenix Assistance Center | IL | $270,536
Human Resources Development Institute, Inc. (HRDI) | IL | $427,768
La Casa Norte | IL | $90,982
City of Rockford | IL | $33,764
The Center for Women in Transition | IL | $8,963
City of Rockford | IL | $148,127
City of Rockford | IL | $93,079
City of Rockford | IL | $39,947
City of Rockford | IL | $102,993
Unity Parenting & Counseling Inc | IL | $420,453
City of Rockford | IL | $164,108
Bethany Place | IL | $51,955
YWCA Evanston/North Shore | IL | $71,526
Lazarus House | IL | $54,331
Lazarus House | IL | $32,417
Casa Central Social Services Corporation | IL | $434,437
City of Chicago, Department of Human Services | IL | $267,888
Interfaith Council for the Homeless | IL | $286,841
Vital Bridges NFP, Inc | IL | $169,845
Chestnut Health Systems, Inc | IL | $269,203
Chicago Low-Income Housing Trust Fund | IL | $661,995
Chicago Low-Income Housing Trust Fund | IL | $2,176,529
Chicago Low-Income Housing Trust Fund | IL | $835,105
Cornerstone Community Outreach | IL | $79,017
Chestnut Health Systems | IL | $133,052
Casa Central Social Services Corporation | IL | $383,904
The Women's Center | IL | $21,300
Connections for the Homeless Inc | IL | $187,847
Connections for the Homeless Inc | IL | $117,197
Connections for the Homeless Inc | IL | $43,682
The Cathedral Shelter of Chicago | IL | $35,332
The Cathedral Shelter of Chicago | IL | $53,122
Hope Haven of DeKalb County, Inc | IL | $98,374
City of Chicago, Department of Human Services | IL | $210,960
Catholic Charities, Diocese of Joliet | IL | $842,965
Cornerstone Community Outreach | IL | $132,224
Trinity Services, Inc | IL | $253,317
CEDA Northwest Self-Help Center, Inc | IL | $144,873
AIDS Foundation of Chicago | IL | $263,600
AIDS Foundation of Chicago | IL | $355,866
Christian Family Ministries | IL | $33,250
City of Chicago, Department of Human Services | IL | $1,079,580
Chestnut Health Systems, Inc | IL | $283,300
Decatur Housing Authority | IL | $123,912
Chestnut Health Systems, Inc | IL | $575,674
City of Chicago, Department of Human Services | IL | $684,156
City of Chicago, Department of Human Services | IL | $44,172
City of Chicago, Department of Human Services | IL | $410,244
Housing Authority of the County of Cook | IL | $426,408
CEDA Northwest Self-Help Center, Inc | IL | $162,947
Housing Authority of the County of Cook | IL | $152,712
YWCA of Quincy | IL | $138,031
Teen Living Programs, Inc | IL | $189,334
World Relief DuPage | IL | $131,888
YWCA of Quincy | IL | $331,349
City of Bloomington | IL | $22,440
The Interfaith Housing Development Corporation of Chicago | IL | $77,301
City of Bloomington | IL | $139,046
City of Bloomington | IL | $19,367
Decatur Housing Authority | IL | $42,576
YMCA of Metropolitan Chicago | IL | $59,645
Champaign County Regional Planning Commission | IL | $324,072
Peoria Housing Authority | IL | $167,040
City of Chicago, Department of Human Services | IL | $281,160
City of Chicago, Department of Human Services | IL | $46,860
Human Service Center | IL | $131,597
City of Chicago, Department of Human Services | IL | $44,172
City of Chicago, Department of Human Services | IL | $620,268
Transitional Living Services | IL | $47,245
City of Chicago, Department of Human Services | IL | $615,840
City of Chicago, Department of Human Services | IL | $111,240
City of Chicago, Department of Human Services | IL | $468,288
Project NOW, Inc | IL | $119,445
City of Chicago, Department of Human Services | IL | $281,160
FEATHERFIST | IL | $517,459
City of Chicago, Department of Human Services | IL | $281,160
City of Chicago, Department of Human Services | IL | $140,580
Public Action to Deliver Shelter, Inc | IL | $234,302
City of Chicago, Department of Human Services | IL | $328,020
Mercy Housing Lakefront | IL | $259,631
City of Chicago, Department of Human Services | IL | $421,920
Single Room Housing Assistance Corporation | IL | $421,988
FEATHERFIST | IL | $259,219
Delta Center, Inc | IL | $19,338
Catholic Charities, Diocese of Joliet | IL | $754,500
Catholic Charities, Diocese of Joliet | IL | $122,586
Catholic Charities, Diocese of Joliet | IL | $84,342
Catholic Charities, Diocese of Joliet | IL | $417,484
City of Chicago, Department of Human Services | IL | $528,504
City of Chicago, Department of Human Services | IL | $344,016
The Night Ministry | IL | $144,391
The Night Ministry | IL | $74,260
Connections for the Homeless Inc | IL | $106,975
Project NOW, Inc | IL | $58,713
City of Chicago, Department of Human Services | IL | $271,836
The Center for Prevention of Abuse | IL | $172,759
City of Chicago, Department of Human Services | IL | $257,676
City of Chicago, Department of Human Services | IL | $762,156
Massac County Mental Health & Family Counseling Center, Inc | IL | $173,387
Pioneer Civic Services, Inc | IL | $114,126
Matthew House | IL | $123,866
Project NOW, Inc | IL | $127,943
Unity Parenting & Counseling Inc | IL | $497,620
City of Chicago, Department of Human Services | IL | $172,764
City of Chicago, Department of Human Services | IL | $318,498
City of Chicago, Department of Human Services | IL | $375,480
City of Chicago, Department of Human Services | IL | $414,072
FEATHERFIST | IL | $264,173
City of Chicago, Department of Human Services | IL | $678,780
FEATHERFIST | IL | $112,483
City of Chicago, Department of Human Services | IL | $278,616
City of Chicago, Department of Human Services | IL | $358,212
City of Chicago, Department of Human Services | IL | $301,440
The YWCA of St. Joseph County | IN | $55,130
The YWCA of St. Joseph County | IN | $65,000
Alternatives Incorporated of Madison County | IN | $102,317
Pathfinder Services, Inc | IN | $144,478
Vincent Village, Inc | IN | $52,944
Centerstone of Indiana Inc. formerly SCCMHC | IN | $37,968
Life Treatment Centers | IN | $70,360
Mental Health Association in Vigo County | IN | $69,475
Fort Wayne Women's Bureau, inc | IN | $89,775
Vincent Village, Inc | IN | $48,451
Indiana Housing and Community Development Authority | IN | $290,280
City of Indianapolis | IN | $366,480
The Center for the Homeless | IN | $77,778
Lafayette Transitional Housing Center, Inc | IN | $73,893
Lafayette Transitional Housing Center, Inc | IN | $104,186
The Center for Women and Families | IN | $223,144
City of Indianapolis | IN | $75,240
LifeSpring, Inc | IN | $240,193
City of Indianapolis | IN | $347,693
City of Indianapolis | IN | $85,145
St. Elizabeth Catholic Charities | IN | $187,231
The Center for the Homeless | IN | $33,272
The Center for the Homeless | IN | $135,662
City of Indianapolis | IN | $489,060
City of Indianapolis | IN | $934,200
Edgewater Systems for Balanced Living | IN | $119,023
Cedars HOPE, Inc | IN | $35,700
Madison Center, Inc | IN | $112,033
Indiana Housing and Community Development Authority | IN | $179,760
Indiana Housing and Community Development Authority | IN | $497,460
Indiana Housing and Community Development Authority | IN | $118,800
Indiana Housing and Community Development Authority | IN | $98,304
Indiana Housing and Community Development Authority | IN | $109,728
Lafayette Transitional Housing Center, Inc | IN | $75,337
City of Indianapolis | IN | $268,380
Housing Opportunities, Inc | IN | $49,450
City of Evansville, Indiana | IN | $86,865
City of Evansville, Indiana | IN | $60,424
City of Indianapolis | IN | $200,922
City of Indianapolis | IN | $145,728
City of Evansville, Indiana | IN | $97,001
City of Evansville, Indiana | IN | $75,320
City of Evansville, Indiana | IN | $191,835
City of Indianapolis | IN | $69,336
City of Indianapolis | IN | $75,240
Stepping Stones, Inc | IN | $78,748
AIDS Ministries/AIDS Assist of North Indiana, Inc | IN | $102,396
The Center for the Homeless | IN | $193,173
Community Mental Health Center, Inc | IN | $156,767
The Center for the Homeless | IN | $26,250
The Center for the Homeless | IN | $89,946
The Stepping Stone Shelter For Women, Incorporated | IN | $183,457
City of Indianapolis | IN | $301,720
City of Indianapolis | IN | $316,008
City of Indianapolis | IN | $160,200
Housing Opportunities, Inc | IN | $82,601
Housing Opportunities, Inc | IN | $84,484
Indiana Housing and Community Development Authority | IN | $67,920
City of Indianapolis | IN | $376,200
Family Services of Elkhart County, Inc | IN | $46,856
Open Door Community Services, Inc | IN | $116,420
Middle Way House, Incorporated | IN | $171,093
Blue River Services, Inc | IN | $44,778
Evansville Goodwill Industries, Inc | IN | $220,133
A Better Way Services, Inc | IN | $149,617
Human Services, Inc | IN | $108,148
Human Services, Inc | IN | $36,588
Interfaith Mission, Inc | IN | $45,500
City of South Bend | IN | $42,336
The Salvation Army | IN | $160,323
Kosciusko County Shelter for Abuse d/b/a The Beaman Home | IN | $37,556
Council on Domestic Abuse, Inc | IN | $87,743
Madison Center, Inc | IN | $57,148
Bridges Community Services, Inc | IN | $171,652
Hope House, Inc | IN | $64,890
City of South Bend | IN | $126,156
Genesis Outreach, Inc | IN | $42,000
LifeSpring, Inc | IN | $51,135
Family Services of Elkhart County, Inc | IN | $44,764
Amethyst House, Inc | IN | $87,054
Indiana Coalition on Housing and Homeless Issues (ICHHI) | IN | $364,000
City of Bloomington, Indiana | IN | $57,048
Hope House, Inc | IN | $133,678
AIDS Ministries/AIDS Assist of North Indiana, Inc | IN | $35,558
Open Door Community Services, Inc | IN | $102,136
Community Action, Inc | KS | $343,101
United Methodist Open Door, Inc | KS | $56,238
Lawrence-Douglas County Housing Authority | KS | $89,167
United Methodist Open Door, Inc | KS | $81,559
Cowley County Safe Homes, Inc | KS | $134,398
County of Sedgwick | KS | $41,946
New Beginnings, Inc | KS | $125,716
City of Topeka, KS | KS | $1,320,144
United Way of the Plains | KS | $86,664
SAFEHOME, Inc | KS | $57,568
USD 500 Kansas City Kansas Public Schools | KS | $22,660
United Way of the Plains | KS | $148,495
County of Sedgwick | KS | $279,523
Unified Government of Wyandotte County/KCK | KS | $89,945
Community Resources Council | KS | $87,200
Unified Government of Wyandotte County/KCK | KS | $461,740
Unified Government of Wyandotte County/KCK | KS | $55,235
Unified Government of Wyandotte County/KCK | KS | $29,566
Catholic Charities of Northeast Kansas, Inc | KS | $78,300
The Salvation Army | KS | $61,461
City of Wichita Housing Authority | KS | $692,868
Johnson County Mental Health Center | KS | $39,180
Johnson County Mental Health Center | KS | $124,020
Kansas Housing Resources Corporation | KS | $133,000
The Salvation Army | KS | $61,866
The Salvation Army | KS | $131,176
Mid America Assistance Coalition | KS | $18,666
The Salvation Army | KS | $333,333
Wichita Children's Home | KS | $102,566
Kansas Legal Services | KS | $190,608
Inter-Faith Ministries Wichita, Inc | KS | $56,420
Plumb Place Inc | KS | $80,008
My Father's House Community Services, Inc | KS | $215,670
Wyandot Center for Community Behavioral Healthcare | KS | $127,104
CLASS LTD | KS | $179,016
Inter-Faith Ministries Wichita, Inc | KS | $43,050
Housing and Credit Counseling, Inc | KS | $64,575
The Salvation Army | KS | $48,877
Louisville/Jefferson County Metro Government | KY | $31,248
Louisville/Jefferson County Metro Government | KY | $31,248
Transitions, Inc | KY | $ 8,768
Transitions, Inc | KY | $236,770
New Beginnings, Bluegrass, Inc | KY | $53,492
Transitions, Inc | KY | $79,363
Louisville/Jefferson County Metro Government | KY | $1,140,156
The Healing Place, Inc | KY | $305,421
Family Health Centers, Inc | KY | $255,146
Louisville/Jefferson County Metro Government | KY | $115,516
The Center for Women and Families | KY | $49,875
Chrysalis House, Inc | KY | $219,154
Louisville/Jefferson County Metro Government | KY | $217,008
Louisville/Jefferson County Metro Government | KY | $66,012
The Center for Women and Families | KY | $67,163
Louisville/Jefferson County Metro Government | KY | $27,504
Louisville/Jefferson County Metro Government | KY | $38,249
Louisville/Jefferson County Metro Government | KY | $44,640
Chrysalis House, Inc | KY | $85,595
Coalition for the Homeless, Inc | KY | $122,311
Louisville/Jefferson County Metro Government | KY | $81,600
Father Maloney's Boys' Haven | KY | $169,846
Louisville/Jefferson County Metro Government | KY | $236,712
Transitions, Inc | KY | $162,503
Kentucky Housing Corporation | KY | $168,191
Transitions, Inc | KY | $82,545
Kentucky Housing Corporation | KY | $189,262
Kentucky Housing Corporation | KY | $126,055
Kentucky Housing Corporation | KY | $85,303
Welcome House of Northern Kentucky, Inc | KY | $469,348
Kentucky Housing Corporation | KY | $3,765
Schizophrenia Foundation, KY | KY | $28,054
Kentucky Housing Corporation | KY | $113,724
Schizophrenia Foundation, KY | KY | $21,000
Kentucky Housing Corporation | KY | $105,184
Kentucky Housing Corporation | KY | $80,646
Kentucky Housing Corporation | KY | $50,341
Kentucky Housing Corporation | KY | $161,946
Wayside Christian Mission | KY | $103,369
Kentucky Housing Corporation | KY | $88,664
Kentucky Housing Corporation | KY | $171,039
Volunteers of America of Kentucky, Inc | KY | $246,682
Independent Living Options, Inc | KY | $128,999
The Salvation Army, a Georgia Corporation | KY | $119,999
House of Ruth, Inc | KY | $137,694
Home of the Innocents | KY | $88,844
Daniel Pitino Shelter, Inc | KY | $266,039
Bluegrass Regional Mental Health-Mental Retardation Board, Inc | KY | $167,268
Schizophrenia Foundation, KY | KY | $211,649
Bellewood Presbyterian Home for Children | KY | $143,478
Kentucky Housing Corporation | KY | $190,000
Volunteers of America of Kentucky, Inc | KY | $371,612
Volunteers of America of Kentucky, Inc | KY | $164,045
Lexington-Fayette Urban County Housing Authority | KY | $201,432
Community Action Council for Lexington-Fayette, Bourbon, Har | KY | $65,129
Choices, Inc | KY | $35,196
Choices, Inc | KY | $35,301
Owensboro Area Shelter, Information & Services, Inc | KY | $515,225
Kentucky Housing Corporation | KY | $63,580
Kentucky Housing Corporation | KY | $78,641
Kentucky Housing Corporation | KY | $194,216
Kentucky Housing Corporation | KY | $225,438
Kentucky Housing Corporation | KY | $277,614
Kentucky Housing Corporation | KY | $35,694
Kentucky Housing Corporation | KY | $77,312
Kentucky Housing Corporation | KY | $166,788
Kentucky Housing Corporation | KY | $278,767
Kentucky Housing Corporation | KY | $455,593
Kentucky Housing Corporation | KY | $555,406
Kentucky Housing Corporation | KY | $372,154
Kentucky Housing Corporation | KY | $479,860
Jefferson Street Baptist Center | KY | $75,316
Hope Center, Inc | KY | $166,667
Hope Center, Inc | KY | $269,334
Seven Counties Services, Inc | KY | $93,060
Kentucky Housing Corporation | KY | $200,108
Kentucky Housing Corporation | KY | $196,860
Kentucky Housing Corporation | KY | $24,192
Kentucky Housing Corporation | KY | $333,323
Kentucky Housing Corporation | KY | $90,469
Kentucky Housing Corporation | KY | $278,472
Kentucky Housing Corporation | KY | $267,600
Kentucky Housing Corporation | KY | $76,667
Kentucky Housing Corporation | KY | $171,615
Kentucky Housing Corporation | KY | $10,414
Kentucky Housing Corporation | KY | $222,440
Wayside Christian Mission | KY | $81,902
Kentucky Housing Corporation | KY | $50,392
Society of St. Vincent de Paul | KY | $175,000
Society of St. Vincent de Paul | KY | $137,938
Kentucky Housing Corporation | KY | $93,688
UNITY of Greater New Orleans | LA | $490,057
ASSIST Agency | LA | $97,520
Providence House | LA | $161,481
Metropolitan Center for Women and Children, Inc | LA | $113,344
Providence House | LA | $91,536
City of Baton Rouge & Parish of East Baton Rouge | LA | $144,868
Gulf Coast Teaching Family Services, Inc | LA | $199,932
START Corporation | LA | $113,748
START Corporation | LA | $229,587
Shreveport SRO, Inc. dba Centerpoint Community Services | LA | $62,133
Metropolitan Human Services District | LA | $1,250,052
NAMI New Orleans | LA | $157,093
Catholic Charities Archdioceses of New Orleans | LA | $126,524
Catholic Charities Archdioceses of New Orleans | LA | $101,734
Catholic Charities Archdioceses of New Orleans | LA | $93,595
UNITY of Greater New Orleans | LA | $489,656
Bridge House Corporation | LA | $197,189
Gulf Coast Teaching Family Services, Inc | LA | $173,216
Central Louisiana Coalition to Prevent Homelessness | LA | $58,245
UNITY of Greater New Orleans | LA | $166,902
UNITY of Greater New Orleans | LA | $906,748
UNITY of Greater New Orleans | LA | $61,490
UNITY of Greater New Orleans | LA | $162,469
UNITY of Greater New Orleans | LA | $479,078
UNITY of Greater New Orleans | LA | $570,084
UNITY of Greater New Orleans | LA | $208,645
UNITY of Greater New Orleans | LA | $128,907
UNITY of Greater New Orleans | LA | $380,884
Jefferson Parish Department of Community Development | LA | $381,216
Volunteers Of America North LA | LA | $145,268
Holy Cross Episcopal Church | LA | $33,944
The Wellspring Alliance for Families, Inc | LA | $72,859
The Wellspring Alliance for Families, Inc | LA | $160,032
The Wellspring Alliance for Families, Inc | LA | $261,096
Council on Alcoholism & Drug Abuse of Northwest Louisiana | LA | $252,159
Jefferson Parish Human Services Authority | LA | $281,336
Responsibility House, Inc | LA | $208,528
Responsibility House, Inc | LA | $136,221
Philadelphia Center | LA | $176,400
State of Louisiana | LA | $96,206
Gulf Coast Teaching Family Services, Inc | LA | $100,153
Volunteers Of America North LA | LA | $102,864
Gulf Coast Teaching Family Services, Inc | LA | $135,981
Volunteers Of America North LA | LA | $197,400
Volunteers Of America North LA | LA | $324,101
Housing Authority of the City of Bossier City, Louisiana | LA | $361,920
Housing Authority of the City of Bossier City, Louisiana | LA | $220,800
Community Support Programs, Inc | LA | $301,902
Community Support Programs, Inc | LA | $263,208
City of New Orleans—Office of Recovery and Development | LA | $636,792
START Corporation | LA | $166,284
START Corporation | LA | $163,536
UNITY of Greater New Orleans | LA | $339,530
YWCA of Northwest Louisiana, Inc | LA | $93,689
City of Baton Rouge & Parish of East Baton Rouge | LA | $197,204
Inner City Revitalization Corp | LA | $33,333
Volunteers of America—Greater Baton Rouge | LA | $122,794
Gulf Coast Teaching Family Services | LA | $135,657
Housing Authority of the City of Sulphur | LA | $140,976
St. Mary Community Action Committee Association, Inc | LA | $64,496
St. Mary Community Action Committee Association, Inc | LA | $73,420
Southeast Spouse Abuse Program | LA | $147,993
Southeast Spouse Abuse Program | LA | $87,978
Elisha Ministries DBA Supportive Housing of Northeast LA | LA | $102,695
UNITY of Greater New Orleans | LA | $109,842
City of Baton Rouge & Parish of East Baton Rouge | LA | $85,599
Volunteers of America North Louisiana | LA | $78,720
City of Baton Rouge & Parish of East Baton Rouge | LA | $83,727
Faith House, Inc | LA | $67,998
City of Baton Rouge & Parish of East Baton Rouge | LA | $46,292
City of Baton Rouge & Parish of East Baton Rouge | LA | $39,900
City of Baton Rouge & Parish of East Baton Rouge | LA | $177,563
City of Baton Rouge & Parish of East Baton Rouge | LA | $93,164
City of Baton Rouge & Parish of East Baton Rouge | LA | $97,334
City of Baton Rouge & Parish of East Baton Rouge | LA | $63,418
City of Baton Rouge & Parish of East Baton Rouge | LA | $88,673
City of Baton Rouge & Parish of East Baton Rouge | LA | $63,661
Elisha Ministries DBA Supportive Housing of Northeast LA | LA | $85,123
UNITY of Greater New Orleans | LA | $173,250
UNITY of Greater New Orleans | LA | $502,142
UNITY of Greater New Orleans | LA | $203,776
UNITY of Greater New Orleans | LA | $99,238
UNITY of Greater New Orleans | LA | $121,819
UNITY of Greater New Orleans | LA | $134,683
UNITY of Greater New Orleans | LA | $217,498
UNITY of Greater New Orleans | LA | $160,537
UNITY of Greater New Orleans | LA | $83,430
UNITY of Greater New Orleans | LA | $187,097
UNITY of Greater New Orleans | LA | $672,522
Vernon Community Action Council, Inc | LA | $70,092
UNITY of Greater New Orleans | LA | $244,276
Volunteers of America North Louisiana | LA | $208,278
UNITY of Greater New Orleans | LA | $2,000,000
UNITY of Greater New Orleans | LA | $1,127,237
The Church United for Community Development | LA | $105,306
Capital Area Alliance for the Homeless | LA | $262,821
Capital Area Alliance for the Homeless | LA | $431,216
Covenant House New Orleans | LA | $79,735
Covenant House New Orleans | LA | $144,622
Hope House of Central Louisiana | LA | $129,084
Volunteers of America North Louisiana | LA | $63,521
LAEHCY | LA | $62,092
UNITY of Greater New Orleans | LA | $312,105
Acadiana C.A.R.E.S., Inc | LA | $59,583
Shreveport SRO, Inc. dba Centerpoint Community Services | LA | $125,200
St. Tammany Parish Government | LA | $94,405
Community Directions, Inc | LA | $66,940
Community Directions, Inc | LA | $72,905
Volunteers of America of Greater New Orleans, Inc | LA | $321,948
St. Francis Foundation, Inc | LA | $21,000
Monroe Area Guidance Center | LA | $80,209
Rays of Sonshine | LA | $149,737
Volunteers of America, Greater Baton Rouge, Inc | LA | $176,613
Acadiana C.A.R.E.S., Inc | LA | $233,216
Caddo Parish School Board | LA | $85,073
Iberia Homeless Shelter Inc | LA | $33,040
Acadiana C.A.R.E.S., Inc | LA | $146,178
Volunteers of America of Greater New Orleans, Inc | LA | $538,656
Southeastern Louisiana University | LA | $148,109
Lafayette Catholic Service Centers, Inc | LA | $35,401
Volunteers of America of Greater New Orleans, Inc | LA | $111,884
Volunteers of America of Greater New Orleans, Inc | LA | $44,343
Volunteers of America of Greater New Orleans, Inc | LA | $481,497
Volunteers of America of Greater New Orleans, Inc | LA | $50,000
Southwestern Louisiana Homeless Coalition, Inc | LA | $53,712
Volunteers of America of Greater New Orleans, Inc | LA | $161,320
Southwestern Louisiana Homeless Coalition, Inc | LA | $25,352
Volunteers of America, Greater Baton Rouge, Inc | LA | $59,861
Lafayette Catholic Service Centers, Inc | LA | $100,533
Lafayette Catholic Service Centers, Inc | LA | $166,213
Lafayette Catholic Service Centers, Inc | LA | $114,499
Lafayette Catholic Service Centers, Inc | LA | $35,087
Lafayette Catholic Service Centers, Inc | LA | $30,975
Lafayette Catholic Service Centers, Inc | LA | $56,000
Southwestern Louisiana Homeless Coalition, Inc | LA | $57,220
Acadiana Outreach Center, Inc | LA | $136,941
Volunteers of America of Greater New Orleans, Inc | LA | $196,288
St. Martin, Iberia, Lafayette Community Action Agency SMILE | LA | $31,911
Women Outreaching Women | LA | $43,327
Southeast Louisiana State hospital | LA | $163,257
Women Outreaching Women | LA | $43,864
Hammond Housing Authority | LA | $180,870
Southeast Louisiana State hospital | LA | $68,431
Southeast Louisiana State hospital | LA | $166,497
Our House, Inc | LA | $57,447
Acadiana Outreach Center, Inc | LA | $129,868
Acadiana Outreach Center, Inc | LA | $49,290
Southeast Louisiana State hospital | LA | $80,134
Volunteer Center Southwest Louisiana Inc | LA | $116,483
City of Northampton | MA | $22,313
Commonwealth of Massachusetts | MA | $49,392
City of Northampton | MA | $106,022
Commonwealth of Massachusetts | MA | $199,238
Commonwealth of Massachusetts | MA | $486,803
Commonwealth of Massachusetts | MA | $948,456
North Shore Community Action Programs, Inc | MA | $142,311
City of Northampton | MA | $80,351
City of Northampton | MA | $104,994
Commonwealth of Massachusetts | MA | $132,657
City of Northampton | MA | $94,500
Commonwealth of Massachusetts | MA | $148,380
City of Northampton | MA | $244,517
Commonwealth of Massachusetts | MA | $206,280
The Psychological Center, Inc | MA | $138,734
YWCA of Greater Lawrence, Inc | MA | $187,950
Father Bills & MainSpring, Inc | MA | $41,346
Father Bills & MainSpring, Inc | MA | $189,807
Father Bills & MainSpring, Inc | MA | $237,078
Father Bills & MainSpring, Inc | MA | $87,167
City of Boston Acting by and through its PFC by DND | MA | $307,434
Housing Families Inc | MA | $132,822
Pine Street Inn, Inc | MA | $28,000
Commonwealth of Massachusetts | MA | $234,726
Shelter Inc | MA | $70,240
Commonwealth of Massachusetts | MA | $288,384
Commonwealth of Massachusetts | MA | $441,336
Commonwealth of Massachusetts | MA | $677,808
Commonwealth of Massachusetts | MA | $668,185
Shelter Inc | MA | $135,584
Commonwealth of Massachusetts | MA | $31,500
Shelter Inc | MA | $489,488
City of Boston Acting by and through its PFC by DND | MA | $1,022,804
Shelter Inc | MA | $138,799
Commonwealth of Massachusetts | MA | $195,236
Commonwealth of Massachusetts | MA | $577,632
Commonwealth of Massachusetts | MA | $199,152
Malden Housing Authority | MA | $137,520
Commonwealth of Massachusetts | MA | $210,000
Shelter Inc | MA | $216,409
Commonwealth of Massachusetts | MA | $82,560
City of Boston Acting by and through its PFC by DND | MA | $311,311
Commonwealth of Massachusetts | MA | $826,248
Commonwealth of Massachusetts | MA | $142,296
North Shore Community Action Programs, Inc | MA | $31,448
City of Northampton | MA | $100,527
Commonwealth of Massachusetts | MA | $509,284
City of Boston Acting by and through its PFC by DND | MA | $184,680
City of Northampton | MA | $68,080
City of Boston Acting by and through its PFC by DND | MA | $176,010
Commonwealth of Massachusetts | MA | $258,788
Transition House (Family Development Program) | MA | $14,073
Commonwealth of Massachusetts | MA | $754,605
Commonwealth of Massachusetts | MA | $298,836
Somerville Housing Authority | MA | $128,292
City of Northampton | MA | $42,018
City of Northampton | MA | $55,493
City of Quincy, MA | MA | $80,390
Emmaus Inc | MA | $102,100
City of Quincy, MA | MA | $102,690
City of Boston Acting by and through its PFC by DND | MA | $55,777
City of Boston Acting by and through its PFC by DND | MA | $206,315
City of Boston Acting by and through its PFC by DND | MA | $221,669
City of Quincy, MA | MA | $192,528
City of Quincy, MA | MA | $302,544
City of Lawrence | MA | $14,962
City of Quincy, MA | MA | $137,520
City of Boston Acting by and through its PFC by DND | MA | $188,161
City of Quincy, MA | MA | $294,168
City of Boston Acting by and through its PFC by DND | MA | $203,919
Somerville Community Corporation | MA | $146,786
City of Boston Acting by and through its PFC by DND | MA | $435,278
City of Boston Acting by and through its PFC by DND | MA | $295,645
City of Boston Acting by and through its PFC by DND | MA | $158,632
City of Quincy, MA | MA | $178,776
City of Boston Acting by and through its PFC by DND | MA | $310,701
City of Fall River | MA | $72,550
City of Boston Acting by and through its PFC by DND | MA | $762,552
City of Boston Acting by and through its PFC by DND | MA | $380,856
City of Boston Acting by and through its PFC by DND | MA | $42,408
City of Boston Acting by and through its PFC by DND | MA | $1,719,264
City of Boston Acting by and through its PFC by DND | MA | $223,164
City of Boston Acting by and through its PFC by DND | MA | $227,724
City of Boston Acting by and through its PFC by DND | MA | $312,360
Emmaus Inc | MA | $67,542
City of Fall River | MA | $103,240
City of Boston Acting by and through its PFC by DND | MA | $230,831
City of Fall River | MA | $428,496
City of Fall River | MA | $37,800
City of Fall River | MA | $347,785
City of Haverhill | MA | $108,000
City of Haverhill | MA | $250,725
City of Boston Acting by and through its PFC by DND | MA | $289,305
Family Continuity Program (FCP, Inc.) | MA | $22,198
City of Boston Acting by and through its PFC by DND | MA | $56,889
City of Fall River | MA | $153,552
City of Quincy, MA | MA | $102,337
South Middlesex Opportunity Council | MA | $116,150
City of Quincy, MA | MA | $197,304
City of Quincy, MA | MA | $69,548
City of Boston Acting by and through its PFC by DND | MA | $199,892
The Second Step, Inc | MA | $63,344
City of Quincy, MA | MA | $311,424
City of Boston Acting by and through its PFC by DND | MA | $1,082,575
City of Boston Acting by and through its PFC by DND | MA | $121,801
City of Boston Acting by and through its PFC by DND | MA | $1,382,236
Lynn Housing Authority & Neighborhood Development | MA | $283,250
City of Boston Acting by and through its PFC by DND | MA | $341,074
City of Quincy, MA | MA | $86,509
Community Healthlink, Inc | MA | $366,405
City of Quincy, MA | MA | $99,791
Brookline Community Mental Health Center | MA | $121,098
Wayside Youth & Family Support Network | MA | $235,821
Residential Care Consortium, Inc | MA | $167,241
City of Boston Acting by and through its PFC by DND | MA | $310,453
Lynn Housing Authority & Neighborhood Development | MA | $29,383
Catholic Charitable Bureau of the Archdiocese of Boston, Inc | MA | $50,972
City of Lawrence | MA | $12,416
City of Lawrence | MA | $20,895
City of Quincy, MA | MA | $205,253
City of Quincy, MA | MA | $219,932
South Coastal Counties Legal Services, Inc | MA | $24,937
City of Boston Acting by and through its PFC by DND | MA | $411,215
Veterans Northeast Outreach Center, Inc | MA | $135,487
City of Quincy, MA | MA | $246,885
Lynn Housing Authority & Neighborhood Development | MA | $239,507
Lynn Housing Authority & Neighborhood Development | MA | $26,012
Lynn Housing Authority & Neighborhood Development | MA | $89,493
Lynn Housing Authority & Neighborhood Development | MA | $257,544
Lynn Housing Authority & Neighborhood Development | MA | $44,887
Lynn Housing Authority & Neighborhood Development | MA | $705,900
Lynn Housing Authority & Neighborhood Development | MA | $41,300
Lynn Housing Authority & Neighborhood Development | MA | $12,561
City of Boston Acting by and through its PFC by DND | MA | $1,896,587
South Middlesex Opportunity Council | MA | $79,128
City of Cambridge, Massachusetts | MA | $32,497
Central Massachusetts Housing Alliance, Inc | MA | $655,822
City of Cambridge, Massachusetts | MA | $137,815
City of Cambridge, Massachusetts | MA | $32,640
City of Cambridge, Massachusetts | MA | $108,955
City of Cambridge, Massachusetts | MA | $20,790
Action Inc | MA | $114,400
Community Counseling of Bristol County, Inc | MA | $83,522
Community Counseling of Bristol County, Inc | MA | $91,618
Advocates Inc | MA | $117,213
Community Counseling of Bristol County, Inc | MA | $41,269
Advocates Inc | MA | $83,860
Merrimack Valley Young Men's Christian Organization | MA | $80,665
City of Cambridge, Massachusetts | MA | $28,946
City of Cambridge, Massachusetts | MA | $72,198
City of Cambridge, Massachusetts | MA | $162,236
United Way of Greater Attleboro/Taunton, Inc | MA | $142,339
City of New Bedford | MA | $306,379
City of New Bedford | MA | $29,524
City of New Bedford | MA | $97,884
Community Counseling of Bristol County, Inc | MA | $108,954
City of Cambridge, Massachusetts | MA | $60,986
The Second Step, Inc | MA | $216,474
City of Cambridge, Massachusetts | MA | $56,541
City of Cambridge, Massachusetts | MA | $34,999
City of Cambridge, Massachusetts | MA | $82,870
Central Massachusetts Housing Alliance, Inc | MA | $146,490
City of Cambridge, Massachusetts | MA | $52,605
City of Cambridge, Massachusetts | MA | $14,386
City of Cambridge, Massachusetts | MA | $51,042
Advocates Inc | MA | $33,438
City of Taunton | MA | $93,835
City of New Bedford | MA | $198,609
City of Cambridge, Massachusetts | MA | $33,600
Barnstable Housing Authority | MA | $34,860
Barnstable Housing Authority | MA | $380,520
Barnstable Housing Authority | MA | $108,720
Advocates Inc | MA | $83,860
Advocates Inc | MA | $168,022
City of Cambridge, Massachusetts | MA | $58,530
Advocates Inc | MA | $169,781
Barnstable Housing Authority | MA | $59,676
City of Springfield | MA | $152,428
Just-A-Start | MA | $23,100
South Middlesex Legal Services, Inc | MA | $48,506
Housing For All Corporation | MA | $44,200
City of Springfield | MA | $454,080
City of Springfield | MA | $211,431
City of Springfield | MA | $195,574
City of Springfield | MA | $217,908
City of Springfield | MA | $118,831
City of Worcester, MA | MA | $472,156
City of Springfield | MA | $135,641
Somerville Homeless Coalition, Inc | MA | $417,423
City of Springfield | MA | $96,694
City of Springfield | MA | $82,560
City of Springfield | MA | $99,072
City of Springfield | MA | $35,420
City of Worcester, MA | MA | $181,582
City of Worcester, MA | MA | $647,328
City of Boston Acting by and through its PFC by DND | MA | $249,106
City of Worcester, MA | MA | $360,661
City of Springfield | MA | $29,733
Duffy Health Center, Inc | MA | $21,924
City of Cambridge, Massachusetts | MA | $98,442
Mass. Department of Mental Health | MA | $217,440
City of New Bedford | MA | $279,016
Community Healthlink, Inc | MA | $246,979
City of Boston Acting by and through its PFC by DND | MA | $1,091,088
City of Boston Acting by and through its PFC by DND | MA | $34,617
City of Boston Acting by and through its PFC by DND | MA | $133,369
City of Boston Acting by and through its PFC by DND | MA | $152,251
South Shore Housing Development Corporation | MA | $42,000
Brookline Community Mental Health Center | MA | $70,797
Somerville Homeless Coalition, Inc | MA | $163,827
City of Worcester, MA | MA | $272,520
Berkshire Community Action Council | MA | $133,190
Duffy Health Center, Inc | MA | $43,848
City of Boston Acting by and through its PFC by DND | MA | $387,720
Citizens for Affordable Housing in Newton Development Organ, | MA | $12,616
South Shore Housing Development Corporation | MA | $83,125
Somerville Homeless Coalition, Inc | MA | $40,011
Somerville Homeless Coalition, Inc | MA | $194,608
City of New Bedford | MA | $248,564
City of Boston Acting by and through its PFC by DND | MA | $187,532
Tri-City Community Action Program (Tri-CAP) | MA | $175,964
CASPAR, Inc | MA | $150,793
City of Boston Acting by and through its PFC by DND | MA | $44,100
City of Boston Acting by and through its PFC by DND | MA | $79,869
City of Boston Acting by and through its PFC by DND | MA | $90,185
City of Boston Acting by and through its PFC by DND | MA | $37,010
City of Boston Acting by and through its PFC by DND | MA | $56,883
City of Boston Acting by and through its PFC by DND | MA | $49,392
Haverhill Housing Authority | MA | $158,760
City of Boston Acting by and through its PFC by DND | MA | $217,233
CASPAR, Inc | MA | $39,138
Construct, Inc | MA | $41,200
Tri-City Community Action Program (Tri-CAP) | MA | $183,961
Vinfen Corporation | MA | $36,955
City of Boston Acting by and through its PFC by DND | MA | $104,843
City of Boston Acting by and through its PFC by DND | MA | $67,618
City of Boston Acting by and through its PFC by DND | MA | $234,780
City of Boston Acting by and through its PFC by DND | MA | $530,164
City of Cambridge, Massachusetts | MA | $18,480
City of Boston Acting by and through its PFC by DND | MA | $476,311
City of Boston Acting by and through its PFC by DND | MA | $733,356
City of Northampton | MA | $72,450
City of Boston Acting by and through its PFC by DND | MA | $48,442
Family Life Support Center | MA | $53,667
The Second Step, Inc | MA | $65,810
The Second Step, Inc | MA | $94,045
City of Northampton | MA | $200,529
City of Boston Acting by and through its PFC by DND | MA | $32,586
City of Boston Acting by and through its PFC by DND | MA | $108,244
CASPAR, Inc | MA | $114,450
City of Boston Acting by and through its PFC by DND | MA | $233,280
CASPAR, Inc | MA | $81,498
City of Boston Acting by and through its PFC by DND | MA | $141,792
City of Boston Acting by and through its PFC by DND | MA | $194,400
City of Boston Acting by and through its PFC by DND | MA | $245,814
Lynn Shelter Association | MA | $211,146
Turning Point, Inc | MA | $282,569
City of Boston Acting by and through its PFC by DND | MA | $288,363
Family Life Support Center | MA | $136,491
City of Lowell, Massachusetts | MA | $40,325
Steppingstone, Inc | MA | $329,091
City of Cambridge, Massachusetts | MA | $45,479
City of Cambridge, Massachusetts | MA | $123,768
City of Lowell, Massachusetts | MA | $400,894
Central Massachusetts Housing Alliance, Inc | MA | $135,447
Central Massachusetts Housing Alliance, Inc | MA | $117,667
Central Massachusetts Housing Alliance, Inc | MA | $262,500
Central Massachusetts Housing Alliance, Inc | MA | $104,999
Central Massachusetts Housing Alliance, Inc | MA | $259,536
Central Massachusetts Housing Alliance, Inc | MA | $98,786
Berkshire Community Action Council | MA | $46,988
Central Massachusetts Housing Alliance, Inc | MA | $139,119
City of Cambridge, Massachusetts | MA | $ 9,916
Central Massachusetts Housing Alliance, Inc | MA | $219,247
Central Massachusetts Housing Alliance, Inc | MA | $49,700
City of Cambridge, Massachusetts | MA | $17,724
City of Cambridge, Massachusetts | MA | $340,131
City of Cambridge, Massachusetts | MA | $246,738
City of Cambridge, Massachusetts | MA | $171,142
City of Cambridge, Massachusetts | MA | $52,295
City of Cambridge, Massachusetts | MA | $460,807
City of Cambridge, Massachusetts | MA | $19,527
City of New Bedford | MA | $270,690
City of Lowell, Massachusetts | MA | $67,350
City of Lowell, Massachusetts | MA | $92,038
City of Boston Acting by and through its PFC by DND | MA | $201,048
Twin Cities Community Development Corporation | MA | $91,018
Housing Assistance Corporation | MA | $66,431
City of Boston Acting by and through its PFC by DND | MA | $28,350
Catholic Social Services of Fall River, Inc | MA | $119,469
Catholic Social Services of Fall River, Inc | MA | $31,708
City of Cambridge, Massachusetts | MA | $119,316
City of Lowell, Massachusetts | MA | $189,283
City of Cambridge, Massachusetts | MA | $169,649
City of New Bedford | MA | $96,819
Central Massachusetts Housing Alliance, Inc | MA | $362,650
City of Boston Acting by and through its PFC by DND | MA | $118,768
Central Massachusetts Housing Alliance, Inc | MA | $38,850
Central Massachusetts Housing Alliance, Inc | MA | $78,601
City of New Bedford | MA | $192,193
Cambridge Housing Authority | MA | $291,600
City of Cambridge, Massachusetts | MA | $57,750
Catholic Social Services of Fall River, Inc | MA | $25,811
Garrett County Community Action Committee, Inc | MD | $52,473
Garrett County Community Action Committee, Inc | MD | $12,974
Human Services Programs of Carroll County, Inc | MD | $15,336
Human Services Programs of Carroll County, Inc | MD | $34,998
Human Services Programs of Carroll County, Inc | MD | $49,865
Human Services Programs of Carroll County, Inc | MD | $7,794
Human Services Programs of Carroll County, Inc | MD | $7,871
Garrett County Community Action Committee, Inc | MD | $9,843
Human Services Programs of Carroll County, Inc | MD | $44,000
Housing Opportunities Commission | MD | $573,792
Montgomery County Coalition for the Homeless, Inc | MD | $270,869
Montgomery County Coalition for the Homeless, Inc | MD | $134,433
Montgomery County Coalition for the Homeless, Inc | MD | $511,058
Montgomery County Coalition for the Homeless, Inc | MD | $359,232
Montgomery County Coalition for the Homeless, Inc | MD | $826,569
Human Services Programs of Carroll County, Inc | MD | $86,135
City of Baltimore—Baltimore Homeless Services | MD | $284,040
City of Baltimore—Baltimore Homeless Services | MD | $136,196
City of Baltimore—Baltimore Homeless Services | MD | $102,062
City of Baltimore—Baltimore Homeless Services | MD | $308,504
City of Baltimore—Baltimore Homeless Services | MD | $157,800
City of Baltimore—Baltimore Homeless Services | MD | $291,244
Housing Authority of St. Mary's County, MD | MD | $34,959
Housing Authority of St. Mary's County, MD | MD | $41,938
City of Baltimore—Baltimore Homeless Services | MD | $822,648
Housing Authority of St. Mary's County, MD | MD | $70,633
City of Baltimore—Baltimore Homeless Services | MD | $260,400
City of Baltimore—Baltimore Homeless Services | MD | $235,136
City of Baltimore—Baltimore Homeless Services | MD | $261,777
City of Baltimore—Baltimore Homeless Services | MD | $97,356
Housing Authority of St. Mary's County, MD | MD | $110,360
Housing Authority of St. Mary's County, MD | MD | $42,451
City of Baltimore—Baltimore Homeless Services | MD | $297,461
Allegany County Human Resources Development Commission, Inc | MD | $66,044
Housing Authority of St. Mary's County, MD | MD | $179,372
City of Baltimore—Baltimore Homeless Services | MD | $69,258
Maryland Department of Health and Mental Hygiene | MD | $137,604
City of Baltimore—Baltimore Homeless Services | MD | $58,776
City of Baltimore—Baltimore Homeless Services | MD | $41,149
City of Baltimore—Baltimore Homeless Services | MD | $41,664
City of Baltimore—Baltimore Homeless Services | MD | $335,087
City of Baltimore—Baltimore Homeless Services | MD | $1,421,238
City of Baltimore—Baltimore Homeless Services | MD | $181,968
City of Baltimore—Baltimore Homeless Services | MD | $94,680
City of Baltimore—Baltimore Homeless Services | MD | $31,138
City of Baltimore—Baltimore Homeless Services | MD | $34,341
City of Baltimore—Baltimore Homeless Services | MD | $78,750
City of Baltimore—Baltimore Homeless Services | MD | $214,025
City of Gaithersburg—Wells/Robertson House | MD | $128,247
City of Baltimore—Baltimore Homeless Services | MD | $488,651
City of Baltimore—Baltimore Homeless Services | MD | $100,044
City of Baltimore—Baltimore Homeless Services | MD | $113,461
City of Baltimore—Baltimore Homeless Services | MD | $251,744
Allegany County Human Resources Development Commission, Inc | MD | $32,739
City of Baltimore—Baltimore Homeless Services | MD | $205,926
Howard County Government | MD | $134,386
Allegany County Human Resources Development Commission, Inc | MD | $71,068
United Communities Against Poverty, Inc. (UCAP) | MD | $194,852
United Communities Against Poverty, Inc. (UCAP) | MD | $158,919
AIDS Interfaith Residential Services, Inc | MD | $185,039
AIDS Interfaith Residential Services, Inc | MD | $149,522
AIDS Interfaith Residential Services, Inc | MD | $38,800
Washington County Department of Social Services | MD | $45,839
Prince George's County Department of Social Services | MD | $380,156
Howard County Government | MD | $52,363
Prince George's County Department of Social Services | MD | $382,783
YMCA of Cumberland | MD | $70,350
YMCA of Cumberland | MD | $30,870
YMCA of Cumberland | MD | $50,457
YMCA of Cumberland | MD | $114,533
YMCA of Cumberland | MD | $163,418
Howard County Government | MD | $236,433
Howard County Government | MD | $70,504
Associated Catholic Charities | MD | $79,198
Howard County Government | MD | $158,016
City of Baltimore—Baltimore Homeless Services | MD | $93,744
City of Baltimore—Baltimore Homeless Services | MD | $32,983
Allegany County Human Resources Development Commission, Inc | MD | $14,676
City of Baltimore—Baltimore Homeless Services | MD | $207,973
City of Baltimore—Baltimore Homeless Services | MD | $552,300
City of Baltimore—Baltimore Homeless Services | MD | $1,559,532
City of Baltimore—Baltimore Homeless Services | MD | $111,552
City of Baltimore—Baltimore Homeless Services | MD | $611,913
United Communities Against Poverty, Inc. (UCAP) | MD | $161,403
City of Baltimore—Baltimore Homeless Services | MD | $166,656
City of Baltimore—Baltimore Homeless Services | MD | $98,780
City of Baltimore—Baltimore Homeless Services | MD | $23,520
City of Baltimore—Baltimore Homeless Services | MD | $208,320
City of Baltimore—Baltimore Homeless Services | MD | $1,208,904
City of Baltimore—Baltimore Homeless Services | MD | $87,158
City of Baltimore—Baltimore Homeless Services | MD | $100,248
City of Baltimore—Baltimore Homeless Services | MD | $1,168,611
Prince George's County Department of Social Services | MD | $908,844
Prince George's County Department of Social Services | MD | $116,193
City of Baltimore—Baltimore Homeless Services | MD | $356,031
Maryland Department of Health and Mental Hygiene | MD | $328,644
JHP, Inc | MD | $136,761
Maryland Department of Health and Mental Hygiene | MD | $120,648
Maryland Department of Health and Mental Hygiene | MD | $33,276
Maryland Department of Health and Mental Hygiene | MD | $219,084
Somerset County Health Department | MD | $227,480
Somerset County Health Department | MD | $421,857
Somerset County Health Department | MD | $14,076
City of Baltimore—Baltimore Homeless Services | MD | $114,805
Maryland Department of Health and Mental Hygiene | MD | $147,480
City of Frederick | MD | $135,536
Maryland Department of Health and Mental Hygiene | MD | $146,856
Maryland Department of Health and Mental Hygiene | MD | $101,136
People Encouraging People, Inc | MD | $314,950
City of Baltimore—Baltimore Homeless Services | MD | $165,152
City of Baltimore—Baltimore Homeless Services | MD | $231,315
City of Baltimore—Baltimore Homeless Services | MD | $49,776
City of Baltimore—Baltimore Homeless Services | MD | $50,022
Somerset County Health Department | MD | $13,866
Baltimore Mental Health Systems, Inc | MD | $227,566
Baltimore County, Maryland | MD | $105,000
Baltimore County, Maryland | MD | $248,745
Anne Arundel County, Maryland | MD | $113,568
Baltimore County, Maryland | MD | $431,727
Baltimore County, Maryland | MD | $168,914
Heartly House, Inc | MD | $35,074
Baltimore Mental Health Systems, Inc | MD | $342,117
JHP, Inc | MD | $228,186
Baltimore Mental Health Systems, Inc | MD | $247,453
Advocates for Homeless Families, Inc | MD | $24,008
Baltimore Mental Health Systems, Inc | MD | $252,874
Baltimore Mental Health Systems, Inc | MD | $392,200
Baltimore Mental Health Systems, Inc | MD | $369,600
Friends for Neighborhood Progress, Inc | MD | $21,882
Friends for Neighborhood Progress, Inc | MD | $8,175
Friends for Neighborhood Progress, Inc | MD | $8,829
City of Frederick | MD | $65,896
City of Baltimore—Baltimore Homeless Services | MD | $99,552
Baltimore Mental Health Systems, Inc | MD | $159,600
City of Baltimore—Baltimore Homeless Services | MD | $49,776
City of Baltimore—Baltimore Homeless Services | MD | $168,300
Crossroads Community, Inc | MD | $13,713
Crossroads Community, Inc | MD | $39,019
City of Baltimore—Baltimore Homeless Services | MD | $363,849
City of Baltimore—Baltimore Homeless Services | MD | $107,116
City of Baltimore—Baltimore Homeless Services | MD | $55,347
City of Baltimore—Baltimore Homeless Services | MD | $38,127
Crossroads Community, Inc | MD | $61,972
City of Baltimore—Baltimore Homeless Services | MD | $62,220
Crossroads Community, Inc | MD | $13,584
City of Baltimore—Baltimore Homeless Services | MD | $35,343
City of Baltimore—Baltimore Homeless Services | MD | $173,250
City of Baltimore—Baltimore Homeless Services | MD | $74,001
City of Baltimore—Baltimore Homeless Services | MD | $118,835
City of Baltimore—Baltimore Homeless Services | MD | $117,065
City of Baltimore—Baltimore Homeless Services | MD | $175,124
City of Baltimore—Baltimore Homeless Services | MD | $1,109,352
City of Baltimore—Baltimore Homeless Services | MD | $466,080
Maryland Department of Health and Mental Hygiene | MD | $247,728
Maryland Department of Health and Mental Hygiene | MD | $134,232
Garrett County Community Action Committee, Inc | MD | $153,305
City of Baltimore—Baltimore Homeless Services | MD | $45,378
City of Baltimore—Baltimore Homeless Services | MD | $260,400
Maryland Department of Health and Mental Hygiene | MD | $1,035,420
Maryland Department of Health and Mental Hygiene | MD | $91,392
Housing Opportunities Commission | MD | $1,119,531
Housing Opportunities Commission | MD | $79,533
Crossroads Community, Inc | MD | $117,078
Housing Opportunities Commission | MD | $144,938
Maryland Department of Health and Mental Hygiene | MD | $80,928
Maryland Department of Health and Mental Hygiene | MD | $221,856
City of Baltimore—Baltimore Homeless Services | MD | $46,235
City of Baltimore—Baltimore Homeless Services | MD | $55,860
City of Baltimore—Baltimore Homeless Services | MD | $67,554
Maryland Department of Health and Mental Hygiene | MD | $57,384
City of Baltimore—Baltimore Homeless Services | MD | $109,032
Maryland Department of Health and Mental Hygiene | MD | $203,232
City of Baltimore—Baltimore Homeless Services | MD | $155,548
Housing Opportunities Commission | MD | $1,188,244
Catholic Charities of the Archdiocese of Washington DC | MD | $86,391
Anne Arundel County, Maryland | MD | $324,252
Rehabilitation Systems, Inc | MD | $132,958
Rehabilitation Systems, Inc | MD | $368,004
Rehabilitation Systems, Inc | MD | $234,720
Anne Arundel County, Maryland | MD | $41,597
Anne Arundel County, Maryland | MD | $171,056
Harford County, Maryland | MD | $20,371
Board of County Commissioners of Calvert County, Maryland | MD | $18,252
Human Services Developmental Corporation, Inc | MD | $76,727
Cecil County Department of Social Services | MD | $37,996
Harford County, Maryland | MD | $83,944
Community Assistance Network, Inc | MD | $174,593
The National Center for Children and Families | MD | $541,738
The National Center for Children and Families | MD | $640,658
Baltimore County, Maryland | MD | $15,750
Laurel Advocacy and Referral Services, Inc | MD | $185,770
Laurel Advocacy and Referral Services, Inc | MD | $47,265
Baltimore County, Maryland | MD | $80,138
Nehemiah House, Inc | MD | $57,295
Catholic Charities of the Archdiocese of Washington DC | MD | $78,839
Washington County Community Action Council, Inc | MD | $138,666
Community Coalition for Affordable Housing, Inc | MD | $11,330
Harford County, Maryland | MD | $83,975
Montgomery Avenue Women's Center | MD | $138,183
Harford County, Maryland | MD | $10,585
Harford County, Maryland | MD | $56,047
Washington County Community Action Council, Inc | MD | $56,367
Anne Arundel County, Maryland | MD | $58,349
Washington County Community Action Council, Inc | MD | $60,063
Catholic Charities of the Archdiocese of Washington DC | MD | $235,903
Mid-Shore Mental Health Systems, Inc | MD | $59,306
Mid-Shore Mental Health Systems, Inc | MD | $176,136
Anne Arundel County, Maryland | MD | $70,786
Anne Arundel County, Maryland | MD | $54,548
Harford County, Maryland | MD | $9,273
Harford County, Maryland | MD | $89,770
Anne Arundel County, Maryland | MD | $329,983
Harford County, Maryland | MD | $71,263
Harford County, Maryland | MD | $48,358
Anne Arundel County, Maryland | MD | $252,273
Catholic Charities of the Archdiocese of Washington DC | MD | $24,245
Anne Arundel County, Maryland | MD | $129,499
Acadia Healthcare Inc | ME | $9,975
State of Maine, Department of Health and Human Services | ME | $685,020
State of Maine, Department of Health and Human Services | ME | $397,848
Youth Alternatives, Inc | ME | $126,936
State of Maine, Department of Health and Human Services | ME | $1,014,912
State of Maine, Department of Health and Human Services | ME | $1,442,652
Youth Alternatives, Inc | ME | $307,099
Youth Alternatives, Inc | ME | $82,356
Community Health and Counseling Services | ME | $18,599
Shaw House | ME | $95,550
State of Maine, Department of Health and Human Services | ME | $285,480
City of Bangor | ME | $255,840
State of Maine, Department of Health and Human Services | ME | $301,992
State of Maine, Department of Health and Human Services | ME | $97,488
Maine State Housing Authority | ME | $154,959
City of Portland | ME | $27,970
City of Portland | ME | $15,443
City of Portland | ME | $158,126
Community Housing of Maine, Inc | ME | $19,635
York County Shelter Programs, Inc | ME | $33,238
York County Shelter Programs, Inc | ME | $111,127
York County Shelter Programs, Inc | ME | $99,174
OHI | ME | $27,900
Counseling Services, Inc | ME | $64,410
Battered Women's Project | ME | $27,251
Portland West, Inc | ME | $70,652
Kennebec Behavioral Health | ME | $32,838
City of Bangor | ME | $62,640
State of Maine, Department of Health and Human Services | ME | $142,320
City of Bangor | ME | $255,192
Tedford Housing | ME | $391,203
Tedford Housing | ME | $6,825
State of Maine, Department of Health and Human Services | ME | $232,164
State of Maine, Department of Health and Human Services | ME | $1,175,640
City of Portland | ME | $70,016
Maine State Housing Authority | ME | $66,431
State of Maine, Department of Health and Human Services | ME | $194,160
State of Maine, Department of Health and Human Services | ME | $96,480
State of Maine, Department of Health and Human Services | ME | $13,224
State of Maine, Department of Health and Human Services | ME | $201,252
City of Bangor | ME | $72,672
MAPS/My Choice | ME | $71,355
Avesta Housing Development Corporation | ME | $304,266
Washington County Association for Retarded Citizens | ME | $28,927
New Beginnings, Inc | ME | $167,116
City of Bangor Maine | ME | $16,758
Oakland Livingston Human Service Agency | MI | $16,728
Human Development Commission | MI | $244,603
SIREN/Eaton Shelter, Inc | MI | $113,400
Peckham, Inc | MI | $146,877
S.A.F.E. Place | MI | $86,976
Community Housing Network, Inc | MI | $69,737
Oakland Livingston Human Service Agency | MI | $25,083
Housing Resources, Inc. of Kalamazoo County | MI | $232,318
Housing Resources, Inc. of Kalamazoo County | MI | $47,862
Housing Resources, Inc. of Kalamazoo County | MI | $317,960
Michigan Department of Human Services | MI | $537,640
Michigan Department of Human Services | MI | $870,274
Community Housing Network, Inc | MI | $71,554
Community Housing Network, Inc | MI | $209,365
Catholic Family Services | MI | $104,240
Community Housing Network, Inc | MI | $100,399
Women Empowering Women, Inc | MI | $19,764
Michigan Ability Partners | MI | $51,100
Michigan Ability Partners | MI | $41,316
Mariners Inn | MI | $243,585
Relief After Violent Encounter-Ionia/Montcalm, Inc | MI | $57,833
YWCA West Central Michigan | MI | $391,898
Shelter, Inc | MI | $44,241
Oakland Livingston Human Service Agency | MI | $16,080
Training and Treatment Innovations, Inc | MI | $150,051
Goodwill Industries of Northern Michigan, Inc | MI | $25,620
Macomb County Community Mental Health | MI | $22,817
Positive Images | MI | $700,009
Wayne, Charter County of | MI | $175,143
Allegan County Community Mental Health Services | MI | $84,800
Training and Treatment Innovations, Inc | MI | $109,192
SIREN/Eaton Shelter, Inc | MI | $165,340
Training and Treatment Innovations, Inc | MI | $115,054
Training and Treatment Innovations, Inc | MI | $151,532
Saginaw County Community Mental Health Authority | MI | $208,152
Capital Area Community Services, Inc | MI | $93,809
Wayne County Neighborhood Legal Services | MI | $335,863
Genesis Non-Profit Housing Corporation | MI | $36,750
Genesis Non-Profit Housing Corporation | MI | $26,250
Lighthouse of Oakland County, Inc | MI | $100,762
Eastern Upper Peninsula Veterans Foundation | MI | $115,166
Covenant House Michigan | MI | $400,233
Jewish Vocational Service | MI | $816,441
Housing Services for Eaton County | MI | $197,007
SOS Community Services, Inc | MI | $252,455
Homes From Heaven | MI | $57,081
Saginaw County Community Mental Health Authority | MI | $70,224
Metro Housing Partnership | MI | $232,913
Southwest Housing Solutions | MI | $129,539
Community Housing Network, Inc | MI | $212,524
Freedom House Detroit | MI | $383,543
Inner City Christian Federation | MI | $38,810
Genesee County Community Action Resource Department | MI | $313,800
Lansing Housing Commission | MI | $261,792
Michigan Department of Human Services | MI | $322,507
Saginaw County Youth Protection Council | MI | $66,610
Capital Area Community Services, Inc | MI | $106,791
Lighthouse of Oakland County, Inc | MI | $103,106
Lighthouse of Oakland County, Inc | MI | $171,337
Saginaw County Youth Protection Council | MI | $126,000
Genesis Non-Profit Housing Corporation | MI | $32,550
SOS Community Services, Inc | MI | $1,182,579
United Community Housing Coalition | MI | $569,351
Genesee County Community Action Resource Department | MI | $171,708
Lutheran Social Services of Wisconsin and Upper Michigan, In | MI | $104,307
Catholic Social Services of Wayne County | MI | $181,418
Catholic Social Services of Wayne County | MI | $217,209
Alternatives For Girls | MI | $111,726
Lutheran Social Services of Wisconsin and Upper Michigan, In | MI | $89,209
Saginaw County Youth Protection Council | MI | $174,789
Lighthouse of Oakland County, Inc | MI | $203,741
Michigan Department of Community Health | MI | $156,948
Community Action Agency | MI | $56,131
Branch County Coalition Against Domestic Violence | MI | $20,700
Branch County Coalition Against Domestic Violence | MI | $14,422
Foundation for Mental Health-Grand Traverse/Leelanau | MI | $90,209
Foundation for Mental Health-Grand Traverse/Leelanau | MI | $12,588
Foundation for Mental Health-Grand Traverse/Leelanau | MI | $42,105
Michigan Department of Community Health | MI | $178,644
Foundation for Mental Health-Grand Traverse/Leelanau | MI | $71,400
Community Mental Health Services of Muskegon County | MI | $102,888
Michigan Department of Community Health | MI | $121,752
Michigan Department of Community Health | MI | $170,736
Mariners Inn | MI | $289,004
First Step: Western Wayne County Project on Domestic Assault | MI | $41,658
First Step: Western Wayne County Project on Domestic Assault | MI | $47,581
Ann Arbor Housing Commission | MI | $71,256
Michigan Ability Partners | MI | $403,071
Foundation for Mental Health-Grand Traverse/Leelanau | MI | $60,170
Homeless Action Network of Detroit | MI | $190,273
Community Action Agency | MI | $54,932
Community Action Agency | MI | $269,267
Community Action Agency | MI | $190,243
Community Mental Health Services of Muskegon County | MI | $42,048
Summit Pointe | MI | $71,333
The Salvation Army Eastern Michigan Division Harbor Light | MI | $466,464
Dwelling Place of Grand Rapids, Inc | MI | $100,935
Grand Rapids Housing Commission | MI | $122,219
Heartside Nonprofit Housing Corporation | MI | $63,000
Grand Rapids Housing Commission | MI | $124,418
Women's Resource Center for the Grand Traverse Area | MI | $133,875
Women's Resource Center for the Grand Traverse Area | MI | $29,517
Ann Arbor Housing Commission | MI | $157,608
Ann Arbor Housing Commission | MI | $296,832
Grand Rapids Housing Commission | MI | $226,900
Metro Housing Partnership | MI | $89,577
Michigan Department of Community Health | MI | $40,560
Community Mental Health Authority of CEI Counties | MI | $49,875
Wayne Metropolitan Community Action Agency | MI | $204,449
Cass Community Social Services, Inc | MI | $420,000
West Michigan Therapy | MI | $13,333
West Michigan Therapy | MI | $62,000
West Michigan Therapy | MI | $234,168
Grand Rapids Housing Commission | MI | $243,155
Wayne Metropolitan Community Action Agency | MI | $191,987
Michigan Department of Community Health | MI | $154,128
Wayne Metropolitan Community Action Agency | MI | $672,770
Michigan Department of Community Health | MI | $134,208
Wayne Metropolitan Community Action Agency | MI | $244,064
Wayne Metropolitan Community Action Agency | MI | $119,279
Wayne Metropolitan Community Action Agency | MI | $280,181
Wayne Metropolitan Community Action Agency | MI | $180,531
Ann Arbor Housing Commission | MI | $232,788
Word Foundation Agape House | MI | $105,000
Wayne Metropolitan Community Action Agency | MI | $369,538
Wayne Metropolitan Community Action Agency | MI | $208,404
Michigan Department of Community Health | MI | $535,716
Michigan Department of Community Health | MI | $317,400
Michigan Department of Community Health | MI | $294,360
Community Mental Health Services of Muskegon County | MI | $16,598
Michigan Department of Community Health | MI | $180,108
Michigan Department of Community Health | MI | $89,232
Cass Community Social Services, Inc | MI | $188,724
Cass Community Social Services, Inc | MI | $257,272
Mariners Inn | MI | $132,235
Michigan Department of Community Health | MI | $636,876
Michigan Department of Community Health | MI | $470,610
Michigan Department of Community Health | MI | $302,280
Michigan Department of Community Health | MI | $1,906,320
Michigan Department of Community Health | MI | $481,800
Michigan Department of Community Health | MI | $362,827
Michigan Department of Community Health | MI | $703,649
Michigan Department of Community Health | MI | $336,288
Community Living Services, Inc | MI | $680,525
Michigan Department of Community Health | MI | $284,280
Charter County of Wayne | MI | $127,813
Community Housing Network, Inc | MI | $267,996
Metro Housing Partnership | MI | $50,269
Metro Housing Partnership | MI | $700,975
Metro Housing Partnership | MI | $66,248
Bay Area Women's Center | MI | $60,483
Metro Housing Partnership | MI | $62,160
Coalition On Temporary Shelter | MI | $68,259
POWER Inc (People-Organized-Working-Evolving-Reaching) | MI | $168,871
City of Lansing | MI | $97,081
Bay Area Women's Center | MI | $106,488
Lutheran Social Services of Michigan | MI | $76,987
Travelers Aid Society of Metropolitan Detroit | MI | $213,474
Metro Housing Partnership | MI | $64,750
Travelers Aid Society of Metropolitan Detroit | MI | $223,031
Northpointe Behavioral Healthcare Systems | MI | $ 5,850
Center for Women in Transition | MI | $23,220
Alternative Community Living, Inc | MI | $36,211
City of Lansing | MI | $24,001
Alger Marquette Community Action Board | MI | $52,207
Ozone House, Inc | MI | $112,157
Charter County of Wayne | MI | $401,246
County of Kent | MI | $139,440
Avalon Housing, Inc | MI | $83,334
Detroit Central City | MI | $1,009,997
County of Kent | MI | $366,108
Macomb Homeless Coalition | MI | $28,890
Alternative Community Living, Inc | MI | $33,469
County of Kent | MI | $743,832
Wayne County Neighborhood Legal Services | MI | $768,091
Community Housing Network, Inc | MI | $319,414
SOS Community Services, Inc | MI | $433,994
Charter County of Wayne | MI | $453,143
Metro Housing Partnership | MI | $63,697
Avalon Housing, Inc | MI | $86,534
Community Housing Network, Inc | MI | $149,689
Monroe County Opportunity Program | MI | $102,741
Staircase Youth Services. Inc | MI | $101,963
City of Lansing | MI | $46,115
Southwest Housing Solutions | MI | $202,978
Metro Housing Partnership | MI | $55,911
City of Lansing | MI | $150,576
Coalition On Temporary Shelter | MI | $84,979
Community Housing Network, Inc | MI | $122,665
Lutheran Social Services of Michigan | MI | $31,950
City of Lansing | MI | $256,856
Community Housing Network, Inc | MI | $58,180
Underground Railroad Inc | MI | $215,691
Underground Railroad Inc | MI | $89,882
City of Lansing | MI | $328,234
City of Lansing | MI | $39,334
Community Housing Network, Inc | MI | $326,432
Michigan Department of Human Services | MI | $117,454
Coalition On Temporary Shelter | MI | $105,546
Metro Housing Partnership | MI | $247,570
Community Housing Network, Inc | MI | $322,248
Metro Housing Partnership | MI | $205,543
Metro Housing Partnership | MI | $49,006
Travelers Aid Society of Metropolitan Detroit | MI | $940,014
Community Care Services | MI | $143,119
Lutheran Social Services of Michigan | MI | $24,447
Community Rebuilders | MI | $607,695
Community Rebuilders | MI | $256,080
Travelers Aid Society of Metropolitan Detroit | MI | $868,677
Haven of Rest Ministries Inc | MI | $175,161
Charter County of Wayne | MI | $287,892
Haven of Rest Ministries Inc | MI | $86,758
Community Rebuilders | MI | $260,310
Good Samaritan Ministries | MI | $402,066
Charter County of Wayne | MI | $40,560
Detroit Rescue Mission Ministries | MI | $1,057,722
County of Ottawa | MI | $96,996
City of Lansing | MI | $62,842
Center for Women in Transition | MI | $81,736
Common Ground Sanctuary | MI | $84,546
County of Ottawa | MI | $17,585
Detroit Rescue Mission Ministries | MI | $426,160
Metro Housing Partnership | MI | $105,213
Detroit Rescue Mission Ministries | MI | $406,740
Catholic Social Services of Wayne County | MI | $138,409
Detroit Rescue Mission Ministries | MI | $493,646
Detroit Rescue Mission Ministries | MI | $220,333
Detroit Rescue Mission Ministries | MI | $622,667
Perfecting Community Development Corporation | MI | $51,304
County of Ottawa | MI | $218,943
City of Lansing | MI | $172,900
Detroit Rescue Mission Ministries | MI | $543,533
Saginaw Housing Commission | MI | $157,944
Training and Treatment Innovations, Inc | MI | $116,243
Coalition On Temporary Shelter | MI | $135,338
Coalition On Temporary Shelter | MI | $308,529
Coalition On Temporary Shelter | MI | $660,686
Saginaw Housing Commission | MI | $31,920
Saginaw Housing Commission | MI | $112,749
City of Lansing | MI | $100,432
Metro Housing Partnership | MI | $124,286
Detroit Rescue Mission Ministries | MI | $448,436
Saginaw Housing Commission | MI | $150,000
SOS Community Services, Inc | MI | $395,974
Travelers Aid Society of Metropolitan Detroit | MI | $80,656
Community Housing Network, Inc | MI | $168,253
Lenawee Emergency and Affordable Housing Corporation | MI | $3,000
Lenawee Emergency and Affordable Housing Corporation | MI | $86,511
Center for Women in Transition | MI | $85,795
City of Lansing | MI | $285,394
Wayne County Neighborhood Legal Services | MI | $483,349
Macomb Homeless Coalition | MI | $29,919
Charter County of Wayne | MI | $297,216
Detroit Rescue Mission Ministries | MI | $759,593
Center for Women in Transition | MI | $38,614
Cory Place, Inc | MI | $136,666
Kalamazoo Community Mental Health & Substance Abuse Services | MI | $258,648
Kalamazoo Community Mental Health & Substance Abuse Services | MI | $38,803
Kalamazoo Community Mental Health & Substance Abuse Services | MI | $299,401
Kalamazoo Community Mental Health & Substance Abuse Services | MI | $116,159
Michigan State Housing Development Authority | MI | $214,539
Michigan State Housing Development Authority | MI | $168,000
Michigan State Housing Development Authority | MI | $640,500
Community Housing Network, Inc | MI | $206,398
Training and Treatment Innovations, Inc | MI | $118,144
Charter County of Wayne | MI | $112,665
Michigan Veterans Foundation | MI | $709,836
Sacred Heart Rehabilitation Center, Inc | MI | $194,214
Simon House | MI | $88,674
Livingston County Community Mental Health Authority | MI | $29,343
Common Ground Sanctuary | MI | $82,761
Livingston County Community Mental Health Authority | MI | $38,210
City of Lansing | MI | $62,842
Kalamazoo Community Mental Health & Substance Abuse Services | MI | $51,972
Goodwill Industries of Northern Michigan, Inc | MI | $51,923
Central Territorial of the Salvation Army | MI | $228,488
Central Territorial of the Salvation Army | MI | $231,583
Central Territorial of the Salvation Army | MI | $249,854
Common Ground Sanctuary | MI | $132,999
Kalamazoo Community Mental Health & Substance Abuse Services | MI | $109,113
Housing & Redevelopment Authority In & For the City of Will | MN | $23,705
Young Women's Christian Association | MN | $16,275
Kootasca Community Action | MN | $32,019
American Indian Community Development Corporation | MN | $81,111
Dakota County CDA | MN | $104,304
Ruth's House of Hope Inc | MN | $34,356
Ruth's House of Hope Inc | MN | $104,618
Tubman | MN | $97,085
Lutheran Social Service of Minnesota | MN | $166,023
Dakota County CDA | MN | $115,860
The Salvation Army | MN | $150,618
Hennepin County | MN | $347,548
Arrowhead Economic Opportunity Agency | MN | $26,276
Alliance Housing Inc | MN | $206,557
Community Involvement Programs | MN | $25,479
The Salvation Army | MN | $145,166
The Salvation Army | MN | $45,108
Minnesota Assistance Council for Veterans | MN | $269,698
New Pathways, Inc | MN | $105,265
Women's Transitional Housing Coalition | MN | $56,908
Partners for Affordable Housing | MN | $11,522
The Salvation Army | MN | $246,784
The Salvation Army | MN | $182,959
Cabrini Partnership | MN | $183,077
The Salvation Army | MN | $48,859
The Salvation Army | MN | $62,163
Zion Original Outreach Ministry | MN | $75,185
The Salvation Army | MN | $88,098
RESOURCE, Inc | MN | $583,903
WEDCH, LLC | MN | $17,455
East Metro Women's Council | MN | $67,814
The Salvation Army | MN | $72,958
Volunteers of America of Minnesota | MN | $103,477
Life House Incorporated | MN | $49,261
Life House Incorporated | MN | $19,011
Human Services, Inc., in Washington County Minnesota | MN | $41,874
County of Scott | MN | $86,436
County of Scott | MN | $89,976
Plymouth Church Neighborhood Foundation | MN | $267,946
Aeon (formerly Central Community Housing Trust) | MN | $236,802
Aeon (formerly Central Community Housing Trust) | MN | $77,005
Arrowhead Economic Opportunity Agency | MN | $20,600
Hennepin County | MN | $503,868
Catholic Charities of the Archdiocese of St. Paul and Minneapolis | MN | $514,133
Northwestern Mental Health Center, Inc | MN | $47,400
LivingWorks Ventures | MN | $55,999
Lutheran Social Service of Minnesota | MN | $119,464
Lutheran Social Service of Minnesota | MN | $47,185
Safe Haven Shelter For Youth | MN | $26,889
People Incorporated | MN | $36,782
Women's Transitional Housing Coalition | MN | $86,094
Women's Transitional Housing Coalition | MN | $39,921
New Pathways, Inc | MN | $89,292
The Salvation Army | MN | $145,149
Theresa Living Center | MN | $54,912
Steele County Transitional Housing, Inc | MN | $23,751
RS Eden | MN | $45,486
Our Saviour's Outreach Ministries | MN | $69,906
RS Eden | MN | $149,100
Virginia MN HRA | MN | $232,320
Elim Transitional Housing, Inc | MN | $33,101
Project for Pride in Living, Inc | MN | $128,625
Violence Intervention Project | MN | $21,249
Amherst H. Wilder Foundation | MN | $954,260
Theresa Living Center | MN | $84,650
Virginia HRA | MN | $169,680
Range Transitional Housing, Inc | MN | $236,828
Range Transitional Housing, Inc | MN | $133,317
Young Women's Christian Association of St. Paul MN | MN | $80,585
Range Transitional Housing, Inc | MN | $91,432
Wings Family Supportive Services, Inc | MN | $56,961
Amherst H. Wilder Foundation | MN | $5,829
American Indian Community Housing Organization | MN | $20,483
American Indian Community Housing Organization | MN | $39,157
St. Paul Public Housing Agency | MN | $460,800
Amherst H. Wilder Foundation | MN | $25,000
Amherst H. Wilder Foundation | MN | $43,341
Amherst H. Wilder Foundation | MN | $16,040
Amherst H. Wilder Foundation | MN | $49,994
Amherst H. Wilder Foundation | MN | $ 5,756
Ramsey County | MN | $189,816
CommonBond Communities | MN | $430,686
Elim Transitional Housing, Inc | MN | $152,325
Amherst H. Wilder Foundation | MN | $18,000
Amherst H. Wilder Foundation | MN | $19,999
Amherst H. Wilder Foundation | MN | $62,069
Amherst H. Wilder Foundation | MN | $20,554
Housing Authority of St. Louis Park | MN | $110,148
Amherst H. Wilder Foundation | MN | $16,470
Human Development Center | MN | $74,263
Heartland Community Action Agency, Inc | MN | $279,120
Arrowhead Economic Opportunity Agency | MN | $12,863
Arrowhead Economic Opportunity Agency | MN | $51,143
New Foundations, Inc | MN | $298,090
Metropolitan Council, Minnesota | MN | $98,952
Metropolitan Council, Minnesota | MN | $698,292
Elim Transitional Housing, Inc | MN | $36,325
Elim Transitional Housing, Inc | MN | $60,639
Freeport West, Inc | MN | $242,886
Metropolitan Council, Minnesota | MN | $327,252
Human Development Center | MN | $73,416
Housing & Redevelopment Authority of Clay County | MN | $56,666
Simpson Housing Services, Inc | MN | $143,091
Housing & Redevelopment Authority of Clay County | MN | $182,977
Human Development Center | MN | $16,417
Minnesota Assistance Council for Veterans | MN | $26,603
Metropolitan Council, Minnesota | MN | $879,756
Breaking Free | MN | $93,600
Amherst H. Wilder Foundation | MN | $42,649
Scott-Carver-Dakota CAP Agency, Inc | MN | $23,230
Scott-Carver-Dakota CAP Agency, Inc | MN | $130,067
Housing & Redevelopment Authority of Duluth, MN | MN | $97,560
Churches United for the Homeless | MN | $42,716
Churches United for the Homeless | MN | $47,697
Supportive Housing and Managed Care Pilot, aka Hearth Connection | MN | $17,166
Families Moving Forward | MN | $40,765
Housing Authority of St. Louis Park | MN | $59,136
Housing and Redevelopment Authority of St. Cloud, MN | MN | $97,392
Clare Housing | MN | $26,136
Model Cities of St. Paul, Inc | MN | $75,475
Model Cities of St. Paul, Inc | MN | $141,382
Perspectives, Inc | MN | $171,173
Perspectives, Inc | MN | $171,499
Freeport West, Inc | MN | $412,619
Families Moving Forward | MN | $33,510
Houston County Women's Resources | MN | $35,332
Minnesota Assistance Council for Veterans | MN | $152,250
Bi-County Community Action Programs, Inc | MN | $156,256
Bi-County Community Action Programs, Inc | MN | $33,600
Bi-County Community Action Programs, Inc | MN | $39,023
Bi-County Community Action Programs, Inc | MN | $65,848
Hennepin County | MN | $856,260
Mental Health Resources, Inc | MN | $359,042
Three Rivers Community Action, Inc | MN | $175,916
Olmsted County | MN | $134,280
Mental Health Resources, Inc | MN | $173,315
Dakota County | MN | $410,844
Emerge Community Development | MN | $573,312
Emma Norton Services | MN | $136,212
Emma Norton Services | MN | $71,251
Three Rivers Community Action, Inc | MN | $149,665
Range Mental Health Center, Inc | MN | $41,312
Rum River Health Services, Inc | MN | $50,250
Olmsted County Housing & Redevelopment Authority | MN | $124,800
Range Mental Health Center, Inc | MN | $38,638
Minnesota Assistance Council for Veterans | MN | $58,889
Columbia Housing Authority | MO | $319,260
Family Counseling Center, Inc | MO | $124,575
Saint Louis County | MO | $170,091
Community LINC | MO | $110,058
Saint Louis County | MO | $717,228
The Salvation Army—Midland Division | MO | $107,887
North East Community Action Corporation | MO | $109,689
City of St. Louis | MO | $1,221,567
Rose Brooks Center, Inc | MO | $207,967
Ozarks Area Community Action Corporation | MO | $26,655
North East Community Action Corporation | MO | $153,153
Community Missions Corporation | MO | $249,836
Family Self Help Center Inc. d/b/a Lafayette House | MO | $63,000
City of St. Louis | MO | $298,832
The Salvation Army | MO | $236,698
Economic Security Corporation of Southwest Area | MO | $68,603
The Salvation Army—Midland Division | MO | $148,882
Jasper County Public Housing Agency | MO | $53,484
City of St. Louis | MO | $1,090,496
City of St. Louis | MO | $158,811
Delta Area Economic Opportunity Corporation | MO | $149,719
Phoenix Programs, Inc | MO | $75,832
Delta Area Economic Opportunity Corporation | MO | $116,657
Burrell, Inc | MO | $436,462
City of St. Joseph | MO | $44,924
Catholic Charities of Kansas City-St. Joseph, Inc | MO | $350,268
Catholic Charities of Kansas City-St. Joseph, Inc | MO | $432,525
Catholic Charities of Kansas City-St. Joseph, Inc | MO | $273,184
Catholic Charities of Kansas City-St. Joseph, Inc | MO | $31,072
Pettis County Community Partnership Inc | MO | $118,207
City of St. Louis | MO | $200,587
Benilde Hall Program | MO | $51,350
Phoenix Programs, Inc | MO | $71,122
High Hope Employment Services, Inc | MO | $42,180
City of St. Louis | MO | $304,723
City of St. Louis | MO | $752,684
The Salvation Army—Midland Division | MO | $80,000
City of Kansas City, Missouri | MO | $36,131
City of St. Louis | MO | $599,565
Missouri Association for Social Welfare | MO | $373,930
Benilde Hall Program | MO | $100,380
High Hope Employment Services, Inc | MO | $74,033
Catholic Charities of Kansas City-St. Joseph, Inc | MO | $38,266
City of St. Louis | MO | $766,669
Church Army, Inc | MO | $68,906
City of St. Louis | MO | $181,335
City of St. Louis | MO | $239,054
Swope Health Services | MO | $185,281
The Salvation Army—Midland Division | MO | $37,450
Missouri Association for Social Welfare | MO | $110,795
Missouri Department of Mental Health | MO | $248,844
Missouri Department of Mental Health | MO | $500,712
City of Kansas City, Missouri | MO | $125,890
Truman Medical Center, Inc | MO | $179,446
Missouri Department of Mental Health | MO | $98,892
Missouri Department of Mental Health | MO | $1,596,996
Missouri Department of Mental Health | MO | $960,960
Families Assisted In Transitional Housing, Inc | MO | $43,647
Missouri Department of Mental Health | MO | $78,084
Missouri Department of Mental Health | MO | $284,640
ReStart, Inc | MO | $124,915
ReStart, Inc | MO | $226,306
ReStart, Inc | MO | $206,817
Economic Security Corporation of Southwest Area | MO | $64,088
Missouri Department of Mental Health | MO | $387,780
Mental Health Association of the Heartland | MO | $64,099
Mid America Assistance Coalition | MO | $43,358
Missouri Department of Mental Health | MO | $323,760
The Housing Authority of Springfield | MO | $116,436
Missouri Department of Mental Health | MO | $1,050,840
Missouri Department of Mental Health | MO | $1,000,800
Missouri Department of Mental Health | MO | $200,820
The Kitchen, Inc | MO | $393,750
The Kitchen, Inc | MO | $79,000
Missouri Department of Mental Health | MO | $639,036
Missouri Department of Mental Health | MO | $1,360,272
Missouri Department of Mental Health | MO | $347,364
Missouri Department of Mental Health | MO | $122,520
Missouri Department of Mental Health | MO | $246,948
Missouri Department of Mental Health | MO | $136,308
Economic Security Corporation of Southwest Area | MO | $38,375
Economic Security Corporation of Southwest Area | MO | $37,426
Phoenix Programs, Inc | MO | $226,220
The Kansas City Metropolitan Lutheran Ministry | MO | $213,515
Johnson County HELP | MO | $110,500
Missouri Department of Mental Health | MO | $169,152
City of Kansas City, Missouri | MO | $199,399
City of Kansas City, Missouri | MO | $114,450
City of Kansas City, Missouri | MO | $24,857
Sheffield Place | MO | $163,079
City of Kansas City, Missouri | MO | $32,935
City of Kansas City, Missouri | MO | $133,891
Truman Medical Center, Inc | MO | $518,157
Humanitri | MO | $979,438
Missouri Department of Mental Health | MO | $129,804
Missouri Department of Mental Health | MO | $289,380
Missouri Department of Mental Health | MO | $107,232
Missouri Department of Mental Health | MO | $117,456
City of Kansas City, Missouri | MO | $48,300
Missouri Department of Mental Health | MO | $130,824
Community Caring Council | MO | $186,389
SAVE, Inc | MO | $299,483
SAVE, Inc | MO | $201,153
Missouri Department of Mental Health | MO | $91,596
Multi-County Community Service Agency, Inc | MS | $353,841
Country Oaks Recovery Center | MS | $155,120
Forrest General Hospital | MS | $252,160
Forrest General Hospital | MS | $265,380
AIDS Services Coalition | MS | $132,605
Catholic Charities, Inc | MS | $169,691
South Mississippi AIDS Task Force, Inc | MS | $45,648
Recovery House, Inc | MS | $213,890
The University of Southern Mississippi Institute for Disability Studies | MS | $336,000
Mental Health Association of MS | MS | $27,806
Stewpot Community Services. Inc | MS | $49,392
New Life for Women, Inc | MS | $203,019
Bolivar County Community Action Agency, Inc | MS | $473,287
Recovery House, Inc | MS | $110,245
South Mississippi AIDS Task Force, Inc | MS | $129,046
Pearl River Information & Drug Education, Inc | MS | $23,210
Catholic Charities Inc | MS | $337,924
PTEH, Inc | MS | $118,650
New Dimensions Development Foundation, Inc | MS | $159,238
Gulf Coast Women's Center for Nonviolence, Inc | MS | $48,796
Gulf Coast Women's Center for Nonviolence, Inc | MS | $38,788
Back Bay Mission, Inc | MS | $92,160
Back Bay Mission, Inc | MS | $66,735
Mental Health Association of MS | MS | $62,953
Bolivar County Community Action Agency, Inc | MS | $176,201
Helena Housing Authority | MT | $153,300
Florence Crittenton Home and Services | MT | $124,546
Missoula County | MT | $196,665
Missoula County | MT | $61,579
Poverello Center Inc | MT | $37,467
Missoula County | MT | $102,371
Mountain Home Montana, Inc | MT | $76,798
Mountain Home Montana, Inc | MT | $121,102
Human Recourses Council, District XII | MT | $90,958
Public Housing Authority of Butte | MT | $81,300
Helena Housing Authority | MT | $171,696
Housing Authority of Billings | MT | $89,820
Samaritan House, Inc | MT | $63,000
Missoula Housing Authority | MT | $498,480
God's Love, Inc | MT | $143,305
Supporters of Abuse Free Environments (SAFE), Inc | MT | $34,000
Northwest Montana Human Resources, Inc | MT | $35,769
State of Montana | MT | $66,980
Hospitality House of the Boone Area, Inc | NC | $29,179
Gaston Lincoln Cleveland MH/DD/SA (Pathways) | NC | $40,920
Mecklenburg County Area MH, DD, & SA Authority | NC | $288,408
North Carolina Housing Coalition | NC | $ 8,369
North Carolina Housing Coalition | NC | $462,280
North Carolina Housing Coalition | NC | $10,096
Western North Carolina Community Health Services, Inc | NC | $265,602
Gaston Lincoln Cleveland MH/DD/SA (Pathways) | NC | $122,760
East Carolina Behavioral Health | NC | $265,284
North Carolina Housing Coalition | NC | $52,582
Cumberland Interfaith Hospitality Network | NC | $120,588
North Carolina Housing Coalition | NC | $25,341
Northwestern Housing Enterprises, Incorporated | NC | $33,018
Mecklenburg County | NC | $145,136
Gaston Lincoln Cleveland MH/DD/SA (Pathways) | NC | $318,804
The Salvation Army, a Georgia Corporation | NC | $152,143
Homeward Bound of Asheville, Inc | NC | $182,886
Passage Home, INC | NC | $160,393
Mecklenburg County Area MH, DD, & SA Authority | NC | $242,340
Hope Haven Inc | NC | $53,980
Mecklenburg County Area MH, DD, & SA Authority | NC | $44,363
Mecklenburg County Area MH, DD, & SA Authority | NC | $316,764
As One Ministries, Inc | NC | $64,992
The Chrysalis Foundation for Mental Health, Inc | NC | $109,202
Housing for New Hope, Inc | NC | $101,634
Cumberland Interfaith Hospitality Network | NC | $262,736
Hope Haven Inc | NC | $63,000
First Fruit Ministries | NC | $120,716
Hope Haven Inc | NC | $52,867
North Carolina Housing Coalition | NC | $30,000
Housing for New Hope, Inc | NC | $72,450
CenterPoint Human Services | NC | $225,636
Volunteers of America of the Carolinas, Inc | NC | $87,184
The Salvation Army, a Georgia Corporation | NC | $84,426
The Salvation Army, a Georgia Corporation | NC | $35,470
Wake County Human Services | NC | $55,125
Wake County Human Services | NC | $23,904
Wake County Human Services | NC | $858,072
Coastal Horizons Center, Inc | NC | $80,619
With Friends, Inc | NC | $66,458
Cumberland County, NC | NC | $84,134
Hospitality House of the Boone Area, Inc | NC | $31,928
Wilmington Housing Finance and Development Inc | NC | $62,333
Mecklenburg County Area MH, DD, & SA Authority | NC | $1,013,028
Housing Authority of the City of Wilmington | NC | $106,848
Urban Ministries of Durham, Inc | NC | $30,000
Housing for New Hope, Inc | NC | $358,634
Hope Haven Inc | NC | $383,500
Brunswick Family Assistance Agency, Inc | NC | $21,671
Christians United Outreach Center | NC | $43,173
Christians United Outreach Center | NC | $39,111
New River Service Authority | NC | $70,587
CenterPoint Human Services | NC | $53,157
CenterPoint Human Services | NC | $114,420
St. Peter's Homes, Inc | NC | $33,333
Good Shepherd Ministries of Wilmington, Inc. (56-1566178) | NC | $56,073
Youth Focus Inc | NC | $51,700
Salvation Army | NC | $226,646
Alcohol and Drug Services of Guilford, Inc | NC | $34,996
City of Winston-Salem | NC | $56,829
City of Winston-Salem | NC | $90,511
Open Door Ministries of High Point, Inc | NC | $48,919
Cape Fear Housing for Independent Living, Inc | NC | $99,039
Mary's House, Inc | NC | $135,982
The Servant Center, Inc | NC | $47,586
Greensboro Urban Ministry | NC | $27,930
Greensboro Urban Ministry | NC | $31,920
Joseph's House, Inc | NC | $45,247
Family Service of the Piedmont, Inc | NC | $34,276
City of Winston-Salem | NC | $18,355
City of Winston-Salem | NC | $17,670
Open Door Ministries of High Point, Inc | NC | $124,318
Greensboro Housing Authority | NC | $120,804
City of Winston-Salem | NC | $98,122
City of Winston-Salem | NC | $22,575
City of Winston-Salem | NC | $46,475
City of Winston-Salem | NC | $49,614
City of Winston-Salem | NC | $103,500
OPC Mental Health, Developmental Disabilities and Substance | NC | $140,604
Genesis Home, Inc | NC | $221,841
Cleveland County Abuse Prevention Council | NC | $9,286
Greensboro Housing Authority | NC | $477,369
The Salvation Army a Georgia Corporation for the Salvation | NC | $19,274
City of Winston-Salem | NC | $14,663
City of Winston-Salem | NC | $127,476
City of Winston-Salem | NC | $25,000
Alamance-Caswell Area MH/DD/SA Authority | NC | $119,460
City of Winston-Salem | NC | $52,828
Haven House Inc | NC | $53,783
Mountain Youth Resources Inc | NC | $10,176
Opposing Abuse with Service, Information and Shelter | NC | $29,294
Five County Mental Health Authority | NC | $173,796
Next Step Ministries, Inc | NC | $37,800
Hospitality House of the Boone Area, Inc | NC | $31,181
City of Winston-Salem | NC | $47,545
City of Winston-Salem | NC | $70,206
Community Link, Programs of Travelers Aid | NC | $238,245
Salvation Army | NC | $87,499
Community Link, Programs of Travelers Aid | NC | $226,122
Piedmont Behavioral Healthcare | NC | $77,436
Cleveland County Abuse Prevention Council | NC | $14,304
Housing Authority of the City of Asheville | NC | $166,404
City of Winston-Salem | NC | $183,792
Graham Housing Authority | NC | $56,328
Sandhills Community Action Program, Inc | NC | $241,484
Community Alternatives for Supportive Abodes | NC | $85,575
Community Alternatives for Supportive Abodes | NC | $50,176
Passage Home, INC | NC | $95,445
OPC Mental Health, Developmental Disabilities and Substance | NC | $125,880
City of Winston-Salem | NC | $185,604
Western Highlands, A Local Management Entity | NC | $263,700
Crossroads Behavioral Healthcare | NC | $38,468
Gaston County Interfaith Hospitality Network, Inc | NC | $38,850
Family Service of the Piedmont, Inc | NC | $35,943
Cleveland County Abuse Prevention Council | NC | $27,321
Cleveland County Abuse Prevention Council | NC | $37,158
Burleigh County Housing Authority | ND | $155,412
Women's Alliance, Inc. DBA: Domestic Violence and Rape Crisis | ND | $37,600
Abused Adult Resource Center | ND | $78,819
Prairie Harvest Human Services Foundation | ND | $84,999
Society of St. Vincent de Paul | ND | $15,277
Young Women's Christian Association, Minot ND | ND | $72,387
Grand Lodge of North Dakota, I.O.O.F | ND | $46,676
North Dakota Association for the Disabled, Inc | ND | $34,184
Community Violence Intervention Center Inc | ND | $95,845
Beyond Shelter, Inc | ND | $48,258
North Dakota Dept. of Commerce | ND | $44,072
Fargo Housing and Redevelopment Authority | ND | $150,000
YWCA Cass Clay | ND | $80,504
Fargo Housing and Redevelopment Authority | ND | $201,420
North Dakota Dept. of Commerce | ND | $101,952
North Dakota Dept. of Commerce | ND | $112,680
YWCA Cass Clay | ND | $134,277
North Dakota Dept. of Commerce | ND | $30,000
Lincoln Action Program | NE | $460,862
The Salvation Army | NE | $146,694
The Salvation Army | NE | $58,020
The Salvation Army | NE | $138,897
Cirrus House, Inc | NE | $46,433
Heartland Family Service | NE | $300,177
St. Monica's | NE | $140,456
Goldenrod Hills Community Action, Inc | NE | $27,171
Stephen Center, Inc | NE | $52,628
Blue Valley Community Action, Inc | NE | $24,677
Community Action Partnership of Mid-Nebraska | NE | $25,643
Heartland Family Service | NE | $314,250
Heartland Family Service | NE | $531,427
Community Action Partnership of Mid-Nebraska | NE | $90,718
Catholic Social Services | NE | $95,658
The Salvation Army | NE | $260,906
Blue Valley Community Action, Inc | NE | $200,502
Care Corps, Inc | NE | $244,135
Northwest Community Action Partnership | NE | $48,561
Community Action of Nebraska | NE | $31,896
Catholic Social Services | NE | $115,148
Hope of Glory Ministries, Inc | NE | $76,822
Rescue Mission d/b/a Open Door Mission | NE | $300,000
Iowa Institute for Community Alliances | NE | $121,537
Panhandle Community Services | NE | $31,880
CenterPointe Inc | NE | $191,797
Central Nebraska Community Services, Inc | NE | $127,085
Central Nebraska Community Services, Inc | NE | $197,437
CEDARS Youth Services | NE | $130,707
CenterPointe Inc | NE | $191,642
CenterPointe Inc | NE | $446,251
State of New Hampshire | NH | $173,340
Families in Transition | NH | $67,183
State of New Hampshire | NH | $96,078
My Friend's Place | NH | $54,239
The Way Home, Inc | NH | $63,000
Families in Transition | NH | $111,300
Southern New Hampshire Services, Inc | NH | $36,039
Southern New Hampshire Services, Inc | NH | $32,191
Northern Human Services | NH | $132,011
Harbor Homes, Inc | NH | $50,000
The Way Home, Inc | NH | $47,734
State of New Hampshire | NH | $79,047
State of New Hampshire | NH | $52,838
State of New Hampshire | NH | $42,097
State of New Hampshire | NH | $112,951
State of New Hampshire | NH | $14,154
State of New Hampshire | NH | $80,640
State of New Hampshire | NH | $88,497
State of New Hampshire | NH | $236,866
State of New Hampshire | NH | $68,092
State of New Hampshire | NH | $357,642
State of New Hampshire | NH | $37,497
Marguerite's Place Inc | NH | $58,480
State of New Hampshire | NH | $116,524
State of New Hampshire | NH | $71,766
Families in Transition | NH | $44,000
State of New Hampshire | NH | $287,700
Harbor Homes, Inc | NH | $26,236
State of New Hampshire | NH | $247,279
State of New Hampshire | NH | $99,632
Tri County CAP, Inc | NH | $188,568
Greater Nashua Council on Alcoholism, Inc | NH | $60,083
Behavioral Health & Dev. Serv. of Strafford County, Inc | NH | $85,865
State of New Hampshire | NH | $196,762
Behavioral Health & Dev. Serv. of Strafford County, Inc | NH | $143,815
State of New Hampshire | NH | $72,590
Families in Transition | NH | $122,500
Harbor Homes, Inc | NH | $59,545
Harbor Homes, Inc | NH | $13,466
Harbor Homes, Inc | NH | $56,141
Harbor Homes, Inc | NH | $171,308
Harbor Homes, Inc | NH | $104,440
Harbor Homes, Inc | NH | $873,170
State of New Hampshire | NH | $12,778
Homeless Solutions Inc | NJ | $219,397
Homeless Solutions Inc | NJ | $396,965
Salem County Inter Agency Council of Human Services | NJ | $140,560
County Of Union | NJ | $213,396
Homeless Solutions Inc | NJ | $64,299
New Jersey Department of Military and Veterans Affairs | NJ | $236,783
County Of Union | NJ | $36,120
County Of Union | NJ | $462,300
Township of Irvington | NJ | $250,474
County Of Union | NJ | $613,620
County Of Union | NJ | $16,666
County Of Union | NJ | $331,332
County Of Union | NJ | $49,020
East Orange General Hospital | NJ | $245,600
City of Trenton | NJ | $29,160
County of Bergen | NJ | $85,900
County Of Union | NJ | $160,479
County Of Union | NJ | $13,300
County Of Union | NJ | $58,224
County Of Union | NJ | $94,427
The Doe Fund, Inc | NJ | $918,769
County Of Union | NJ | $99,342
Start Easy Eagle Development, Corp | NJ | $840,000
County Of Union | NJ | $80,657
County Of Union | NJ | $18,654
Start Easy Eagle Development, Corp | NJ | $20,422
Start Easy Eagle Development, Corp | NJ | $56,975
County of Bergen | NJ | $93,068
Lakewood Housing Authority | NJ | $25,830
County Of Union | NJ | $217,714
Start Easy Eagle Development, Corp | NJ | $589,076
Lakewood Housing Authority | NJ | $62,040
County of Monmouth | NJ | $177,780
County of Monmouth | NJ | $248,160
County Of Union | NJ | $284,206
Start Easy Eagle Development, Corp | NJ | $661,590
Township of Irvington | NJ | $138,365
County of Monmouth | NJ | $383,952
Start Easy Eagle Development, Corp | NJ | $882,815
County of Monmouth | NJ | $244,860
Ocean's Harbor House | NJ | $19,373
180, Turning Lives Around, Inc | NJ | $122,805
County Of Union | NJ | $26,918
180, Turning Lives Around, Inc | NJ | $142,530
County Of Union | NJ | $573,120
County Of Union | NJ | $25,836
Community Planning and Advocacy Council | NJ | $18,744
Info Line of Middlesex County | NJ | $79,364
Saint Joseph's Home | NJ | $558,534
Housing Authority of Gloucester County | NJ | $30,747
New Jersey Housing and Mortgage Finance Agency | NJ | $56,727
Housing Authority of the Township of Edison | NJ | $530,880
New Jersey Department of Community Affairs | NJ | $156,252
Passaic County Department of Human Services | NJ | $218,163
Passaic County Department of Human Services | NJ | $1,107,720
New Jersey Department of Community Affairs | NJ | $126,828
New Jersey Department of Community Affairs | NJ | $127,320
Let's Celebrate, Inc | NJ | $83,794
New Community Harmony House Corp | NJ | $427,068
Strengthen Our Sisters | NJ | $166,558
New Community Harmony House Corp | NJ | $429,042
Collaborative Support Programs of New Jersey | NJ | $174,540
Collaborative Support Programs of New Jersey | NJ | $303,120
Collaborative Support Programs of New Jersey | NJ | $252,600
Camden County Council On Economic Opportunity, Inc | NJ | $151,169
Cape May County Board of Social Services | NJ | $27,302
Cape May County Board of Social Services | NJ | $29,227
Cape May County Board of Social Services | NJ | $154,800
Camden County Council On Economic Opportunity, Inc | NJ | $181,026
Camden County Council On Economic Opportunity, Inc | NJ | $226,733
Hispanic Multi Purpose Service Center | NJ | $55,939
New Jersey Housing and Mortgage Finance Agency | NJ | $19,970
Vantage Health System, Inc | NJ | $217,402
Vantage Health System, Inc | NJ | $90,896
Burlington County Community Action Program | NJ | $10,667
Burlington County Community Action Program | NJ | $14,172
New Jersey Housing and Mortgage Finance Agency | NJ | $25,000
Warren County Housing Authority | NJ | $41,520
Warren County Housing Authority | NJ | $204,600
New Jersey Housing and Mortgage Finance Agency | NJ | $22,667
New Jersey Department of Community Affairs | NJ | $267,996
New Jersey Housing and Mortgage Finance Agency | NJ | $ 2,000
Housing Authority of the Township of Edison | NJ | $27,336
New Jersey Housing and Mortgage Finance Agency | NJ | $40,656
New Jersey Housing and Mortgage Finance Agency | NJ | $ 3,000
New Jersey Housing and Mortgage Finance Agency | NJ | $2,000
New Jersey Housing and Mortgage Finance Agency | NJ | $2,667
New Jersey Housing and Mortgage Finance Agency | NJ | $2,457
New Jersey Housing and Mortgage Finance Agency | NJ | $2,000
Family Service | NJ | $42,000
Catholic Charities of the Archdiocese of Newark | NJ | $248,664
Catholic Charities of the Archdiocese of Newark | NJ | $160,000
New Jersey Housing and Mortgage Finance Agency | NJ | $25,000
Monmouth Housing Alliance | NJ | $43,923
Interfaith Homeless Outreach Council | NJ | $15,782
Easter Seal Society of New Jersey, Inc | NJ | $455,943
City of Trenton | NJ | $119,484
City of Trenton | NJ | $134,960
City of Trenton | NJ | $136,012
City of Trenton | NJ | $64,995
City of Trenton | NJ | $165,000
City of Trenton | NJ | $131,200
Housing Authority of Bergen County | NJ | $267,360
City of Trenton | NJ | $172,440
Easter Seal Society of New Jersey, Inc | NJ | $43,207
Jersey Battered Women's Service, Inc | NJ | $198,137
City of Trenton | NJ | $149,448
City of Trenton | NJ | $ 7,613
City of Trenton | NJ | $387,220
City of Trenton | NJ | $602,280
City of Trenton | NJ | $99,960
Ocean Community Economic Action Now, Inc | NJ | $81,957
Ocean Community Economic Action Now, Inc | NJ | $40,718
Ocean Community Economic Action Now, Inc | NJ | $41,698
City of Trenton | NJ | $28,936
HABcore, Inc | NJ | $172,473
New Jersey Department of Community Affairs | NJ | $69,451
City of Newark | NJ | $810,600
City of Newark | NJ | $843,720
Housing Authority of the Township of Edison | NJ | $137,640
The House of Faith, Inc | NJ | $294,352
AAH of Bergen County, Inc | NJ | $78,925
AAH of Bergen County, Inc | NJ | $88,322
Housing Authority of Bergen County | NJ | $802,080
Catholic Charities, Diocese of Trenton | NJ | $24,861
Isaiah House, Inc | NJ | $134,823
HABcore, Inc | NJ | $81,428
Isaiah House, Inc | NJ | $128,535
Alternatives, Inc | NJ | $101,279
Alternatives, Inc | NJ | $98,478
Alternatives, Inc | NJ | $15,557
Alternatives, Inc | NJ | $63,170
City of East Orange | NJ | $141,264
City of East Orange | NJ | $381,960
St. Philip's Ministry UMC | NJ | $73,446
Easter Seal Society of New Jersey, Inc | NJ | $7,464
Housing Authority of Bergen County | NJ | $534,720
Catholic Charities, Diocese of Trenton | NJ | $69,218
Volunteers Of America Delaware Valley Inc | NJ | $117,344
Comprehensive Behavioral Healthcare Inc | NJ | $110,434
The Dackks Group for Supportive Housing Development, Inc | NJ | $41,335
South Jersey Behavioral Health Resources, Inc | NJ | $54,682
Transitional Housing Services, Inc | NJ | $97,093
New Jersey Department of Community Affairs | NJ | $257,832
New Jersey Department of Community Affairs | NJ | $258,288
New Jersey Department of Community Affairs | NJ | $80,832
New Jersey Department of Community Affairs | NJ | $156,144
Catholic Charities Diocese of Metuchen | NJ | $236,776
Jersey City Episcopal Community Development Corporation | NJ | $391,445
Bergen County Community Action Partnership, Inc | NJ | $92,748
Project Live, Inc | NJ | $826,604
Our Lady of Lourdes Health Foundation, Inc | NJ | $139,488
Vetgroup, Inc | NJ | $20,664
Center For Family Services, Inc | NJ | $35,437
Dooley House Inc | NJ | $223,963
Shelter Our Sisters | NJ | $16,382
The Apostles' House | NJ | $583,751
North Hudson Community Action Corporation | NJ | $404,148
WomenRising | NJ | $644,268
The Center in Asbury Park, Inc | NJ | $184,819
Center For Family Services, Inc | NJ | $67,217
Shelter Our Sisters | NJ | $23,833
Volunteers Of America Delaware Valley Inc | NJ | $167,469
Volunteers Of America Delaware Valley Inc | NJ | $127,875
Volunteers Of America Delaware Valley Inc | NJ | $116,961
Volunteers Of America Delaware Valley Inc | NJ | $86,458
Volunteers Of America Delaware Valley Inc | NJ | $88,970
Bergen County Community Action Partnership, Inc | NJ | $63,702
Center For Family Services, Inc | NJ | $80,849
The Lester A. Behavioral Health Center Inc | NJ | $93,101
Making It Possible to end Homelessness | NJ | $66,499
Counseling and Referral Services of Ocean, Inc | NJ | $345,911
Advance housing, Inc | NJ | $167,735
New Jersey Housing and Mortgage Finance Agency | NJ | $2,560
Bergen County Community Action Partnership, Inc | NJ | $93,712
New Jersey Housing and Mortgage Finance Agency | NJ | $45,028
Making It Possible to end Homelessness | NJ | $168,581
New Jersey Housing and Mortgage Finance Agency | NJ | $85,667
New Jersey Housing and Mortgage Finance Agency | NJ | $17,000
Mental Health Association of Morris County, Inc | NJ | $60,060
The Lester A. Behavioral Health Center Inc | NJ | $71,132
The Lester A. Behavioral Health Center Inc | NJ | $68,830
New Jersey Housing and Mortgage Finance Agency | NJ | $ 3,000
New Jersey Housing and Mortgage Finance Agency | NJ | $69,000
New Jersey Housing and Mortgage Finance Agency | NJ | $16,687
New Jersey Housing and Mortgage Finance Agency | NJ | $150,000
Advance housing, Inc | NJ | $78,536
Advance housing, Inc | NJ | $358,255
Career Opportunity Development | NJ | $51,443
Catholic Charities | NM | $241,154
Community Area Resource Enterprise | NM | $315,840
City of Albuquerque | NM | $340,680
City of Albuquerque | NM | $1,074,636
Crossroads for Women | NM | $112,834
Crossroads for Women | NM | $191,940
S.A.F.E. House | NM | $42,096
Catholic Charities | NM | $223,055
Catholic Charities | NM | $51,371
City of Santa Fe | NM | $128,124
Barrett Foundation, Inc | NM | $97,447
City of Santa Fe | NM | $214,056
City of Santa Fe | NM | $214,848
Curry County New Mexico | NM | $122,760
Casa Milagro | NM | $246,750
El Refugio, Inc | NM | $198,450
Catholic Charities | NM | $202,692
Supportive Housing Coalition of New Mexico | NM | $225,172
The DreamTree Project, Inc | NM | $234,410
St. Martin's Hospitality Center | NM | $115,500
Transitional Living Services, Inc | NM | $276,300
Transitional Living Services, Inc | NM | $105,000
City of Albuquerque | NM | $895,822
Barrett Foundation, Inc | NM | $23,780
Sandoval County | NM | $212,184
Goodwill Industries of New Mexico | NM | $114,866
City of Albuquerque | NM | $223,709
City of Las Cruces, New Mexico | NM | $330,720
City of Las Cruces, New Mexico | NM | $311,353
City of Las Cruces, New Mexico | NM | $98,424
Albuquerque HealthCare for the Homeless, Inc | NM | $135,267
Sandoval County | NM | $430,680
Santa Fe Community Services, Inc | NM | $164,241
Saint Elizabeth Shelter Corporation | NM | $189,598
Supportive Housing Coalition of New Mexico | NM | $171,226
Lutheran Social Services of Nevada | NV | $104,556
The Salvation Army, Clark County, Nevada | NV | $859,899
State of Nevada | NV | $856,188
State of Nevada | NV | $279,168
Family Promise of Las Vegas | NV | $848,967
United States Veterans Initiative | NV | $361,668
HELP of Southern Nevada | NV | $618,478
State of Nevada | NV | $176,112
United States Veterans Initiative | NV | $164,509
ReStart | NV | $110,292
Douglas County | NV | $266,898
Northern Nevada Adult Mental Health Services | NV | $451,356
ReStart | NV | $320,086
Henderson Allied Community Advocates | NV | $324,113
Northern Nevada Community Housing Resource Board | NV | $51,955
HELP Las Vegas Housing Corporation II | NV | $311,561
ReStart | NV | $69,400
Department of Health and Human Services | NV | $232,716
The Shade Tree, Inc | NV | $250,608
The Shade Tree, Inc | NV | $164,328
St. Vincent HELP Inc | NV | $173,758
St. Vincent HELP Inc | NV | $101,508
ReStart | NV | $511,902
The Municipal Housing Authority for the City of Yonkers | NY | $15,365
Phase Piggy Back Inc | NY | $305,947
The Municipal Housing Authority for the City of Yonkers | NY | $48,729
The Municipal Housing Authority for the City of Yonkers | NY | $32,333
The Municipal Housing Authority for the City of Yonkers | NY | $102,274
The Municipal Housing Authority for the City of Yonkers | NY | $26,978
Damon House New York, Inc | NY | $262,479
City of Mount Vernon (NY) | NY | $146,293
Catholic Charities of Chemung/Schuyler | NY | $187,068
Legal Services of the Hudson Valley | NY | $52,753
Institute for Community Living, Inc | NY | $181,207
Nassau-Suffolk Coalition for the Homeless | NY | $70,000
Steuben Churchpeople Against Poverty, Inc | NY | $68,137
Cazenovia Recovery Systems, Inc | NY | $887,619
Cazenovia Recovery Systems, Inc | NY | $633,217
Family Residences and Essential Enterprises, Inc | NY | $63,776
Institute for Community Living, Inc | NY | $230,945
City of Mount Vernon (NY) | NY | $43,260
City of Mount Vernon (NY) | NY | $33,273
Institute for Community Living, Inc | NY | $109,319
The Municipal Housing Authority for the City of Yonkers | NY | $180,713
The Rescue Mission Alliance of Syracuse, NY | NY | $100,000
City of Mount Vernon (NY) | NY | $30,450
The Municipal Housing Authority for the City of Yonkers | NY | $237,619
The Municipal Housing Authority for the City of Yonkers | NY | $403,056
The Municipal Housing Authority for the City of Yonkers | NY | $46,034
The Municipal Housing Authority for the City of Yonkers | NY | $73,049
Catholic Charities of Chemung/Schuyler | NY | $47,321
Greyston Health Services, Inc | NY | $251,111
Catherine McAuley Housing | NY | $118,692
Catholic Charities of Chemung/Schuyler | NY | $103,357
Young Women's Christian Association of Syracuse & Onondaga C | NY | $165,768
The Municipal Housing Authority for the City of Yonkers | NY | $66,474
Phase Piggy Back Inc | NY | $137,838
Institute for Community Living, Inc | NY | $126,395
Institute for Community Living, Inc | NY | $240,060
YMCA of Greater New York | NY | $570,505
Argus Community, Inc | NY | $430,101
Argus Community, Inc | NY | $370,278
United Bronx Parents, Inc | NY | $419,528
Corporation for AIDS Research, Education and Services, Inc | NY | $33,333
Corporation for AIDS Research, Education and Services, Inc | NY | $25,000
Corporation for AIDS Research, Education and Services, Inc | NY | $16,667
Corporation for AIDS Research, Education and Services, Inc | NY | $18,375
Rockland County, New York | NY | $74,000
Housing Options Made Easy, Inc | NY | $62,610
Catholic Charities Diocese of Rockville Centre | NY | $190,665
Anchor House, Inc | NY | $240,648
Lenox Hill Neighborhood House | NY | $285,998
Housing Options Made Easy, Inc | NY | $45,515
Housing Options Made Easy, Inc | NY | $57,265
Spanish Action League of Onondaga County, Inc | NY | $33,247
The Bridge, Inc | NY | $304,581
Housing Options Made Easy, Inc | NY | $108,053
Troy Housing Authority | NY | $241,332
Corporation for AIDS Research, Education and Services, Inc | NY | $34,666
Lower Eastside Service Center, Inc | NY | $492,100
Banana Kelly Improvement Assoc Inc | NY | $386,525
FACES NY, Inc | NY | $133,913
Legal Aid Society of Northeastern New York | NY | $30,120
Legal Aid Society of Northeastern New York | NY | $35,595
Legal Aid Society of Northeastern New York | NY | $33,183
Equinox, Inc | NY | $98,211
Equinox, Inc | NY | $63,675
Eastman Commons Community, Inc | NY | $300,000
Argus Community, Inc | NY | $371,322
Glens Falls Housing Authority | NY | $38,280
FACES NY, Inc | NY | $152,092
Equinox, Inc | NY | $82,363
Cattaraugus Community Action, Inc | NY | $94,315
Goddard Riverside Community Center | NY | $169,644
Goddard Riverside Community Center | NY | $280,889
Goddard Riverside Community Center | NY | $96,657
Goddard Riverside Community Center | NY | $153,696
FACES NY, Inc | NY | $184,553
The Bridge, Inc | NY | $112,163
Equinox, Inc | NY | $84,921
Department of Community Mental Health | NY | $216,060
West Side Federation for Senior and Supportive Housing, Inc | NY | $110,205
West Side Federation for Senior and Supportive Housing, Inc | NY | $362,197
Department of Community Mental Health | NY | $978,456
Department of Community Mental Health | NY | $1,007,880
Department of Community Mental Health | NY | $1,271,568
Department of Community Mental Health | NY | $711,552
Department of Community Mental Health | NY | $468,552
Rockland County, New York | NY | $217,622
Department of Community Mental Health | NY | $592,512
Rural Opportunities, Inc | NY | $65,450
Department of Community Mental Health | NY | $1,009,080
Basics, Inc | NY | $353,208
American Red Cross | NY | $676,278
Institute for Community Living, Inc | NY | $26,496
Institute for Community Living, Inc | NY | $315,787
Institute for Community Living, Inc | NY | $377,444
Institute for Community Living, Inc | NY | $672,657
Institute for Community Living, Inc | NY | $126,394
Department of Community Mental Health | NY | $229,008
Troy Housing Authority | NY | $127,980
The Bridge, Inc | NY | $101,909
The Bridge, Inc | NY | $366,262
The Bridge, Inc | NY | $115,431
The Bridge, Inc | NY | $224,339
Albany Housing Coalition, Inc | NY | $38,252
Albany Housing Coalition, Inc | NY | $63,503
Albany Housing Coalition, Inc | NY | $43,155
Albany Housing Coalition, Inc | NY | $21,000
West Side Federation for Senior and Supportive Housing, Inc | NY | $155,715
Albany Housing Coalition, Inc | NY | $29,970
Rural Opportunities, Inc | NY | $16,687
Troy Housing Authority | NY | $54,432
Troy Housing Authority | NY | $98,784
Bowery Residents' Committee, Inc | NY | $360,106
Troy Housing Authority | NY | $222,840
The Salvation Army | NY | $747,810
Project Hospitality, Inc | NY | $371,843
Columba Kavanagh House, Inc | NY | $388,163
Institute for Community Living, Inc | NY | $141,627
University Consultation & Treatment Center for Mental Hygiene | NY | $244,998
Citizens Advice Bureau | NY | $1,202,514
Catholic Charities of the Roman Catholic Diocese of Syracuse | NY | $83,332
Bridge Back Recovery Homes, Inc | NY | $313,584
Federation Employment and Guidance Service, Inc | NY | $676,767
Federation Employment and Guidance Service, Inc | NY | $595,000
Federation Employment and Guidance Service, Inc | NY | $238,319
Federation Employment and Guidance Service, Inc | NY | $582,961
Federation Employment and Guidance Service, Inc | NY | $558,906
The Educational Alliance, Inc | NY | $224,210
The Educational Alliance, Inc | NY | $240,318
Unity Health System | NY | $508,560
H.O.M.E.E. Clinic, Inc | NY | $131,936
Comunilife, Inc | NY | $644,121
Nassau/Suffolk Law Services Committee, Inc | NY | $54,090
Citizens Advice Bureau | NY | $105,000
Nassau/Suffolk Law Services Committee, Inc | NY | $69,616
United Cerebral Palsy and Handicapped Persons Association | NY | $175,085
Community Housing Innovations, Inc | NY | $109,698
Community Housing Innovations, Inc | NY | $137,844
Community Housing Innovations, Inc | NY | $178,627
Community Housing Innovations, Inc | NY | $168,638
Community Housing Innovations, Inc | NY | $70,316
Community Housing Innovations, Inc | NY | $166,684
Family Service League, Inc | NY | $92,344
Catholic Charities of the Roman Catholic Diocese of Syracuse | NY | $431,954
Catholic Charities of the Roman Catholic Diocese of Syracuse | NY | $50,263
Catholic Charities of the Roman Catholic Diocese of Syracuse | NY | $67,051
Housing Works, Inc | NY | $333,635
Comunilife, Inc | NY | $670,283
Suburban Housing Development & Research, Inc | NY | $42,000
Rochester Housing Authority | NY | $978,000
MTI Residential Services Inc | NY | $173,820
MTI Residential Services Inc | NY | $217,003
MTI Residential Services Inc | NY | $165,608
MTI Residential Services Inc | NY | $155,595
Altamont Program, Inc | NY | $31,150
SAFE Inc., of Schenectady | NY | $48,267
Onondaga Case Management Services, Inc | NY | $234,486
Community Access, Inc | NY | $404,974
Regional Economic Community Action Program, Inc | NY | $72,376
Regional Economic Community Action Program, Inc | NY | $65,809
Newark Housing Development Corporation | NY | $104,011
Nassau/Suffolk Law Services Committee, Inc | NY | $69,616
Kenmore Housing Development Fund Corp | NY | $390,576
Catholic Charities of the Roman Catholic Diocese of Syracuse | NY | $87,866
Common Ground Community IV HDFC | NY | $141,382
Common Ground Community IV HDFC | NY | $416,468
HELP Suffolk Inc | NY | $127,897
H.E.L.P. Equity Homes, Inc | NY | $165,915
H.E.L.P. Equity Homes, Inc | NY | $132,720
Community Action for Human Services, Inc | NY | $129,207
Central New York Services, Inc | NY | $290,154
Central New York Services, Inc | NY | $87,500
Central New York Services, Inc | NY | $100,000
HELP Social Service Corporation | NY | $703,958
HELP Social Service Corporation | NY | $791,172
HELP Social Service Corporation | NY | $1,008,349
Suburban Housing Development & Research, Inc | NY | $123,680
East New York Urban Youth Corps, Inc | NY | $96,756
Catholic Charities of the Roman Catholic Diocese of Syracuse | NY | $313,012
NYC Department of Housing Preservation and Development | NY | $828,240
NYC Department of Housing Preservation and Development | NY | $591,600
NYC Department of Housing Preservation and Development | NY | $1,005,720
NYC Department of Housing Preservation and Development | NY | $367,200
NYC Department of Housing Preservation and Development | NY | $458,220
Safe Space NYC Inc | NY | $225,610
Good Shepherd Services | NY | $414,000
Project Renewal, Inc | NY | $670,770
Project Renewal, Inc | NY | $428,982
Project Renewal, Inc | NY | $532,669
Project Renewal, Inc | NY | $409,798
NYC Department of Housing Preservation and Development | NY | $851,904
Community Action For Human Services, Inc | NY | $436,241
NYC Department of Housing Preservation and Development | NY | $345,600
Homeless Action Committee, Inc | NY | $69,974
Homeless Action Committee, Inc | NY | $79,747
Child & Family Services of Erie County | NY | $25,306
Syracuse Housing Authority | NY | $1,815,372
Syracuse Housing Authority | NY | $747,504
Metropolitan Council on Jewish Poverty | NY | $99,942
Bethesda House of Schenectady, Inc | NY | $144,702
Bethesda House of Schenectady, Inc | NY | $126,617
Bethesda House of Schenectady, Inc | NY | $48,083
Bethesda House of Schenectady, Inc | NY | $22,300
Bethesda House of Schenectady, Inc | NY | $63,564
Bethesda House of Schenectady, Inc | NY | $152,738
Project Renewal, Inc | NY | $328,300
NYC Department of Housing Preservation and Development | NY | $508,776
Urban Justice Center | NY | $109,686
Urban Justice Center | NY | $142,711
Pibly Residential Programs, Inc | NY | $463,234
Covenant House New York/Under 21, Inc | NY | $129,654
Covenant House New York/Under 21, Inc | NY | $376,444
Covenant House New York/Under 21, Inc | NY | $166,948
Covenant House New York/Under 21, Inc | NY | $594,542
Covenant House New York/Under 21, Inc | NY | $177,978
Covenant House New York/Under 21, Inc | NY | $504,647
Covenant House New York/Under 21, Inc | NY | $419,148
Ecclesia Ministries of Newburgh, Inc | NY | $62,952
Neighborhood Legal Services, Inc | NY | $77,476
NYC Department of Housing Preservation and Development | NY | $544,272
NYC Department of Housing Preservation and Development | NY | $360,000
Housing Works, Inc | NY | $469,535
NYC Department of Housing Preservation and Development | NY | $473,280
NYC Department of Housing Preservation and Development | NY | $757,992
NYC Department of Housing Preservation and Development | NY | $672,000
NYC Department of Housing Preservation and Development | NY | $388,800
NYC Department of Housing Preservation and Development | NY | $367,200
NYC Department of Housing Preservation and Development | NY | $759,996
NYC Department of Housing Preservation and Development | NY | $289,680
NYC Department of Housing Preservation and Development | NY | $369,600
NYC Department of Housing Preservation and Development | NY | $311,040
NYC Department of Housing Preservation and Development | NY | $423,636
NYC Department of Housing Preservation and Development | NY | $464,400
NYC Department of Housing Preservation and Development | NY | $591,600
NYC Department of Housing Preservation and Development | NY | $272,136
NYS Office of Mental Health | NY | $161,880
Mental Health Association of New York City, Inc | NY | $291,244
City of Mount Vernon (NY) | NY | $49,749
Bowery Residents' Committee, Inc | NY | $497,954
Bowery Residents' Committee, Inc | NY | $511,358
Bowery Residents' Committee, Inc | NY | $368,496
Bowery Residents' Committee, Inc | NY | $318,891
Bowery Residents' Committee, Inc | NY | $364,883
Bowery Residents' Committee, Inc | NY | $355,001
Hillside Children's Center | NY | $157,500
Weston United Community Renewal | NY | $224,900
Community Lantern Corp | NY | $630,000
City of Schenectady | NY | $123,600
Heritage Health and Housing, Inc | NY | $249,494
Mental Health Association in Ulster County Inc | NY | $58,209
Rochester Housing Authority | NY | $1,957,992
NYS Office of Mental Health | NY | $212,472
NYS Office of Mental Health | NY | $477,372
The Fortune Society, Inc | NY | $448,157
NYS Office of Mental Health | NY | $370,020
NYS Office of Mental Health | NY | $167,784
NYS Office of Mental Health | NY | $555,720
NYS Office of Mental Health | NY | $283,320
Bailey House Inc | NY | $629,300
NYS Office of Mental Health | NY | $343,560
NYS Office of Mental Health | NY | $210,728
NYS Office of Mental Health | NY | $117,828
Housing Works, Inc | NY | $286,535
City of Schenectady | NY | $61,800
Unity House of Troy, Inc | NY | $183,170
The Salvation Army | NY | $99,999
The Salvation Army | NY | $51,428
The Salvation Army | NY | $115,449
The Salvation Army | NY | $83,703
The Salvation Army | NY | $236,697
The Salvation Army | NY | $52,789
The Salvation Army | NY | $221,056
Joseph's House and Shelter, Inc | NY | $70,000
Joseph's House and Shelter, Inc | NY | $55,491
Joseph's House and Shelter, Inc | NY | $61,493
Saratoga County Rural Preservation Company | NY | $43,418
Capital Area Peer Services | NY | $96,017
YWCA of Troy-Cohoes | NY | $76,958
Unity House of Troy, Inc | NY | $625,830
Mental Health Association of New York City, Inc | NY | $584,272
Unity House of Troy, Inc | NY | $187,131
Adirondack Vets House, Inc | NY | $75,417
Homeless and Travelers Aid Society of the Capital District, | NY | $186,957
Homeless and Travelers Aid Society of the Capital District, | NY | $80,523
Federation of Organizations for the New York State Mentally | NY | $46,235
Federation of Organizations for the New York State Mentally | NY | $100,849
Federation of Organizations for the New York State Mentally | NY | $45,269
YWCA of Western New York | NY | $500,227
Rochester Housing Authority | NY | $185,172
Rochester Housing Authority | NY | $390,936
Rochester Housing Authority | NY | $872,748
Rochester Housing Authority | NY | $89,544
Unity House of Troy, Inc | NY | $61,454
United Veterans Beacon House, Inc | NY | $136,099
NYS Office of Mental Health | NY | $95,544
Options for Independence | NY | $79,540
Liberty Resources, Inc | NY | $63,355
Erie County Department of Mental Health | NY | $291,592
Erie County Department of Mental Health | NY | $343,657
Erie County Department of Mental Health | NY | $296,076
Erie County Department of Mental Health | NY | $166,008
Erie County Department of Mental Health | NY | $309,888
Erie County Department of Mental Health | NY | $686,616
Society of St. Vincent de Paul, Diocesan Council of RVC | NY | $154,509
Urban Resource Institute | NY | $250,294
Erie County Department of Mental Health | NY | $857,748
Erie County Department of Mental Health | NY | $174,190
Violence Intervention Program, Inc | NY | $324,920
Erie County Department of Mental Health | NY | $218,790
Pathways to Housing Inc | NY | $154,015
Family of Woodstock, Inc | NY | $91,667
Pathways to Housing Inc | NY | $584,268
Pathways to Housing Inc | NY | $426,777
Pathways to Housing Inc | NY | $538,701
Pathways to Housing Inc | NY | $274,156
Allegany County Community Opportunities & Rural Development | NY | $158,290
Gateway Community Industries, Inc | NY | $45,120
Gateway Community Industries, Inc | NY | $70,350
Gateway Community Industries, Inc | NY | $41,307
Gateway Community Industries, Inc | NY | $91,069
Housing + Solutions | NY | $156,549
Neighborhood Coalition for Shelter | NY | $243,070
Harlem United Community AIDS Center | NY | $364,817
NYS Office of Mental Health | NY | $65,736
NYS Office of Mental Health | NY | $148,872
NYS Office of Mental Health | NY | $324,564
NYS Office of Mental Health | NY | $165,072
NYS Office of Mental Health | NY | $37,944
NYS Office of Mental Health | NY | $96,408
NYS Office of Mental Health | NY | $241,020
NYS Office of Mental Health | NY | $107,268
Mohawk Opportunities, Inc | NY | $125,347
NYS Office of Mental Health | NY | $321,360
NYS Office of Mental Health | NY | $192,816
Options for Community Living, Inc | NY | $80,562
Oneida County Workforce Development | NY | $39,900
Options for Community Living, Inc | NY | $86,707
The Salvation Army | NY | $163,244
County of Nassau Economic Development Office of Housing & Iowa | NY | $354,968
Education & Assistance Corporation | NY | $107,140
Nassau County Coalition Against Domestic Violence | NY | $122,356
Nassau County Coalition Against Domestic Violence | NY | $136,603
Helping Hands Unlimited | NY | $160,886
South shore Association for Independent Living, Inc | NY | $148,713
South shore Association for Independent Living, Inc | NY | $225,038
South shore Association for Independent Living, Inc | NY | $92,922
Erie County Department of Mental Health | NY | $1,001,543
Erie County Department of Mental Health | NY | $243,625
Erie County Department of Mental Health | NY | $416,911
Erie County Department of Mental Health | NY | $154,523
Foundation for Research on Sexually Transmitted Diseases | NY | $871,533
NYS OFFICE OF Alcoholism and Substance Abuse Services | NY | $214,680
NYS OFFICE OF Alcoholism and Substance Abuse Services | NY | $79,896
Syracuse Brick House Inc | NY | $187,426
Transitional Services Association, Inc | NY | $34,721
Syracuse Brick House Inc | NY | $221,092
Syracuse Brick House Inc | NY | $83,988
NYS OFFICE OF Alcoholism and Substance Abuse Services | NY | $118,248
Schenectady Community Action Program, Inc | NY | $163,073
Wayne County Action Program, Inc | NY | $22,256
Chadwick Residence, Inc | NY | $31,957
Palladia, Inc | NY | $458,882
NYS OFFICE OF Alcoholism and Substance Abuse Services | NY | $465,324
Warren Washington Association for Mental Health | NY | $78,200
Syracuse Brick House Inc | NY | $111,286
Syracuse Brick House Inc | NY | $105,256
Catholic Charities of Rochester dba Catholic Family Center | NY | $394,636
NYS OFFICE OF Alcoholism and Substance Abuse Services | NY | $212,676
NYS OFFICE OF Alcoholism and Substance Abuse Services | NY | $197,712
Palladia, Inc | NY | $492,830
Palladia, Inc | NY | $158,957
Palladia, Inc | NY | $556,583
Palladia, Inc | NY | $830,975
Palladia, Inc | NY | $265,599
Palladia, Inc | NY | $265,060
Palladia, Inc | NY | $282,790
Women In Need, Inc | NY | $363,711
Orange County | NY | $65,736
NYS OFFICE OF Alcoholism and Substance Abuse Services | NY | $202,488
Women In Need, Inc | NY | $446,787
Coalition for the Homeless | NY | $375,786
Lutheran Social Services of New York | NY | $210,000
Women In Need, Inc | NY | $326,070
Emergency Housing Group, Inc | NY | $62,049
NYS OFFICE OF Alcoholism and Substance Abuse Services | NY | $126,372
Southern Tier Environments for Living, Inc | NY | $56,516
Cayuga/Seneca Community Action Agency, Inc | NY | $59,870
Lutheran Social Services of New York | NY | $397,950
Hudson River Housing, Inc | NY | $42,182
NYS OFFICE OF Alcoholism and Substance Abuse Services | NY | $184,080
Syracuse Brick House Inc | NY | $95,899
NYS OFFICE OF Alcoholism and Substance Abuse Services | NY | $343,512
Catholic Charities of Rochester dba Catholic Family Center | NY | $493,882
Support Ministries, Inc | NY | $112,137
Support Ministries, Inc | NY | $91,705
NYS OFFICE OF Alcoholism and Substance Abuse Services | NY | $105,312
NYS OFFICE OF Alcoholism and Substance Abuse Services | NY | $200,880
Crystal Run Village, Inc | NY | $137,029
Syracuse Brick House Inc | NY | $95,252
Rehabilitation Support Services | NY | $104,372
Domestic Violence and Rape Crisis Services of Saratoga Count | NY | $73,094
Domestic Violence and Rape Crisis Services of Saratoga Count | NY | $60,417
Domestic Violence and Rape Crisis Services of Saratoga Count | NY | $36,607
Domestic Violence and Rape Crisis Services of Saratoga Count | NY | $114,536
NYS OFFICE OF Alcoholism and Substance Abuse Services | NY | $121,260
NYS OFFICE OF Alcoholism and Substance Abuse Services | NY | $417,168
Palladia, Inc | NY | $704,884
Veritas Therapeutic Community Inc | NY | $273,347
Steuben County | NY | $213,132
Samaritan Village, Inc | NY | $183,750
Steuben County | NY | $201,060
Interfaith Partnership for the Homeless | NY | $53,683
Interfaith Partnership for the Homeless | NY | $222,210
Heritage Health and Housing, Inc | NY | $159,935
City of Mount Vernon (NY) | NY | $172,875
NYS OFFICE OF Alcoholism and Substance Abuse Services | NY | $202,944
Rehabilitation Support Services | NY | $60,119
Veritas Therapeutic Community Inc | NY | $102,678
NYS OFFICE OF Alcoholism and Substance Abuse Services | NY | $140,172
Newburgh Interfaith Emergency Housing Inc | NY | $105,055
Family Nurturing Center of Central New York Inc | NY | $105,810
Rehabilitation Support Services, Inc | NY | $69,894
Samaritan Village, Inc | NY | $342,709
John Heuss Corporation | NY | $77,030
Rehabilitation Support Services | NY | $66,381
Women In Need, Inc | NY | $405,062
Community Services for the Developmentally Disabled, Inc | NY | $269,043
Women In Need, Inc | NY | $327,681
Behavioral Health Services North | NY | $ 6,485
Behavioral Health Services North | NY | $ 6,301
Chautauqua Opportunities, Inc | NY | $21,667
Jewish Board of Family and Children's Services, Inc | NY | $415,395
Westchester County Dept. of Social Services | NY | $59,799
NYS OFFICE OF Alcoholism and Substance Abuse Services | NY | $309,264
NYS OFFICE OF Alcoholism and Substance Abuse Services | NY | $230,592
Services for the UnderServed, Inc | NY | $141,516
Services for the UnderServed, Inc | NY | $74,812
Services for the UnderServed, Inc | NY | $536,347
Services for the UnderServed, Inc | NY | $588,490
Services for the UnderServed, Inc | NY | $404,203
NYS OFFICE OF Alcoholism and Substance Abuse Services | NY | $102,144
Services for the UnderServed, Inc | NY | $345,362
Schenectady Community Action Program, Inc | NY | $165,905
Westchester County Dept. of Social Services | NY | $48,530
El Regreso Foundation | NY | $253,855
Community, Counseling, & Mediation | NY | $232,181
Y.W.C.A. of the Mohawk Valley | NY | $354,107
Westchester County Dept. of Social Services | NY | $30,000
Westchester County Dept. of Social Services | NY | $100,000
Westchester County Dept. of Social Services | NY | $205,485
Newburgh Community Improvement Corporation | NY | $75,211
CAMBA, inc | NY | $166,666
Women In Need, Inc | NY | $265,059
Community, Counseling, & Mediation | NY | $238,951
Chadwick Residence, Inc | NY | $188,720
Independent Living, Inc | NY | $129,885
Franklin County Community Housing Council, Inc | NY | $52,505
City of Saratoga Springs | NY | $246,096
Westchester County Dept. of Social Services | NY | $121,776
Vocational Instruction Project Community Services, Inc | NY | $90,017
NYS OFFICE OF Alcoholism and Substance Abuse Services | NY | $135,420
Unity Health System | NY | $960,899
Unity Health System | NY | $123,661
Mental Health Association in Orange County, Inc | NY | $248,409
NYS OFFICE OF Alcoholism and Substance Abuse Services | NY | $715,452
Albany Housing Authority | NY | $108,036
Association to Benefit Children | NY | $115,706
Tompkins Community Action | NY | $60,126
Tompkins Community Action | NY | $84,713
NYS OFFICE OF Alcoholism and Substance Abuse Services | NY | $257,544
Albany Housing Authority | NY | $226,824
CUCS, Inc | NY | $238,140
Albany Housing Authority | NY | $147,492
NYS OFFICE OF Alcoholism and Substance Abuse Services | NY | $311,520
Albany Housing Authority | NY | $42,660
The Doe Fund, Inc | NY | $356,173
The Doe Fund, Inc | NY | $1,951,512
The Doe Fund, Inc | NY | $1,062,269
Vocational Instruction Project Community Services, Inc | NY | $278,854
CUCS, Inc | NY | $1,302,539
NYS OFFICE OF Alcoholism and Substance Abuse Services | NY | $151,608
NYS OFFICE OF Alcoholism and Substance Abuse Services | NY | $113,916
CUCS, Inc | NY | $298,736
NYS OFFICE OF Alcoholism and Substance Abuse Services | NY | $491,844
CUCS, Inc | NY | $199,999
Jericho Project | NY | $49,671
County of Dutchess | NY | $164,340
Heritage Health and Housing, Inc | NY | $330,486
Heritage Health and Housing, Inc | NY | $110,528
Brooklyn Bureau of Community Service | NY | $249,674
MOMMAS, Inc | NY | $63,657
Brooklyn Bureau of Community Service | NY | $474,924
County of Dutchess | NY | $41,020
County of Dutchess | NY | $68,184
County of Dutchess | NY | $36,658
County of Dutchess | NY | $124,824
Niagara County Department of Social Services | NY | $5,143
Restoration Society, Inc | NY | $220,280
NYS OFFICE OF Alcoholism and Substance Abuse Services | NY | $126,048
County of Dutchess | NY | $54,250
Praxis Housing Initiatives, Inc | NY | $800,633
NYS OFFICE OF Alcoholism and Substance Abuse Services | NY | $182,928
Grace Smith House, Inc | NY | $11,210
Grace Smith House, Inc | NY | $18,385
Public Health Solutions | NY | $728,535
Urban Pathways, Inc | NY | $174,673
Urban Pathways, Inc | NY | $357,451
Ali Forney Center | NY | $438,598
NYS OFFICE OF Alcoholism and Substance Abuse Services | NY | $187,272
Urban Pathways, Inc | NY | $149,030
NYS OFFICE OF Alcoholism and Substance Abuse Services | NY | $283,200
NYS OFFICE OF Alcoholism and Substance Abuse Services | NY | $141,600
Filllmore-Leroy Area Residents, Inc | NY | $67,417
County of Dutchess | NY | $81,588
Schenectady Municipal Housing Authority | NY | $450,684
NYS OFFICE OF Alcoholism and Substance Abuse Services | NY | $78,552
COLUMBIA OPPORTUNITIES INCORPORATED | NY | $2,145
Postgraduate Center for Mental Health | NY | $472,677
NYS OFFICE OF Alcoholism and Substance Abuse Services | NY | $80,688
Fountain House, Inc | NY | $639,296
Fountain House, Inc | NY | $144,712
NYS OFFICE OF Alcoholism and Substance Abuse Services | NY | $189,144
NYS OFFICE OF Alcoholism and Substance Abuse Services | NY | $158,832
Oneida County Department of Mental Health | NY | $37,483
Safe Harbors of the Hudson, Inc | NY | $157,500
NYS OFFICE OF Alcoholism and Substance Abuse Services | NY | $423,372
NYS OFFICE OF Alcoholism and Substance Abuse Services | NY | $107,664
NYS OFFICE OF Alcoholism and Substance Abuse Services | NY | $140,304
NYS OFFICE OF Alcoholism and Substance Abuse Services | NY | $710,568
Women In Need, Inc | NY | $325,270
NYS OFFICE OF Alcoholism and Substance Abuse Services | NY | $226,560
NYS OFFICE OF Alcoholism and Substance Abuse Services | NY | $222,408
NYS OFFICE OF Alcoholism and Substance Abuse Services | NY | $218,688
NYS OFFICE OF Alcoholism and Substance Abuse Services | NY | $189,936
NYS OFFICE OF Alcoholism and Substance Abuse Services | NY | $209,316
CUCS, Inc | NY | $226,800
CUCS, Inc | NY | $103,950
Council of Alcohol and Drug Abuse of Sullivan County | NY | $147,123
Hudson River Housing, Inc | NY | $138,842
Oneida County Department of Mental Health | NY | $185,034
Council of Alcohol and Drug Abuse of Sullivan County | NY | $39,896
Oneida County Department of Mental Health | NY | $14,927
Ali Forney Center | NY | $527,857
COLUMBIA OPPORTUNITIES INCORPORATED | NY | $29,934
NYS OFFICE OF Alcoholism and Substance Abuse Services | NY | $201,432
Vocational Instruction Project Community Services, Inc | NY | $227,666
Meridian Services, Inc | OH | $71,890
Stark Metropolitan Housing Authority | OH | $326,880
Meridian Services, Inc | OH | $124,640
Independent Living Options, Inc | OH | $167,187
300 Beds, Inc./Harbor House | OH | $117,551
Miami Valley Housing Opportunities, Inc | OH | $50,364
Family Violence Prevention Center of Greene County, Inc | OH | $56,293
Meridian Services, Inc | OH | $136,786
H. M. Life Opportunity Services | OH | $68,067
H. M. Life Opportunity Services | OH | $169,140
Info Line, Inc | OH | $479,390
Greene Metropolitan Housing Authority | OH | $142,164
Lake County Alcohol, Drug Addiction and Mental Health Services | OH | $172,800
Family Violence Prevention Center of Greene County, Inc | OH | $66,761
YWCA of Hamilton Ohio Inc | OH | $119,320
Lake County Alcohol, Drug Addiction and Mental Health Services | OH | $738,360
H. M. Life Opportunity Services | OH | $48,218
YMCA of Greater Cleveland | OH | $905,203
Young Women's Christian Association of Canton | OH | $47,951
Young Women's Christian Association of Canton | OH | $47,957
Beatitude House | OH | $141,334
Young Women's Christian Association | OH | $162,559
Knox Metropolitan Housing Authority | OH | $280,800
Young Women's Christian Association | OH | $99,015
Knox Metropolitan Housing Authority | OH | $210,600
Beatitude House | OH | $134,917
Community Action Commission of Fayette County | OH | $64,914
ACCESS, Inc | OH | $118,711
Mental Health and Recovery Services Board of Lucas County | OH | $590,280
YMCA of Greater Cleveland | OH | $187,351
Meridian Services, Inc | OH | $113,300
Columbiana Metropolitan Housing Authority | OH | $29,340
Columbiana Metropolitan Housing Authority | OH | $29,340
Warren Metropolitan Housing Authority | OH | $390,159
Warren Metropolitan Housing Authority | OH | $184,574
Mental Health and Recovery Services Board of Lucas County | OH | $241,752
Stark Metropolitan Housing Authority | OH | $207,720
Stark Metropolitan Housing Authority | OH | $211,680
Stark Metropolitan Housing Authority | OH | $169,920
Independent Living Options, Inc | OH | $905,244
Stark Metropolitan Housing Authority | OH | $190,680
Beatitude House | OH | $71,251
Lorain Metropolitan Housing Authority | OH | $490,704
MRMTOAP, Inc | OH | $32,555
St. Vincent Hotel, Inc | OH | $106,910
Neighborhood Properties, Inc | OH | $73,976
St. Vincent Hotel, Inc | OH | $181,200
Aurora Project, Inc | OH | $103,773
Cleveland Housing Network, Inc | OH | $119,627
Butler County, Ohio | OH | $554,400
Springfield District Council of the St. Vincent de Paul Society | OH | $23,040
National Church Residences | OH | $250,092
PLACES, Inc | OH | $71,081
Pickaway County Community Action Organization, Inc | OH | $123,145
Ohio Valley Goodwill Industries Rehabilitation Center, Inc | OH | $856,787
Licking Metropolitan Housing Authority | OH | $192,252
Cuyahoga Metropolitan Housing Authority | OH | $386,373
Jefferson County Prevention and Recovery Board | OH | $227,040
Family Abuse Shelter of Miami County, Inc | OH | $16,000
Family Abuse Shelter of Miami County, Inc | OH | $42,000
Columbiana County Mental Health Clinic dba The Counseling Center | OH | $36,667
Transitional Housing, Inc | OH | $122,529
Volunteers of America Northwest Ohio, Inc | OH | $420,000
Volunteers of America Northwest Ohio, Inc | OH | $286,661
Volunteers of America Northwest Ohio, Inc | OH | $291,955
City of Dayton, Ohio | OH | $1,412,280
New Sunrise Properties, Inc | OH | $28,137
ICAN Inc | OH | $46,856
Mercy Manor | OH | $101,718
Legacy III | OH | $139,099
Legacy III | OH | $404,714
Mental Health, Drug and Alcohol Services Board | OH | $40,348
City of Dayton, Ohio | OH | $427,032
PLACES, Inc | OH | $202,096
Geauga County Board of Mental Health & Recovery Services | OH | $85,776
PLACES, Inc | OH | $735,220
Lutheran Metropolitan Ministry | OH | $50,157
Ohio Valley Goodwill Industries Rehabilitation Center, Inc | OH | $878,736
ICAN Inc | OH | $48,134
Community Housing Network, Inc | OH | $87,316
PLACES, Inc | OH | $288,021
Alliance for Children & Families | OH | $129,130
Miami Valley Housing Opportunities, Inc | OH | $174,394
City of Toledo, Department of Neighborhoods | OH | $95,400
Volunteers of America of Greater Ohio | OH | $357,325
Community Action Partnership of the Greater Dayton Area | OH | $56,371
Miami Valley Housing Opportunities, Inc | OH | $428,507
Miami Valley Housing Opportunities, Inc | OH | $127,106
Neighborhood Properties, Inc | OH | $180,089
Family Recovery Center | OH | $70,606
United Way of Greater Stark County | OH | $105,437
North Coast Community Homes, Inc | OH | $116,736
West Side Catholic Center | OH | $127,829
Mental Health Services for Homeless Persons, Inc | OH | $469,586
Mental Health Services for Homeless Persons, Inc | OH | $456,968
Mental Health Services for Homeless Persons, Inc | OH | $229,897
Mental Health Services for Homeless Persons, Inc | OH | $448,126
Mental Health Services for Homeless Persons, Inc | OH | $206,741
Mental Health Services for Homeless Persons, Inc | OH | $264,099
Mental Health Services for Homeless Persons, Inc | OH | $919,863
Neighborhood Properties, Inc | OH | $62,337
Zanesville Metropolitan Housing Authority | OH | $45,984
Montgomery County Board of County Commissioners | OH | $137,898
Columbus Metropolitan Housing Authority | OH | $698,700
Columbus Metropolitan Housing Authority | OH | $88,800
Emerald Development & Economic Network (EDEN), Inc | OH | $335,036
Emerald Development & Economic Network (EDEN), Inc | OH | $572,959
Emerald Development & Economic Network (EDEN), Inc | OH | $468,367
Emerald Development & Economic Network (EDEN), Inc | OH | $703,431
Emerald Development & Economic Network (EDEN), Inc | OH | $555,615
Emerald Development & Economic Network (EDEN), Inc | OH | $471,666
Daybreak, Inc | OH | $191,774
Ashtabula County Mental Health and Recovery Services Board | OH | $308,256
The Other Place | OH | $784,700
City of Cincinnati | OH | $114,720
Family & Community Services, Inc | OH | $184,701
YWCA of Elyria | OH | $116,706
Family & Community Services, Inc | OH | $118,356
WSOS Community Action Commission, Inc | OH | $435,196
City of Youngstown | OH | $233,280
Continue Life Inc | OH | $212,973
West Side Catholic Center | OH | $120,901
Shelterhouse Volunteer Group | OH | $494,126
West Side Catholic Center | OH | $97,182
Shelterhouse Volunteer Group | OH | $266,250
Lighthouse Youth Services, Inc | OH | $353,172
St. Paul's Community Center | OH | $186,811
Community Shelter Board | OH | $844,634
Community Shelter Board | OH | $422,317
Community Shelter Board | OH | $166,413
Community Action Agency of Columbiana County, Inc | OH | $95,730
Cuyahoga County | OH | $174,731
Geauga County Board of Mental Health and Recovery Services | OH | $837,793
Western Stark Medical Clinic, Inc | OH | $124,951
Bethany House Services, Inc | OH | $1,678,310
Emerald Development & Economic Network (EDEN), Inc | OH | $27,276
Young Women's Christian Association of Youngstown, Ohio | OH | $105,248
Youngstown Metropolitan Housing Authority | OH | $174,960
Cuyahoga County | OH | $270,705
Cuyahoga County | OH | $1,547,520
Youngstown Area Goodwill Industries, Inc | OH | $72,063
Community Housing Network, Inc | OH | $226,315
Community Housing Network, Inc | OH | $35,233
Cuyahoga County | OH | $537,741
Community Housing Network, Inc | OH | $245,103
Cuyahoga County | OH | $152,064
Community Housing Network, Inc | OH | $236,416
Community Housing Network, Inc | OH | $83,283
Community Housing Network, Inc | OH | $260,672
Community Housing Network, Inc | OH | $656,422
Community Housing Network, Inc | OH | $184,834
Portage Metropolitan Housing Authority | OH | $186,600
Northeast Ohio Coalition for the Homeless | OH | $52,500
Caracole, Inc | OH | $479,999
Catholic Charities Regional Agency | OH | $103,776
Preparation for Adult Living (PAL) Mission | OH | $218,602
Community Housing Network, Inc | OH | $97,293
Family & Community Services, Inc | OH | $45,933
Crisis Intervention and Recovery Center, Inc | OH | $62,132
Columbus Metropolitan Housing Authority | OH | $117,876
Columbus Metropolitan Housing Authority | OH | $1,011,048
Columbus Metropolitan Housing Authority | OH | $1,153,440
Columbus Metropolitan Housing Authority | OH | $235,860
TAPP House/TC, Inc | OH | $493,541
Columbus Metropolitan Housing Authority | OH | $113,100
Young Women's Christian Association of Youngstown, Ohio | OH | $89,353
Fairfield Metropolitan Housing Authority | OH | $421,200
Columbus Metropolitan Housing Authority | OH | $535,236
Battered Women's Shelter of Summit and Medina Counties | OH | $112,367
Battered Women's Shelter of Summit and Medina Counties | OH | $143,780
Cuyahoga County | OH | $9,096,012
Young Women's Christian Association of Youngstown, Ohio | OH | $132,141
Young Women's Christian Association of Youngstown, Ohio | OH | $55,728
Cuyahoga County | OH | $423,288
Young Women's Christian Association of Youngstown, Ohio | OH | $136,595
Youngstown State University | OH | $100,616
Community Housing Network, Inc | OH | $59,060
Cuyahoga County | OH | $317,109
Southeast, Inc | OH | $260,680
Family Outreach Community United Services | OH | $119,220
Family Outreach Community United Services | OH | $308,076
YWCA Dayton | OH | $405,799
City of Cincinnati | OH | $430,200
YWCA Dayton | OH | $860,470
Humility of Mary | OH | $76,624
The Salvation Army | OH | $1,999,881
Ohio Multi-County Development Corporation | OH | $395,186
Amethyst, Inc | OH | $163,120
Volunteers of America of Greater Ohio | OH | $262,500
Trumbull LifeLines, Inc | OH | $437,400
Community Health Center | OH | $527,133
The AIDS Taskforce of Greater Cleveland | OH | $75,655
The AIDS Taskforce of Greater Cleveland | OH | $111,330
Appleseed Community Mental Health Center, Inc | OH | $67,549
City of Cincinnati | OH | $3,890,016
New Beginnings Recovery House, Inc | OH | $65,776
WSOS Community Action Commission, Inc | OH | $293,822
Volunteers of America of Greater Ohio, Inc | OH | $79,155
Family Outreach Community United Services | OH | $88,915
WSOS Community Action Commission, Inc | OH | $53,774
Volunteers of America of Greater Ohio, Inc | OH | $246,967
Project Woman of Springfield and Clark County | OH | $40,614
Jefferson County Community Action Council | OH | $138,432
Project Woman of Springfield and Clark County | OH | $35,679
Family Outreach Community United Services | OH | $271,820
Community Legal Aid Services, Inc | OH | $17,850
Maryhaven | OH | $137,936
Maryhaven | OH | $48,015
City of Cincinnati | OH | $790,920
Turning Point Counseling Services, Inc | OH | $45,470
Catholic Charities Diocese of Toledo, Inc | OH | $86,552
Community Health Center | OH | $119,713
Project Woman of Springfield and Clark County | OH | $212,719
Licking County Coalition for Housing | OH | $588,371
City of Cincinnati | OH | $319,632
Coleman Professional Services | OH | $70,927
Akron Metropolitan Housing Authority | OH | $277,668
Akron Metropolitan Housing Authority | OH | $72,660
Neighborhood Properties, Inc | OH | $229,249
Coleman Professional Services | OH | $31,520
Coleman Professional Services | OH | $89,462
Mental Health & Recovery Board of Union County | OH | $60,580
Neighborhood Properties, Inc | OH | $77,676
Community Services of Stark County, Inc | OH | $133,333
Mental Health & Recovery Board of Union County | OH | $73,361
Mental Health & Recovery Board of Union County | OH | $89,880
City of Cincinnati | OH | $327,600
YWCA of Elyria | OH | $120,932
Community AIDS Network | OH | $65,799
Coleman Professional Services | OH | $70,000
The Center for Individual and Family Services | OH | $56,066
Trumbull LifeLines, Inc | OH | $291,600
Hitchcock Center For Women, Inc | OH | $275,403
Hitchcock Center For Women, Inc | OH | $236,841
Trumbull LifeLines, Inc | OH | $215,784
Huckleberry House, Inc | OH | $235,406
Neighborhood Properties, Inc | OH | $108,889
Ironton Lawrence County Area Community Action Organization I | OH | $104,200
Springfield Metropolitan Housing Authority | OH | $104,052
Community Health Center | OH | $135,108
Akron Metropolitan Housing Authority | OH | $169,632
Neighborhood Properties, Inc | OH | $90,650
Trumbull LifeLines, Inc | OH | $97,767
KI BOIS Community Action Foundation, Inc | OK | $122,446
Lawton Housing Authority | OK | $47,417
Northwest Domestic Crisis Services, Inc | OK | $118,544
Oklahoma Department of Commerce | OK | $176,196
Volunteers of America of Oklahoma, Inc | OK | $125,481
Domestic Violence Intervention Services, Inc | OK | $149,370
Food & Shelter for Friends | OK | $51,337
State of Oklahoma | OK | $47,460
Legal Aid Services of Oklahoma, Inc | OK | $111,919
East Main Place, Inc | OK | $43,895
City of Oklahoma City | OK | $16,464
Mental Health Association in Tulsa, Inc | OK | $88,456
Mental Health Association in Tulsa, Inc | OK | $87,500
Mental Health Association in Tulsa, Inc | OK | $252,008
Community Service Council of Greater Tulsa | OK | $123,113
Mental Health Association in Tulsa, Inc | OK | $222,768
Mental Health Association in Tulsa, Inc | OK | $212,940
Oklahoma Mental Health Council d/b/a Red Rock | OK | $162,451
Southern Territorial Headquarters of the Salvation Army, The | OK | $336,679
City of Oklahoma City | OK | $325,000
Mental Health Association in Tulsa, Inc | OK | $121,046
City of Oklahoma City | OK | $169,500
City of Oklahoma City | OK | $67,800
City of Oklahoma City | OK | $73,001
City of Oklahoma City | OK | $79,999
City of Oklahoma City | OK | $269,296
City of Oklahoma City | OK | $717,309
The Salvation Army a Georgia Corporation | OK | $70,613
City of Oklahoma City | OK | $599,998
Southern Territorial Headquarters of the Salvation Army, The | OK | $110,432
Volunteers of America of Oklahoma, Inc | OK | $77,914
Waynoka Mental Health Authority | OK | $224,440
Volunteers of America of Oklahoma, Inc | OK | $211,941
Central Oklahoma Community Action Agency | OK | $34,571
Mental Health Association in Tulsa, Inc | OK | $116,663
Freedom From Addiction Through Christ | OK | $43,633
Housing Authority of the City of Norman | OK | $79,368
Norman Housing Authority | OK | $67,800
Central Oklahoma Community Action Agency | OK | $34,076
Community Crisis Center, Inc | OK | $50,129
Bradley-Angle House | OR | $73,987
Housing Authority of Portland | OR | $1,600,728
Portland Impact, Inc | OR | $115,737
Housing Authority of Clackamas County | OR | $71,886
Housing Authority of Portland | OR | $458,064
Mid-Columbia Community Action Council Inc | OR | $34,265
Cascadia Behavioral HealthCare | OR | $125,582
Cascadia Behavioral HealthCare | OR | $15,384
Transition Projects, Inc | OR | $243,041
Community Action Team, Inc | OR | $26,767
Northwest Human Services, Inc | OR | $235,025
Community Action Team, Inc | OR | $135,188
Community Services Consortium | OR | $43,311
Housing Authority of Clackamas County | OR | $297,372
Community Services Consortium | OR | $76,122
Oregon State Department of Human Services | OR | $34,992
Community Services Consortium | OR | $133,157
Cascadia Behavioral HealthCare | OR | $698,336
Lane County | OR | $143,307
Oregon Housing and Community Services | OR | $11,561
Oregon Housing and Community Services | OR | $32,081
Oregon Housing and Community Services | OR | $23,983
The Inn-Home for Boys | OR | $244,192
Oregon Housing and Community Services | OR | $22,025
Oregon Human Development Corporation | OR | $41,820
Oregon Housing and Community Services | OR | $11,605
Oregon Housing and Community Services | OR | $80,425
Luke-Dorf Incorporated | OR | $332,588
Lane County | OR | $24,622
Lane County | OR | $191,815
Clatsop Community Action | OR | $17,951
Shangri-La Corporation | OR | $37,800
Oregon Housing and Community Services | OR | $25,061
Shangri-La Corporation | OR | $153,860
Oregon Housing and Community Services | OR | $28,996
Oregon Housing and Community Services | OR | $41,046
Human Solutions, Inc | OR | $209,856
Lane County | OR | $97,258
Lane County | OR | $136,787
Lane County | OR | $108,973
Lane County | OR | $82,208
Lane County | OR | $33,333
Lane County | OR | $57,002
The Salvation Army | OR | $39,375
Northwest Pilot Project, Inc | OR | $122,879
Central City Concern | OR | $160,602
Human Solutions, Inc | OR | $51,905
Human Solutions, Inc | OR | $1,085,075
Central City Concern | OR | $236,968
Central City Concern | OR | $104,772
Housing and Community Services Agency of Lane County | OR | $349,632
St. Vincent de Paul Society of Lane County, Inc | OR | $88,470
St. Vincent de Paul Society of Lane County, Inc | OR | $249,736
St. Vincent de Paul Society of Lane County, Inc | OR | $222,219
ACCESS, Inc | OR | $10,901
Rogue Valley Council of Governments | OR | $136,957
Central City Concern | OR | $223,014
Oregon Housing and Community Services | OR | $33,700
Umpqua Community Action Network | OR | $42,525
Oregon Housing and Community Services | OR | $99,110
The Salvation Army, a California Corp | OR | $50,000
Lane County | OR | $378,850
City of Portland | OR | $241,074
Housing Authority of Portland | OR | $385,800
City of Portland | OR | $271,986
Community Works | OR | $122,056
Open Door Counseling Center | OR | $38,095
NeighborImpact | OR | $302,996
Community Action | OR | $165,219
Community Action Program of East Central Oregon | OR | $38,874
Community Connection of Northeast Oregon, Inc | OR | $56,658
Lane County | OR | $60,166
Umpqua Community Action Network | OR | $47,807
Neighborhood House | OR | $276,770
Washington County Department of Housing Services | OR | $62,055
Clackamas County Department of Human Services | OR | $64,057
Washington County Department of Housing Services | OR | $126,000
Washington County Department of Housing Services | OR | $388,320
Washington County Department of Housing Services | OR | $83,869
Clackamas Women's Services | OR | $81,290
Washington County Department of Housing Services | OR | $136,523
Mid-Willamette Valley Community Action Agency | OR | $306,901
Washington County Department of Housing Services | OR | $805,248
The Salvation Army, a California Corporation | OR | $125,769
Oregon Coast Community Action | OR | $14,314
Clackamas County Department of Human Services | OR | $108,581
Clackamas County Department of Human Services | OR | $29,977
Mid-Willamette Valley Community Action Agency | OR | $30,394
Clackamas County Department of Human Services | OR | $185,115
Mid-Willamette Valley Community Action Agency | OR | $83,572
Clackamas County Department of Human Services | OR | $114,200
Washington County Department of Housing Services | OR | $155,580
Oregon Coast Community Action | OR | $14,910
Housing Authority of Portland | OR | $318,384
Housing Authority of Portland | OR | $225,156
Oregon Coast Community Action | OR | $120,502
Transition Projects, Inc | OR | $116,302
Oregon Coast Community Action | OR | $194,775
Transition Projects, Inc | OR | $277,367
Multnomah County, Oregon | OR | $462,083
Multnomah County, Oregon | OR | $1,150,995
Multnomah County, Oregon | OR | $12,635
Multnomah County, Oregon | OR | $278,736
Multnomah County, Oregon | OR | $142,142
Multnomah County, Oregon | OR | $45,801
Oregon Coast Community Action | OR | $26,463
1260 Housing Development Corporation | PA | $201,685
Westmoreland Community Action | PA | $467,270
Westmoreland Community Action | PA | $40,950
1260 Housing Development Corporation | PA | $67,686
American Rescue Workers Inc | PA | $116,793
Drueding Center | PA | $1,081,414
Opportunity House | PA | $42,827
Housing Authority of Monroe County | PA | $163,200
Family Services of Montgomery County | PA | $188,614
The Lighthouse Foundation | PA | $39,274
1260 Housing Development Corporation | PA | $260,604
1260 Housing Development Corporation | PA | $144,900
Catholic Social Services of the Diocese of Scranton, Inc | PA | $208,999
Armstrong County Community Action Agency | PA | $112,874
1260 Housing Development Corporation | PA | $528,524
Community Action Southwest | PA | $36,228
Wesley House Community Corporation, Inc | PA | $26,199
County of Butler | PA | $165,376
Victim Outreach Intervention Center | PA | $87,178
Crawford County Commissioners | PA | $154,440
Council on Chemical Abuse | PA | $107,425
Fitzmaurice Community Services, Inc | PA | $130,807
Housing Authority of the County of Beaver | PA | $37,880
Indiana County Community Action Program, Inc | PA | $82,842
County of Greene | PA | $134,315
Indiana County Community Action Program, Inc | PA | $13,393
Community Action Agency of Delaware County, Inc | PA | $341,692
Community Action Agency of Delaware County, Inc | PA | $449,583
Prince of Peace Center | PA | $103,612
Lehigh County Housing Authority | PA | $186,552
American Red Cross, The | PA | $80,905
Futures Community Support Services | PA | $35,882
Community Alliance and Reinvestment Endeavor, Inc | PA | $37,262
Blair County Community Action Program | PA | $104,630
Turning Point Interfaith Mission | PA | $408,311
Indian Valley Housing Corporation | PA | $44,989
Opportunity House | PA | $30,655
Family and Community Service of Delaware County | PA | $108,069
Opportunity House | PA | $58,997
Tabor Community Services Inc | PA | $528,341
Tabor Community Services Inc | PA | $43,158
Victim Outreach Intervention Center | PA | $300,835
Dedicated HMIS Project | PA | $136,639
County of Butler | PA | $83,975
Action AIDS, Inc | PA | $255,018
Holcomb Associates, Inc | PA | $116,999
Northampton County Housing Authority | PA | $90,216
Indiana County Community Action Program, Inc | PA | $31,896
Action AIDS, Inc | PA | $178,750
Indian Valley Housing Corporation | PA | $29,410
YWCA OF Greater Harrisburg | PA | $192,398
Tabor Community Services Inc | PA | $115,973
Delaware County Housing Authority | PA | $148,260
Catholic Youth Center | PA | $318,101
Allegheny County Department of Human Services | PA | $437,620
Allegheny County Department of Human Services | PA | $242,605
Allegheny County Department of Human Services | PA | $935,847
Calcutta House | PA | $115,943
Calcutta House | PA | $75,455
Volunteers of America | PA | $291,572
Allegheny County Department of Human Services | PA | $70,461
Allegheny County Department of Human Services | PA | $725,640
Delaware County Housing Authority | PA | $122,124
Allegheny County Department of Human Services | PA | $498,840
Delaware County Housing Authority | PA | $137,485
Delaware County Housing Authority | PA | $453,968
Berks Counseling Center, Inc | PA | $79,135
Berks Counseling Center, Inc | PA | $170,019
Berks Counseling Center, Inc | PA | $99,960
Berks Counseling Center, Inc | PA | $70,571
Berks Counseling Center, Inc | PA | $133,745
Allegheny County Department of Human Services | PA | $111,096
Delaware County Housing Authority | PA | $139,515
Cameron and Elk Counties MH/MR Program | PA | $67,732
Luzerne County/Office of Human Services | PA | $370,140
Housing Authority of the City of York | PA | $493,980
COMHAR | PA | $291,823
COMHAR | PA | $521,683
Huntingdon House; A Program for Victims of Domestic Violence | PA | $80,214
W.C. Atkinson Memorial Community Service Center, Inc | PA | $15,925
Allegheny County Department of Human Services | PA | $2,812,560
Allegheny County Department of Human Services | PA | $1,817,640
Allegheny County Department of Human Services | PA | $114,455
Allegheny County Department of Human Services | PA | $350,910
Allegheny County Department of Human Services | PA | $195,223
County of Washington | PA | $145,812
Allegheny County Department of Human Services | PA | $839,501
Allegheny County Department of Human Services | PA | $359,100
Allegheny County Department of Human Services | PA | $173,158
County of Washington | PA | $93,816
County of Washington | PA | $102,192
Allegheny County Department of Human Services | PA | $64,890
Allegheny County Department of Human Services | PA | $241,500
Allegheny County Department of Human Services | PA | $146,286
Allegheny County Department of Human Services | PA | $33,444
County of Washington | PA | $165,950
Allegheny County Department of Human Services | PA | $230,199
Allegheny County Department of Human Services | PA | $624,875
Allegheny County Department of Human Services | PA | $626,481
Luzerne Intermediate Unit #18 | PA | $63,210
Allegheny County Department of Human Services | PA | $94,776
Allegheny County Department of Human Services | PA | $350,870
Allegheny County Department of Human Services | PA | $428,147
YMCA of Reading & Berks County | PA | $98,569
Allegheny County Department of Human Services | PA | $341,444
DuBois Housing Authority | PA | $244,296
Hedwig House, Inc | PA | $186,490
Philadelphia Housing Authority | PA | $238,464
Philadelphia Housing Authority | PA | $66,240
Philadelphia Housing Authority | PA | $39,744
Community Action, Inc | PA | $67,165
Community Action, Inc | PA | $86,567
Armstrong County Community Action Agency | PA | $121,083
Armstrong County Community Action Agency | PA | $127,005
Allegheny County Department of Human Services | PA | $639,927
County of Washington | PA | $65,415
Young Women's Christian Association of York | PA | $296,100
Resources for Human Development, Inc | PA | $225,435
Resources for Human Development, Inc | PA | $486,335
Resources for Human Development, Inc | PA | $257,887
Resources for Human Development, Inc | PA | $326,308
Resources for Human Development, Inc | PA | $166,378
Housing Development Corporation of NEPA | PA | $201,034
Housing Development Corporation of NEPA | PA | $169,223
County of Washington | PA | $225,654
Housing Authority of the County of Dauphin | PA | $141,120
Allegheny County Department of Human Services | PA | $67,476
County of Washington | PA | $141,147
Community Action Partnership of mercer County | PA | $51,498
County of Washington | PA | $202,210
Allegheny County Department of Human Services | PA | $27,384
Community Action Partnership of mercer County | PA | $60,257
Allegheny County Department of Human Services | PA | $221,940
Allegheny County Department of Human Services | PA | $699,087
DuBois Housing Authority | PA | $84,960
Allegheny County Department of Human Services | PA | $68,355
Housing Authority of the County of Dauphin | PA | $234,372
The Salvation Army | PA | $186,156
Supportive Services, Inc | PA | $391,422
Mental Health Association of Southeastern Pennsylvania | PA | $174,351
Valley Youth House Committee, Inc | PA | $232,549
Valley Youth House Committee, Inc | PA | $246,205
Valley Youth House Committee, Inc | PA | $241,837
Valley Youth House Committee, Inc | PA | $516,268
HELP Development Corporation | PA | $487,622
Women's Community Revitalization Project | PA | $288,230
The Salvation Army | PA | $184,212
The Salvation Army | PA | $159,570
The Salvation Army | PA | $60,375
Mental Health Association of Southeastern Pennsylvania | PA | $186,634
The Salvation Army | PA | $71,248
Mental Health Association of Southeastern Pennsylvania | PA | $200,944
The Salvation Army | PA | $97,230
The Salvation Army | PA | $210,883
The Salvation Army | PA | $99,806
The Salvation Army | PA | $278,869
United Neighborhood Centers of Northeastern Pennsylvania | PA | $339,826
Carson Valley Children's Aid | PA | $353,396
United Neighborhood Centers of Northeastern Pennsylvania | PA | $59,556
United Neighborhood Centers of Northeastern Pennsylvania | PA | $213,919
Project HOME | PA | $773,964
Project HOME | PA | $124,922
Harbor Point Housing, Inc | PA | $82,564
City of Philadelphia | PA | $59,616
The Salvation Army | PA | $203,440
City Mission-Living Stones, Inc | PA | $133,417
Horizon House | PA | $228,199
Horizon House | PA | $351,217
Horizon House | PA | $96,201
Horizon House | PA | $226,224
Impact Services Corporation | PA | $624,728
Impact Services Corporation | PA | $268,304
Community Action Committee of the Lehigh Valley | PA | $69,999
Shalom House | PA | $236,815
Bethesda Project | PA | $223,761
Bethesda Project | PA | $160,901
Penndel Mental Health Center, Inc | PA | $83,239
Mental Health Association of Southeastern Pennsylvania | PA | $140,034
City Mission-Living Stones, Inc | PA | $108,582
Supportive Services, Inc | PA | $175,561
Lancaster County Housing Authority | PA | $335,280
United Christian Ministries, Inc | PA | $87,960
United Christian Ministries, Inc | PA | $90,403
County of Erie | PA | $210,840
County of Erie | PA | $593,173
County of Erie | PA | $341,712
County of Erie | PA | $493,304
County of Erie | PA | $318,060
County of Erie | PA | $126,720
Community Basics, Inc | PA | $175,879
Bucks County Housing Group, Inc | PA | $160,407
Community Basics, Inc | PA | $116,444
Penndel Mental Health Center, Inc | PA | $72,904
Housing Transitions, Inc | PA | $338,100
Supportive Services, Inc | PA | $164,430
Women Against Abuse, Inc | PA | $181,225
People's Emergency Center | PA | $241,083
People's Emergency Center | PA | $34,815
People's Emergency Center | PA | $53,384
People's Emergency Center | PA | $78,996
People's Emergency Center | PA | $14,584
Domestic Abuse Project of Delaware County, Inc | PA | $150,903
People's Emergency Center | PA | $369,810
People's Emergency Center | PA | $496,362
Overington House, Inc | PA | $225,959
Valley Housing Development Corporation | PA | $136,791
Women's Resource Center, Inc | PA | $133,423
Mechling-Shakley Veterans Center | PA | $28,551
Catholic Social Services | PA | $87,780
Catholic Social Services | PA | $102,229
Catholic Social Services | PA | $202,085
Volunteers Of America Delaware Valley Inc | PA | $114,744
Housing Authority of the County of Cumberland | PA | $849,180
Housing Authority of the County of Cumberland | PA | $325,424
Housing Authority of the County of Cumberland | PA | $213,453
County of Bucks | PA | $108,797
The Community Intervention Center of Lackawanna County | PA | $518,333
Crawford County Mental Health Awareness Program, Inc | PA | $91,784
Family Planning Council, Inc | PA | $127,661
Methodist Family Services of Philadelphia | PA | $250,354
Berks County Women in Crisis | PA | $28,000
MidPenn Legal Services | PA | $39,999
THE PROGRAM for Women and Families, Inc | PA | $105,151
The Philadelphia Veterans Multi-Service & Education Center | PA | $305,222
Easy Does It, Inc | PA | $338,270
Easy Does It, Inc | PA | $65,333
EMDB d/b/a New Bethany Ministries | PA | $121,185
Asociacion Puertoriquenos en Marcha, Inc | PA | $129,778
Penn Foundation, Inc | PA | $66,272
YMCA of York and York County | PA | $88,988
Warren-Forest Counties Economic Opportunity Council | PA | $374,103
Committee For Dignity and Fairness For the Homeless Housing | PA | $122,253
Committee For Dignity and Fairness For the Homeless Housing | PA | $30,570
Valley Housing Development Corporation | PA | $224,191
The Lodge, Inc. of Pennsylvania | PA | $162,076
Easy Does It, Inc | PA | $31,040
The Delta Community, Inc | PA | $258,209
Housing Authority of Centre County | PA | $65,952
Franklin County | PA | $286,036
Centre County Youth Service Bureau | PA | $105,740
Dauphin County | PA | $143,250
County of Delaware | PA | $205,800
Catherine McAuley Center | PA | $138,399
Bell Socialization Services | PA | $104,473
Young Women's Christian Association of Lancaster | PA | $568,800
CAPSEA, Inc | PA | $93,581
Crisis Shelter of Lawrence County | PA | $83,121
Housing Authority of the City of Lancaster | PA | $132,120
Committee For Dignity and Fairness For the Homeless Housing | PA | $212,306
City of Philadelphia | PA | $202,080
Travelers Aid Society of Philadelphia | PA | $359,951
Adams Co. Housing Authority | PA | $79,491
Community, Youth and Women's Alliance, Inc | PA | $44,593
Chester County | PA | $52,992
Catholic Social Services | PA | $321,347
Catholic Social Services | PA | $88,200
Catholic Social Services | PA | $120,750
Catholic Social Services | PA | $60,245
Chester County | PA | $105,000
City of Philadelphia | PA | $33,120
City of Philadelphia | PA | $12,947
Montgomery County, PA, MH/MR/D&A/BH | PA | $271,341
City of Philadelphia | PA | $584,199
Chester County | PA | $99,360
Chester County | PA | $86,530
AchieveAbility | PA | $161,700
Connect, Inc | PA | $121,579
Lawrence County Social Services, Inc | PA | $197,665
City of Philadelphia | PA | $441,600
Chester County | PA | $17,304
City of Philadelphia | PA | $169,680
Travelers Aid Society of Philadelphia | PA | $131,428
Lawrence County Social Services, Inc | PA | $42,593
Lehigh County Conference of Churches | PA | $168,716
AchieveAbility | PA | $210,000
County of York | PA | $122,063
Commission on Economic Opportunity | PA | $203,236
Commission on Economic Opportunity | PA | $260,819
Commission on Economic Opportunity | PA | $179,869
Commission on Economic Opportunity | PA | $164,486
Asociacion Puertoriquenos en Marcha, Inc | PA | $149,711
Lehigh County Conference of Churches | PA | $210,258
Travelers Aid Society of Philadelphia | PA | $259,729
Chester County | PA | $112,907
Travelers Aid Society of Philadelphia | PA | $700,324
Chester County | PA | $120,600
City of Philadelphia | PA | $122,712
Domestic Violence Center of Chester County | PA | $89,302
County of Mifflin | PA | $451,997
Borough of State College | PA | $10,920
Fayette County Community Action Agency, Inc | PA | $62,982
Fayette County Community Action Agency, Inc | PA | $65,695
Horizon House | PA | $644,582
Horizon House | PA | $347,215
City of Philadelphia | PA | $2,879,640
Chester County | PA | $151,560
City of Philadelphia | PA | $103,671
City of Philadelphia | PA | $99,272
City of Philadelphia | PA | $66,240
Gaudenzia, Inc | PA | $67,998
Opportunity House | PA | $102,504
City of Philadelphia | PA | $654,504
City of Philadelphia | PA | $202,080
Montgomery County Community Action Development Commission | PA | $59,216
Community Housing Services | PA | $44,982
Potter County Human Services | PA | $129,455
Community Housing Services | PA | $92,209
City of Philadelphia | PA | $812,412
City of Philadelphia | PA | $355,488
Community Housing Services | PA | $116,539
City of Philadelphia | PA | $26,496
City of Philadelphia | PA | $13,248
Human Services Center | PA | $60,195
City of Philadelphia | PA | $757,440
Domestic Violence Service Center, Inc | PA | $57,015
City of Philadelphia | PA | $121,248
City of Philadelphia | PA | $873,468
Community Housing Services | PA | $117,655
City of Philadelphia | PA | $274,452
City of Philadelphia | PA | $171,216
Housing Authority of the County of Butler Inc | PA | $141,750
City of Philadelphia | PA | $181,228
City of Philadelphia | PA | $147,924
City of Philadelphia | PA | $233,176
City of Philadelphia | PA | $670,784
City of Philadelphia | PA | $296,760
Commonwealth of Pennsylvania | PA | $234,949
Chester County | PA | $100,000
Home Nursing Agency Community Services | PA | $51,270
City of Philadelphia | PA | $79,488
Home Nursing Agency Community Services | PA | $420,432
City of Philadelphia | PA | $98,189
Estancia Corazon, Inc | PR | $197,803
Corporacion Milagros del Amor | PR | $201,122
Estancia Corazon, Inc | PR | $232,746
Municipality of Barceloneta on behalf of Intenor | PR | $847,854
La Tierra Prometida, Inc | PR | $268,298
Estancia Corazon, Inc | PR | $288,179
La Perla de Gran Precio | PR | $991,893
Estancia Corazon, Inc | PR | $99,855
Fundacion Chana y Samuel Levis, Inc | PR | $211,470
Corp. La Fondita de Jesus | PR | $463,000
Corp. La Fondita de Jesus | PR | $581,400
Corp. La Fondita de Jesus | PR | $657,040
Municipality Of San Juan-Family & Community Department | PR | $443,964
Hogar del Buen Pastor, Inc | PR | $237,609
Fundacion de Desarrollo Comunal de P.R., Inc “FUNDESCO” | PR | $135,488
Municipality Of San Juan-Family & Community Department | PR | $330,939
La Perla de Gran Precio | PR | $145,637
Municipality Of San Juan-Family & Community Department | PR | $300,354
Municipality Of San Juan-Family & Community Department | PR | $314,286
Municipality Of San Juan-Family & Community Department | PR | $1,014,720
Coalicion de Coaliciones Pro Personas Sin Hogar de PR, Inc | PR | $569,525
Fundacion Chana y Samuel Levis, Inc | PR | $305,235
La Perla de Gran Precio | PR | $118,738
Municipality Of San Juan-Family & Community Department | PR | $298,510
Lucha Contra el SIDA, Inc | PR | $1,334,255
Coalition Of Guaynabo | PR | $202,491
Lucha Contra el SIDA, Inc | PR | $1,595,595
Casa Protegida Julia de Burgos, Inc | PR | $408,220
Lucha Contra el SIDA, Inc | PR | $77,086
Lucha Contra el SIDA, Inc | PR | $180,963
Hogar Ruth Albergue Para Mujeres Maltratadas, Inc | PR | $950,242
Municipality of Naranjito | PR | $261,608
Fundacion de Desarrollo Comunal de P.R., Inc “FUNDESCO” | PR | $154,795
Rhode Island Housing and Mortgage Finance Corporation | RI | $26,705
Rhode Island Housing and Mortgage Finance Corporation | RI | $32,456
Rhode Island Housing and Mortgage Finance Corporation | RI | $32,800
Rhode Island Housing and Mortgage Finance Corporation | RI | $71,332
Rhode Island Housing and Mortgage Finance Corporation | RI | $17,864
Rhode Island Housing and Mortgage Finance Corporation | RI | $22,881
Rhode Island Housing and Mortgage Finance Corporation | RI | $55,000
Rhode Island Housing and Mortgage Finance Corporation | RI | $93,779
Rhode Island Housing and Mortgage Finance Corporation | RI | $90,029
Rhode Island Housing and Mortgage Finance Corporation | RI | $129,639
Rhode Island Housing and Mortgage Finance Corporation | RI | $167,294
Rhode Island Housing and Mortgage Finance Corporation | RI | $63,813
Rhode Island Housing and Mortgage Finance Corporation | RI | $161,879
Rhode Island Housing and Mortgage Finance Corporation | RI | $120,220
Rhode Island Housing and Mortgage Finance Corporation | RI | $23,605
Rhode Island Housing and Mortgage Finance Corporation | RI | $95,250
Rhode Island Housing and Mortgage Finance Corporation | RI | $61,402
Washington Square Services Corporation | RI | $103,217
Newport Country Community Mental Health Center | RI | $ 8,204
Rhode Island Housing and Mortgage Finance Corporation | RI | $67,895
Rhode Island Housing and Mortgage Finance Corporation | RI | $78,000
Rhode Island Housing and Mortgage Finance Corporation | RI | $26,517
Rhode Island Housing and Mortgage Finance Corporation | RI | $191,194
Rhode Island Housing and Mortgage Finance Corporation | RI | $1,146,384
Rhode Island Housing and Mortgage Finance Corporation | RI | $126,393
Rhode Island Housing and Mortgage Finance Corporation | RI | $107,716
Rhode Island Housing and Mortgage Finance Corporation | RI | $149,797
Rhode Island Housing and Mortgage Finance Corporation | RI | $117,959
Rhode Island Housing and Mortgage Finance Corporation | RI | $60,897
Rhode Island Housing and Mortgage Finance Corporation | RI | $125,517
Rhode Island Housing and Mortgage Finance Corporation | RI | $57,424
Rhode Island Housing and Mortgage Finance Corporation | RI | $24,712
Rhode Island Housing and Mortgage Finance Corporation | RI | $88,334
Rhode Island Housing and Mortgage Finance Corporation | RI | $48,058
The Providence Center | RI | $41,133
Rhode Island Housing and Mortgage Finance Corporation | RI | $37,166
Rhode Island Housing and Mortgage Finance Corporation | RI | $64,692
Rhode Island Housing and Mortgage Finance Corporation | RI | $253,752
Rhode Island Housing and Mortgage Finance Corporation | RI | $178,087
Rhode Island Housing and Mortgage Finance Corporation | RI | $67,916
Family Resources Community Action | RI | $32,428
Rhode Island Housing and Mortgage Finance Corporation | RI | $65,668
Rhode Island Housing and Mortgage Finance Corporation | RI | $82,625
Rhode Island Housing and Mortgage Finance Corporation | RI | $32,340
Rhode Island Housing and Mortgage Finance Corporation | RI | $11,248
Rhode Island Housing and Mortgage Finance Corporation | RI | $45,299
Rhode Island Housing and Mortgage Finance Corporation | RI | $30,924
Upstate Homeless Coalition of South Carolina | SC | $160,164
South Carolina Department of Mental Health | SC | $128,232
Home Alliance, Inc | SC | $98,650
Upstate Homeless Coalition of South Carolina | SC | $187,318
Richland County | SC | $64,210
Upstate Homeless Coalition of South Carolina | SC | $163,056
Richland County | SC | $16,335
Homes of Hope, Inc | SC | $57,191
South Carolina Department of Mental Health | SC | $110,712
Upstate Homeless Coalition of South Carolina | SC | $653,287
Myrtle Beach Housing Authority | SC | $213,156
Pee Dee Community Action Agency | SC | $179,098
Crisis Ministries | SC | $71,598
Crisis Ministries | SC | $73,336
Crisis Ministries | SC | $45,765
MEG's House Shelter for Abused Women and Children | SC | $163,908
MEG's House Shelter for Abused Women and Children | SC | $223,358
Any Length Recovery, Inc | SC | $78,746
Project Care, Inc | SC | $169,943
South Carolina Department of Mental Health | SC | $266,412
Pee Dee Community Action Partnership | SC | $46,552
Williamsburg Enterprise Community Commission, Inc | SC | $128,041
Home Alliance, Inc | SC | $44,780
Florence Crittenton Programs of South Carolina | SC | $49,946
Home Alliance, Inc | SC | $68,606
South Carolina Department of Mental Health | SC | $217,644
MEG's House Shelter for Abused Women and Children | SC | $319,128
Sunbelt Human Advancement Resources, Inc. (SHARE) | SC | $77,312
Upstate Homeless Coalition of South Carolina | SC | $133,875
Healing Properties, Inc | SC | $36,750
Sunbelt Human Advancement Resources, Inc. (SHARE) | SC | $101,061
Trinity Housing Corporation | SC | $80,317
Greenville Area Interfaith Hospitality Network | SC | $22,015
The Samaritan House of Orangeburg, Inc | SC | $101,812
Wateree Community Actions, Incorporated | SC | $122,550
The Housing Authority of the City of Charleston | SC | $29,754
Sunbelt Human Advancement Resources, Inc. (SHARE) | SC | $556,555
The Housing Authority of the City of Charleston | SC | $66,596
Southeastern Behavioral HealthCare | SD | $95,336
Sioux Falls Housing and Redevelopment Commission | SD | $161,604
Sioux Falls Housing and Redevelopment Commission | SD | $121,908
Urban Housing Solutions | TN | $168,705
Urban Housing Solutions | TN | $238,000
Knoxville-Knox County Community Action Committee | TN | $139,050
Knoxville-Knox County Community Action Committee | TN | $104,580
City of Memphis, Tennessee | TN | $129,732
Catholic Charities of East Tennessee | TN | $65,440
Chattanooga Church Ministries Inc | TN | $94,828
Housing Opportunities and People Enterprises, Inc | TN | $19,202
Catholic Charities of East Tennessee | TN | $70,459
The University of Tennessee | TN | $132,282
Urban Housing Solutions | TN | $122,250
City of Memphis, Tennessee | TN | $311,100
Renewal House, Inc | TN | $60,443
Damascus Road, Inc | TN | $36,426
Murfreesboro Housing Authority | TN | $271,272
Chattanooga Church Ministries Inc | TN | $105,875
Jackson Housing Authority | TN | $55,956
Damascus Road, Inc | TN | $65,352
Matthew 25, Inc | TN | $37,241
Legal Aid of East Tennessee, Inc | TN | $16,870
Child & Family Tennessee | TN | $268,697
The Salvation Army, a Georgia Corporation | TN | $207,648
Fortwood Center, Inc | TN | $138,649
The Next Door Inc | TN | $195,776
Behavioral Health Initiatives, Inc | TN | $78,750
Welcome Home Ministries, Inc | TN | $47,982
Chattanooga Church Ministries Inc | TN | $90,873
Friends For Life Corporation | TN | $433,654
Chattanooga Homeless Coalition | TN | $34,240
Domestic Violence Intervention Center | TN | $35,002
Chattanooga Homeless Coalition | TN | $100,558
Operation Stand Down Nashville, Inc | TN | $50,000
The Next Door Inc | TN | $117,401
Urban Housing Solutions | TN | $120,000
The Next Door Inc | TN | $128,555
Appalachian Regional Coalition on Homelessness | TN | $102,952
Fayette Cares, Inc | TN | $38,369
Catholic Charities, Inc | TN | $296,565
Kingsport Housing & Redevelopment Authority | TN | $189,180
Carey Counseling Center, Inc | TN | $25,107
Carey Counseling Center, Inc | TN | $61,595
Carey Counseling Center, Inc | TN | $17,150
Whitehaven Southwest Mental Health Center | TN | $107,173
Shelby County Government | TN | $35,516
Catholic Charities, Inc | TN | $455,355
Partners for the Homeless | TN | $37,572
Catholic Charities, Inc | TN | $495,350
The Salvation Army, a Georgia Corporation | TN | $385,192
Park Center | TN | $124,080
Stewart County Government | TN | $113,880
Cocaine & Alcohol Awareness Program, Inc | TN | $168,748
AGAPE Child & Family Services, Inc | TN | $193,040
Alpha Omega Veterans Services, Inc | TN | $165,900
Jackson Area Council on Alcoholism and Drug Dependency | TN | $63,408
Metropolitan Inter-Faith Association | TN | $157,287
Family Tree Destiny Center | TN | $245,477
The Journey Home | TN | $23,394
Metropolitan Inter-Faith Association | TN | $497,674
Damascus Road, Inc | TN | $109,226
The Salvation Army Crossover Annex Transitional Housing Program | TN | $70,099
Buffalo Valley, Inc | TN | $444,151
Buffalo Valley, Inc | TN | $228,444
Whitehaven Southwest Mental Health Center | TN | $13,537
The Journey Home | TN | $96,603
Hope Ministries, Inc | TN | $62,183
Memphis Family Shelter | TN | $197,886
Buffalo Valley, Inc | TN | $131,539
Buffalo Valley, Inc | TN | $24,850
Buffalo Valley, Inc | TN | $73,047
Partners for the Homeless | TN | $100,170
Southeast Tennessee Human Resource Agency | TN | $224,616
Town of Crossville Housing Authority | TN | $66,792
Buffalo Valley, Inc | TN | $445,652
City of Chattanooga | TN | $187,164
T.A.M.B. of Jackson, Inc | TN | $58,345
Alpha Omega Veterans Services, Inc | TN | $93,424
Campus for Human Development | TN | $132,668
Positively Living | TN | $70,204
Metropolitan Development & Housing Agency | TN | $42,048
Fairview Housing Management Corporation | TN | $117,759
Southeast Tennessee Human Resource Agency | TN | $549,436
Henry County, Tennessee | TN | $181,548
The Salvation Army, a Georgia Corporation | TN | $229,565
Metropolitan Development & Housing Agency | TN | $177,000
Cumberland Regional Development Corporation | TN | $18,340
Genesis House, Inc | TN | $64,161
The Council for Alcohol and Drug Abuse Services, Inc | TN | $211,255
Kingsport Housing & Redevelopment Authority | TN | $42,733
Cumberland Regional Development Corporation | TN | $70,000
Catholic Charities of East Tennessee, Inc | TN | $116,698
Kingsport Housing & Redevelopment Authority | TN | $65,762
Kingsport Housing & Redevelopment Authority | TN | $83,227
Partnership for Families, Children and Adults | TN | $27,978
Wo/Men's Resource and Rape Assistance Program | TN | $72,976
Buffalo Valley, Inc | TN | $71,375
Buffalo Valley, Inc | TN | $49,575
Buffalo Valley, Inc | TN | $72,836
Buffalo Valley, Inc | TN | $74,212
Catholic Charities of East Tennessee, Inc | TN | $84,180
Knoxville-Knox County Community Action Committee | TN | $90,096
Helen Ross McNabb Center | TN | $64,151
Professional Care Services Of West TN., Inc | TN | $ 9,000
Safe Haven Family Shelter | TN | $56,910
Quinco Community Mental Health Center, Inc | TN | $68,595
Metropolitan Development & Housing Agency | TN | $58,161
The Charter Group, Inc | TN | $58,806
Chattanooga Housing Authority | TN | $298,320
Metropolitan Development & Housing Agency | TN | $1,414,608
Montgomery County Emergency Assistance, Inc | TX | $27,331
Montgomery County Emergency Assistance, Inc | TX | $101,753
Hope's Door Inc | TX | $70,137
Hope's Door Inc | TX | $177,069
MHMR of Tarrant County—Addiction Services | TX | $67,435
Harvest Life Foundation | TX | $392,814
Buckner Children and Family Services, Inc | TX | $35,801
Coalition for the Homeless of Houston/Harris County, Inc | TX | $185,480
Central Dallas Food Pantry d/b/a Central Dallas Ministries | TX | $668,642
Housing Authority of the City of Fort Worth | TX | $273,048
Mental Health and Mental Retardation of Tarrant County | TX | $295,780
The Housing Authority of the City of Dallas | TX | $71,616
Longview Wellness Center | TX | $126,094
Dallas Jewish Coalition | TX | $166,441
Cross Culture Experiences | TX | $210,303
City of Longview | TX | $276,672
Homeless Network of Texas (dba Texas Homeless Network) | TX | $348,716
Sabine Valley Center | TX | $123,480
Family Abuse Center, Inc | TX | $81,656
Abilene Hope Haven, Inc | TX | $185,577
Day Resource Center for the Homeless | TX | $508,214
Perpetual Help Home | TX | $33,111
Dental Health Programs, Inc. dba Community Dental Care | TX | $146,632
International AIDS Empowerment, Inc | TX | $87,797
Housing Authority of the City of Fort Worth | TX | $1,890,984
HOPE, Inc | TX | $67,333
Perpetual Help Home | TX | $93,877
Housing Authority of the City of Fort Worth | TX | $1,561,944
Bay Area Turning Point, Inc | TX | $107,210
Family Services of Southeast Texas, Inc | TX | $151,587
Coalition for the Homeless of Houston/Harris County, Inc | TX | $335,417
Women Opting for More Affordable Housing Now, Inc. (WOMAN, Inc) | TX | $104,168
Houston Area Community Services, Inc | TX | $1,331,295
Compassion Ministries of Waco, Inc | TX | $161,276
HOPE, Inc | TX | $33,875
Central Dallas Food Pantry d/b/a Central Dallas Ministries | TX | $504,983
PWA Coalition of Dallas, Inc. d/b/a AIDS Services of Dallas | TX | $574,389
Community Enrichment Center, Inc | TX | $222,846
Central Dallas Food Pantry d/b/a Central Dallas Ministries | TX | $185,117
R House, Inc | TX | $170,144
Houston Area Community Services, Inc | TX | $1,293,495
Metrocare Services | TX | $792,229
City of Corpus Christi | TX | $128,394
City of Corpus Christi | TX | $181,143
City of Corpus Christi | TX | $122,673
City of Corpus Christi | TX | $142,720
City of Corpus Christi | TX | $160,255
City of Corpus Christi | TX | $142,569
Covenant House Texas | TX | $195,604
YWCA El Paso del Norte Region | TX | $177,833
The Women's Home | TX | $126,717
El Paso MHMR | TX | $203,982
Metrocare Services | TX | $280,240
Metrocare Services | TX | $413,004
AIDS Foundation Houston, Inc | TX | $1,038,144
AIDS Foundation Houston, Inc | TX | $396,314
AIDS Foundation Houston, Inc | TX | $613,230
AIDS Foundation Houston, Inc | TX | $963,357
AIDS Foundation Houston, Inc | TX | $409,192
Harmony House, Inc | TX | $133,572
Covenant House Texas | TX | $199,328
Harris County | TX | $148,560
City of El Paso, Texas | TX | $53,544
Families Under Urban and Social Attack, Inc | TX | $88,294
El Paso Center for Children, Inc | TX | $145,578
Harris County | TX | $173,160
Harris County | TX | $34,272
Harris County | TX | $77,112
Harris County | TX | $261,360
Harris County | TX | $176,184
City of Corpus Christi | TX | $134,971
Harris County | TX | $115,680
City of Amarillo | TX | $178,332
Harris County | TX | $306,240
Harris County | TX | $93,744
Harris County | TX | $124,488
Harris County | TX | $146,760
Harris County | TX | $160,656
San Antonio Metropolitan Ministry Inc | TX | $104,597
City of Amarillo | TX | $206,564
YWCA El Paso del Norte Region | TX | $92,783
Harris County | TX | $2,216,484
The Bridge Over Troubled Waters, Inc | TX | $932,248
City of San Antonio | TX | $210,000
City of San Antonio | TX | $387,273
City of San Antonio | TX | $733,699
Mid-Coast Family Services, Inc | TX | $164,345
Rainbow Days, Inc | TX | $257,237
Housing Authority of the City of Austin | TX | $508,080
Housing Authority of the City of Austin | TX | $341,964
YWCA El Paso del Norte Region | TX | $229,728
Center Against Family Violence | TX | $60,144
City of San Antonio | TX | $364,296
Front Steps, Inc | TX | $97,553
Brighter Tomorrows, Inc | TX | $180,531
Tarrant County ACCESS for the Homeless | TX | $149,805
Career and Recovery Resources, Inc | TX | $117,112
ABC Behavioral Health, LLC | TX | $384,720
ABC Behavioral Health, LLC | TX | $56,883
Mental Health and Mental Retardation Authority of Harris County | TX | $350,466
Collin County Mental Health Mental Retardation Center | TX | $169,490
Housing Authority of the City of Austin | TX | $169,608
City of San Antonio | TX | $91,975
Shared Housing Center, Inc | TX | $93,390
AIDS Services of North Texas, Inc | TX | $243,812
Southern Territorial Headquarters of The Salvation Army, The | TX | $349,188
Northwest Assistance Ministries | TX | $501,892
City of San Antonio | TX | $392,021
City of San Antonio | TX | $614,811
City of San Antonio | TX | $137,777
City of San Antonio | TX | $136,335
City of San Antonio | TX | $352,562
City of San Antonio | TX | $220,145
City of San Antonio | TX | $385,718
City of San Antonio | TX | $120,060
City of San Antonio | TX | $358,268
City of San Antonio | TX | $100,511
City of San Antonio | TX | $131,250
City of San Antonio | TX | $194,864
City of San Antonio | TX | $138,909
City of San Antonio | TX | $268,738
Harmony House, Inc | TX | $358,470
City of San Antonio | TX | $175,613
Tarrant County | TX | $86,602
Tarrant County | TX | $21,815
Tarrant County | TX | $50,680
The Family Place | TX | $981,236
Tarrant County | TX | $108,491
Tarrant County | TX | $322,293
Tarrant County | TX | $212,663
Tarrant County | TX | $106,864
City of Dallas | TX | $914,280
Tarrant County | TX | $124,665
Houston Area Women's Center | TX | $79,194
Tarrant County | TX | $145,435
Tarrant County | TX | $97,293
New Beginning Center, Inc | TX | $192,928
Family Gateway, Inc | TX | $198,018
Family Gateway, Inc | TX | $42,438
Family Gateway, Inc | TX | $150,701
City of Dallas | TX | $89,520
Families Under Urban and Social Attack, Inc | TX | $120,750
Tarrant County | TX | $1,103,295
Travis County DV & SA Survival Center, dba SafePlace | TX | $613,003
Some Other Place, Inc | TX | $111,888
Denton County Mental Health Mental Retardation Center | TX | $270,670
El Paso Coalition for the Homeless | TX | $107,902
Housing Crisis Center | TX | $194,271
Housing Crisis Center | TX | $188,196
Housing Crisis Center | TX | $106,200
Housing Crisis Center | TX | $532,944
Housing Crisis Center | TX | $668,643
Tarrant County | TX | $87,176
Promise House, Inc | TX | $220,986
Houston Area Women's Center | TX | $291,402
Tarrant County | TX | $166,404
Star of Hope Mission | TX | $734,400
Star of Hope Mission | TX | $207,406
Star of Hope Mission | TX | $307,406
Tarrant County | TX | $103,445
Tarrant County | TX | $24,237
Houston Area Women's Center | TX | $610,858
City of Dallas | TX | $476,640
Promise House, Inc | TX | $269,737
The Gulf Coast Center | TX | $216,500
Opportunity Center for the Homeless | TX | $115,136
Opportunity Center for the Homeless | TX | $132,870
Interfaith Housing Coalition | TX | $348,886
Port Cities Rescue Mission Ministries | TX | $175,037
The Gulf Coast Center | TX | $60,943
The Gulf Coast Center | TX | $120,270
The Gulf Coast Center | TX | $151,490
City of Dallas | TX | $386,304
The Gulf Coast Center | TX | $203,719
Opportunity Center for the Homeless | TX | $108,551
All Church Home for Children, Inc | TX | $113,922
Centro San Vicente | TX | $139,999
The Arlington Life Shelter | TX | $83,686
The Arlington Life Shelter | TX | $63,471
Twin City Mission, Inc | TX | $165,991
Twin City Mission, Inc | TX | $61,363
Twin City Mission, Inc | TX | $32,332
Harmony House, Inc | TX | $630,886
The Gulf Coast Center | TX | $177,259
Recue Mission of El Paso, Inc | TX | $428,760
City of Dallas | TX | $257,606
City of Dallas | TX | $154,027
Housing Authority of the City of Arlington | TX | $262,378
Housing Authority of the City of Arlington | TX | $150,264
Housing Authority of the City of Arlington | TX | $165,360
Caritas of Austin | TX | $303,712
Caritas of Austin | TX | $397,770
Caritas of Austin | TX | $202,406
Opportunity Center for the Homeless | TX | $161,091
Recue Mission of El Paso, Inc | TX | $476,400
Opportunity Center for the Homeless | TX | $250,734
Recue Mission of El Paso, Inc | TX | $46,796
Community Council of Greater Dallas | TX | $183,648
Youth and Family Alliance dba LifeWorks | TX | $216,236
Austin Travis County Mental Health Mental Retardation Center | TX | $78,533
Austin Travis County Mental Health Mental Retardation Center | TX | $348,007
Opportunity Center for the Homeless | TX | $78,721
Opportunity Center for the Homeless | TX | $171,920
City of Amarillo | TX | $53,941
Legal Aid of NorthWest Texas | TX | $142,932
El Paso MHMR | TX | $180,979
The Housing Authority of Travis County | TX | $475,320
SEARCH | TX | $330,673
Montrose Counseling Center, Inc | TX | $105,259
Texas ReEntry Services, Inc | TX | $104,482
The Children's Center, Inc | TX | $160,000
Southeast Texas Regional Planning Commission | TX | $23,008
United States Veterans Initiative | TX | $110,441
City of Beaumont | TX | $101,424
SEARCH | TX | $96,520
Volunteers of America Texas, Inc | TX | $212,069
Catholic Charities of the Archdiocese Galveston-Houston | TX | $183,656
Texas Rio Grande Legal Aid, Inc | TX | $124,908
HELP Development Corporation | TX | $439,456
LifeNet Community Behavioral Healthcare | TX | $23,095
La Posada Home, Inc | TX | $89,026
LifeNet Community Behavioral Healthcare | TX | $1,295,286
The Salvation Army, a Georgia Corporation | TX | $795,540
Fort Bend County Women's Center, Inc | TX | $668,359
Presbyterian Night Shelter | TX | $181,077
The Salvation Army, a Georgia Corporation | TX | $538,081
Presbyterian Night Shelter | TX | $459,110
Presbyterian Night Shelter | TX | $252,898
Bonita House of Hope | TX | $487,281
Provo City Housing Authority | UT | $123,984
Mountainlands Community Housing Trust | UT | $74,094
Housing Authority of the County of Salt Lake | UT | $800,460
Utah Department of Community and Culture | UT | $29,975
Utah Department of Community and Culture | UT | $95,345
Davis Citizens' Coalition Against Violence | UT | $61,076
Provo City Housing Authority | UT | $123,984
Utah Nonprofit Housing Corporation | UT | $104,599
Utah Department of Community and Culture | UT | $8,242
Utah Department of Community and Culture | UT | $17,500
Cedar City Housing Authority | UT | $13,913
Family Connection Center | UT | $171,149
Housing Authority of Utah County | UT | $151,536
Center for Women and Children in Crisis, Inc | UT | $16,252
Provo City Housing Authority | UT | $21,379
Center for Women and Children in Crisis, Inc | UT | $103,385
Bear River Association of Governments | UT | $49,564
The Erin Kimball Memorial Foundation, Inc | UT | $75,091
Utah Department of Community and Culture | UT | $34,416
Volunteers of America, Utah | UT | $106,753
Four Corners Community Behavioral Health, Inc | UT | $134,191
Davis Behavioral Health, Inc | UT | $106,082
Community Action Services | UT | $228,653
Valley Mental Health, Inc | UT | $114,118
Golden Spike Treatment Ranch, Inc | UT | $70,114
Housing Authority of Salt Lake City | UT | $176,040
Housing Authority of Salt Lake City | UT | $354,876
Iron County Care and Share | UT | $35,074
Christian Relief Services Charities, Inc | VA | $24,885
City of Richmond | VA | $298,080
Christian Relief Services Charities, Inc | VA | $135,673
Christian Relief Services of Virginia, Inc | VA | $291,788
CANDII, Inc | VA | $272,097
CANDII, Inc | VA | $168,911
PRS, Inc | VA | $168,450
City of Richmond | VA | $745,200
Hilliard House | VA | $262,917
Christian Relief Services Charities, Inc | VA | $76,220
Residential Options, Inc | VA | $69,237
Arlington Street People's Assistance Network, Inc | VA | $211,446
Christian Relief Services of Virginia, Inc | VA | $216,780
Link of Hampton Roads, Inc | VA | $80,359
CANDII, Inc | VA | $179,212
Christian Relief Services Charities, Inc | VA | $120,676
Young Women's Christian Association of South Hampton Roads | VA | $193,765
Virginia Beach Community Development Corporation | VA | $75,084
Kurdish Human Rights Watch, Inc. (KHRW) | VA | $438,973
Norfolk Community Services Board | VA | $25,000
Norfolk Community Services Board | VA | $521,676
Fairfax County Department of Housing and Community Development | VA | $403,008
Norfolk Community Services Board | VA | $261,282
St. Joseph's Villa | VA | $272,000
AIDS/HIV Services Group | VA | $60,004
AIDS/HIV Services Group | VA | $27,984
Arlington-Alexandria Coalition for the Homeless | VA | $143,238
City of Richmond | VA | $1,015,656
Fairfax County Department of Housing and Community Development | VA | $449,376
Christian Relief Services Charities, Inc | VA | $30,943
Norfolk Community Services Board | VA | $134,015
Arlington County Government | VA | $122,148
The Daily Planet, Inc | VA | $90,300
Waynesboro Redevelopment and Housing Authority | VA | $38,154
South River Development Corporation | VA | $38,033
Link of Hampton Roads, Inc | VA | $323,934
Fairfax-Falls Church Community Services Board | VA | $254,652
Portsmouth Volunteers for the Homeless | VA | $55,650
Community Alternatives Management Group, Inc | VA | $67,336
Arlington County Government | VA | $102,963
Miriam's House, Inc | VA | $87,252
Urban League of Greater Richmond | VA | $70,350
Virginia Supportive Housing | VA | $39,861
New Hope Housing, Inc | VA | $245,541
Newport News Redevelopment and Housing Authority | VA | $86,784
New Hope Housing, Inc | VA | $90,602
City of Portsmouth Virginia | VA | $388,500
Arlington County Government | VA | $222,324
NOVACO Inc | VA | $111,492
Samaritan House, Inc | VA | $109,848
Virginia Beach Community Development Corporation | VA | $371,406
Fairfax County Department of Housing and Community Development | VA | $151,176
Homestretch Inc | VA | $150,727
St. Columba Ecumenical Ministries, Inc | VA | $130,179
Samaritan House, Inc | VA | $36,888
The Daily Planet, Inc | VA | $118,171
Fairfax County Department of Housing and Community Development | VA | $139,488
Link of Hampton Roads, Inc | VA | $256,582
Miriam's House, Inc | VA | $21,357
Northern Shenandoah Valley Regional Commission | VA | $22,570
Pathway Homes, Inc | VA | $157,788
The Planning Council | VA | $50,533
The Planning Council | VA | $54,090
George Washington Regional Commission | VA | $59,305
Community Alternatives Management Group, Inc | VA | $11,714
Arlington Street People's Assistance Network, Inc | VA | $166,058
City of Roanoke | VA | $264,317
Northwestern Community Services | VA | $218,592
Prince William Department of Social Services | VA | $126,463
Prince William Department of Social Services | VA | $141,156
Prince William Department of Social Services | VA | $36,230
Prince William Department of Social Services | VA | $7,095
City of Roanoke | VA | $80,232
Prince William Department of Social Services | VA | $143,585
City of Roanoke | VA | $166,008
Prince William Department of Social Services | VA | $134,033
City of Roanoke | VA | $56,552
Alexandria Community Services Board | VA | $29,813
Alexandria Community Services Board | VA | $131,643
Alexandria Community Services Board | VA | $98,150
Rappahannock Refuge, Inc | VA | $57,918
Transitions Family Violence Services | VA | $137,852
Virginia Beach Community Development Corporation | VA | $ 4,620
City of Roanoke | VA | $137,669
Fairfax Area Christian Emergency & Transitional Services | VA | $305,890
Homeward | VA | $15,050
Homeward | VA | $26,731
The Salvation Army, a Georgia Corporation | VA | $106,213
ForKids inc | VA | $125,038
ForKids inc | VA | $149,166
ForKids inc | VA | $242,043
Prince William Department of Social Services | VA | $91,900
Fairfax County Department of Family Services | VA | $431,580
Northwestern Community Services | VA | $61,523
United Community Ministries, Inc | VA | $138,216
Emergency Shelter, Inc | VA | $99,960
Emergency Shelter, Inc | VA | $39,606
Emergency Shelter, Inc | VA | $506,653
Fairfax County Department of Family Services | VA | $453,346
County of Loudoun | VA | $106,429
County of Loudoun | VA | $64,386
ForKids inc | VA | $103,804
Christian Relief Services Charities, Inc | VA | $24,885
Rush Lifetime Homes, Inc | VA | $51,100
Hampton-Newport News Community Services Board | VA | $114,892
Sheltered Homes of Alexandria | VA | $89,288
Portsmouth Area Resources Coalition, Inc | VA | $90,246
Barrett Haven Inc | VA | $144,913
Portsmouth Christian Outreach Ministries | VA | $79,309
Portsmouth Area Resources Coalition, Inc | VA | $53,550
Our House Families | VA | $57,763
Danville Redevelopment and Housing Authority | VA | $67,200
Region Ten Community Services Board | VA | $146,272
Young Women's Christian Association of South Hampton Roads | VA | $38,516
Region Ten Community Services Board | VA | $116,220
Avalon: A Center for Women and Children | VA | $64,454
Oasis Commission on Social Ministry of Portsmouth/Chesapeake | VA | $252,949
City of Richmond Department of Social Services | VA | $60,480
Our House Families | VA | $52,035
Community Alternatives Management Group, Inc | VA | $111,014
Portsmouth Area Resources Coalition, Inc | VA | $122,421
City of Portsmouth Virginia | VA | $69,013
New Hope Housing, Inc | VA | $221,122
Lynchburg Neighborhood Development Foundation | VA | $64,748
Harrisonburg Redevelopment and Housing Authority | VA | $42,000
Commonwealth of Virginia | VA | $60,855
Hampton-Newport News Community Services Board | VA | $230,265
Portsmouth Area Resources Coalition, Inc | VA | $104,712
Community Alternatives Management Group, Inc | VA | $346,666
Sheltered Homes of Alexandria | VA | $77,748
New Hope Housing, Inc | VA | $121,850
New Hope Housing, Inc | VA | $58,850
Community Alternatives Management Group, Inc | VA | $20,288
Department of Human Services | VI | $67,200
Department of Human Services | VI | $252,267
Methodist Training & Outreach Center, Inc | VI | $168,424
Champlain Valley Office of Economic Opportunity | VT | $222,440
Addison County Community Action Group | VT | $145,045
Vermont State Housing Authority | VT | $37,247
Vermont State Housing Authority | VT | $62,913
Vermont State Housing Authority | VT | $436,368
Vermont State Housing Authority | VT | $369,588
Vermont State Housing Authority | VT | $38,535
Vermont State Housing Authority | VT | $148,815
Vermont State Housing Authority | VT | $90,945
Vermont State Housing Authority | VT | $56,509
Vermont State Housing Authority | VT | $71,642
Vermont State Housing Authority | VT | $55,524
Vermont State Housing Authority | VT | $30,000
Vermont State Housing Authority | VT | $69,904
Vermont State Housing Authority | VT | $ 8,427
Howard Center | VT | $200,402
Vermont State Housing Authority | VT | $309,228
Vermont State Housing Authority | VT | $122,466
Howard Center | VT | $181,146
Burlington Housing Authority | VT | $75,456
Burlington Housing Authority | VT | $107,820
Brattleboro Housing Authority | VT | $202,944
City of Seattle Human Services Department | WA | $548,598
Housing Authority of Snohomish County | WA | $2,340,480
Housing Authority of Snohomish County | WA | $118,080
City of Spokane | WA | $44,028
City of Spokane | WA | $106,003
City of Spokane | WA | $106,082
City of Spokane | WA | $38,802
Women's Resource Center | WA | $38,758
City of Spokane | WA | $77,175
City of Spokane | WA | $27,739
City of Spokane | WA | $51,424
City of Seattle Human Services Department | WA | $299,978
City of Seattle Human Services Department | WA | $517,251
City of Spokane | WA | $99,584
City of Seattle Human Services Department | WA | $81,370
City of Spokane | WA | $27,536
Spokane Neighborhood Action Programs | WA | $134,839
City of Bremerton | WA | $95,820
Yakima County | WA | $70,937
Spokane Neighborhood Action Programs | WA | $133,448
City of Bremerton | WA | $43,380
City of Bremerton | WA | $33,720
The Family Support Center of South Sound | WA | $54,810
City of Spokane | WA | $93,161
City of Spokane | WA | $76,526
City of Spokane | WA | $62,396
City of Spokane | WA | $87,781
King, County of | WA | $251,744
Columbia River Mental Health Services | WA | $126,862
Next Step Housing | WA | $46,835
Housing Hope | WA | $29,828
Housing Hope | WA | $80,315
King, County of | WA | $63,258
Auburn Youth Resources | WA | $123,286
King, County of | WA | $303,975
Snohomish, County of | WA | $161,705
King, County of | WA | $74,613
King, County of | WA | $979,332
King, County of | WA | $3,658,944
King, County of | WA | $788,256
King, County of | WA | $121,939
King, County of | WA | $140,085
King, County of | WA | $99,739
Snohomish, County of | WA | $87,928
Yakima County | WA | $31,218
Yakima County | WA | $48,189
Yakima County | WA | $10,815
Yakima County | WA | $10,813
Snohomish, County of | WA | $175,171
Snohomish, County of | WA | $70,369
Snohomish, County of | WA | $75,435
Snohomish, County of | WA | $163,659
Snohomish, County of | WA | $43,636
Snohomish, County of | WA | $110,916
Friends of Youth | WA | $123,062
Snohomish, County of | WA | $35,931
Snohomish, County of | WA | $164,820
Snohomish, County of | WA | $81,523
Lewis County | WA | $108,814
Snohomish, County of | WA | $23,609
City of Seattle Human Services Department | WA | $443,471
Okanogan Behavioral HealthCare | WA | $362,625
YWCA of Seattle-King County-Snohomish County | WA | $85,614
YWCA of Seattle-King County-Snohomish County | WA | $167,867
City of Seattle Human Services Department | WA | $116,397
YWCA of Seattle-King County-Snohomish County | WA | $29,683
YWCA of Seattle-King County-Snohomish County | WA | $72,245
YWCA of Seattle-King County-Snohomish County | WA | $42,540
City of Seattle Human Services Department | WA | $507,350
YWCA of Seattle-King County-Snohomish County | WA | $57,320
Church Council of Greater Seattle | WA | $57,278
City of Seattle Human Services Department | WA | $105,000
City of Seattle Human Services Department | WA | $545,049
City of Seattle Human Services Department | WA | $696,732
City of Seattle Human Services Department | WA | $326,054
Multi-Service Center | WA | $26,724
YWCA of Seattle-King County-Snohomish County | WA | $103,619
WA State Department of Community, Trade and Economic Develop | WA | $143,082
City of Seattle Human Services Department | WA | $114,450
Building Changes | WA | $387,191
City of Seattle Human Services Department | WA | $586,377
City of Seattle Human Services Department | WA | $168,153
City of Spokane | WA | $88,698
City of Seattle Human Services Department | WA | $492,048
YWCA of Seattle-King County-Snohomish County | WA | $78,878
City of Seattle Human Services Department | WA | $25,422
United Indians of All Tribes Foundation | WA | $343,565
City of Seattle Human Services Department | WA | $121,545
City of Seattle Human Services Department | WA | $183,540
City of Seattle Human Services Department | WA | $84,906
City of Seattle Human Services Department | WA | $181,306
City of Seattle Human Services Department | WA | $1,149,355
City of Seattle Human Services Department | WA | $838,688
City of Seattle Human Services Department | WA | $80,012
Archdiocesan Housing Authority | WA | $201,576
Community Services Northwest | WA | $91,700
Kent Youth and Family Services | WA | $38,134
Benton Franklin Community Action Committee | WA | $125,704
Benton Franklin Community Action Committee | WA | $74,472
Bellingham Housing Authority | WA | $207,000
Bellingham Housing Authority | WA | $804,276
YW Housing | WA | $92,365
Pierce County | WA | $59,886
YW Housing | WA | $51,052
Low Income Housing Institute | WA | $36,141
Development Association of the Goodwill Baptist Church | WA | $28,596
Development Association of the Goodwill Baptist Church | WA | $56,642
Share | WA | $61,267
Archdiocesan Housing Authority | WA | $105,422
Serenity House of Clallam County | WA | $138,769
El Centro de la Raza | WA | $17,603
Olympic Community Action Programs | WA | $135,599
Washington Gorge Action Programs | WA | $110,680
Spokane County, Washington State | WA | $40,752
Spokane County, Washington State | WA | $38,717
Housing Authority of the City of Bremerton | WA | $136,450
The Salvation Army | WA | $253,988
The Salvation Army | WA | $77,838
Joint City of Republic-Ferry County Housing Authority | WA | $36,316
Triumph Treatment Services | WA | $158,792
Kitsap County Consolidated Housing Authority | WA | $24,938
King County Department of Community and Human Services | WA | $624,566
Sun Community Service | WA | $36,013
Archdiocesan Housing Authority | WA | $197,739
Housing Authority of Thurston County | WA | $133,921
Mason County Shelter | WA | $100,894
Seattle Housing Authority | WA | $ 9,896
Opportunity Council | WA | $656,639
Opportunity Council | WA | $140,868
Opportunity Council | WA | $84,130
Community Youth Services | WA | $151,516
Housing Authority of the City of Vancouver | WA | $123,216
Housing Authority of the City of Vancouver | WA | $34,429
Housing Authority of the City of Vancouver | WA | $83,229
Housing Authority of Island County | WA | $38,088
Blue Mountain Action Council | WA | $142,724
YouthCare | WA | $105,602
YouthCare | WA | $151,856
Columbia Gorge Housing Authority | WA | $31,980
Northwest Youth Services | WA | $266,389
Solid Ground Washington | WA | $158,620
Serenity House of Clallam County | WA | $142,951
Compass Health | WA | $34,600
Compass Health | WA | $57,259
Compass Health | WA | $189,598
Benton and Franklin Counties Department of Human Services | WA | $89,448
Child Care Resources | WA | $529,095
Council for the Homeless | WA | $72,697
Housing Authority City of Kelso | WA | $84,420
Community Psychiatric Clinic | WA | $348,156
Community Psychiatric Clinic | WA | $75,171
Walla Walla County | WA | $66,101
Skagit County Community Action Agency | WA | $50,054
The Compass Center, a Lutheran Organization | WA | $26,284
Compass Health | WA | $41,393
City of Spokane | WA | $280,581
City of Spokane | WA | $85,723
Pierce County | WA | $95,882
City of Spokane | WA | $67,164
City of Spokane | WA | $141,864
Pierce County | WA | $348,301
City of Spokane | WA | $118,908
City of Spokane | WA | $56,251
City of Spokane | WA | $14,917
Pierce County | WA | $173,112
Pierce County | WA | $32,444
City of Spokane | WA | $60,336
Pierce County | WA | $29,512
City of Spokane | WA | $15,491
Pierce County | WA | $57,240
Pierce County | WA | $92,980
Pierce County | WA | $89,527
YW Housing | WA | $167,989
Pierce County | WA | $267,129
Pierce County | WA | $45,150
Pierce County | WA | $172,691
Pierce County | WA | $143,477
Pierce County | WA | $24,741
Pierce County | WA | $140,025
City of Spokane | WA | $178,848
Pierce County | WA | $24,324
Pierce County | WA | $78,273
Pierce County | WA | $36,902
Pierce County | WA | $34,106
HopeSource | WA | $46,346
City of Spokane | WA | $42,621
Pierce County | WA | $66,539
Pierce County | WA | $111,377
Community Action Center | WA | $19,152
Vietnam Veterans Leadership Program | WA | $23,579
Pierce County | WA | $166,840
Pierce County | WA | $205,076
Pierce County | WA | $55,005
Low Income Housing Institute | WA | $398,905
Pierce County | WA | $168,567
Low Income Housing Institute | WA | $56,085
Low Income Housing Institute | WA | $31,500
City of Spokane | WA | $167,591
City of Spokane | WA | $27,799
St. Aemilian-Lakeside, Inc | WI | $167,828
Community Development Partners, Inc | WI | $103,410
Community Development Partners, Inc | WI | $85,714
Porchlight, Inc | WI | $111,373
Tellurian UCAN, Inc | WI | $10,666
Family Service of Racine | WI | $51,969
Porchlight, Inc | WI | $62,194
Porchlight, Inc | WI | $123,640
ADVOCAP, Inc | WI | $197,658
American Red Cross in Southeastern Wisconsin | WI | $99,240
American Red Cross in Southeastern Wisconsin | WI | $304,389
American Red Cross in Southeastern Wisconsin | WI | $636,776
Community Action, Inc. of Rock & Walworth Counties | WI | $517,583
ADVOCAP, Inc | WI | $110,216
Couleecap, Inc | WI | $254,126
Health Care for the Homeless of Milwaukee, Inc | WI | $50,596
Health Care for the Homeless of Milwaukee, Inc | WI | $85,116
Health Care for the Homeless of Milwaukee, Inc | WI | $119,356
ADVOCAP, Inc | WI | $158,583
Homeless Assistance Leadership Organization, Inc | WI | $58,859
Homeless Assistance Leadership Organization, Inc | WI | $246,075
Center for Veterans Issues, Ltd | WI | $132,021
Center for Veterans Issues, Ltd | WI | $415,911
Center for Veterans Issues, Ltd | WI | $170,568
North Central Community Action Program, Inc | WI | $177,165
Legal Action of WI, Inc, | WI | $80,536
Kenosha Human Development Services, Inc | WI | $140,940
Kenosha Human Development Services, Inc | WI | $126,519
Guest House of Milwaukee, Inc | WI | $180,454
City of Waukesha Housing Authority | WI | $144,841
City of Waukesha Housing Authority | WI | $112,555
Center for Veterans Issues, Ltd | WI | $94,831
Guest House of Milwaukee, Inc | WI | $837,503
YWCA of Madison, Inc | WI | $375,095
Walker's Point Youth and Family Center | WI | $195,781
Guest House of Milwaukee, Inc | WI | $196,230
City of Waukesha Housing Authority | WI | $692,760
YWCA Greater Milwaukee | WI | $33,580
Community Development Partners, Inc | WI | $23,311
Community Action Coalition for South Central Wisconsin, Inc | WI | $226,190
Community Development Partners, Inc | WI | $12,101
City of Madison | WI | $50,768
YWCA Greater Milwaukee | WI | $82,969
Porchlight, Inc | WI | $162,742
Porchlight, Inc | WI | $344,766
Tellurian UCAN, Inc | WI | $155,106
St. Catherine Residence, Inc | WI | $144,480
Tellurian UCAN, Inc | WI | $64,575
Tellurian UCAN, Inc | WI | $55,749
Tellurian UCAN, Inc | WI | $249,165
Couleecap, Inc | WI | $366,316
Project New Life, CDC | WI | $152,028
Community Action Coalition for South Central Wisconsin, Inc | WI | $165,020
Western Dairyland Economic Opportunity Council, Inc | WI | $264,926
CAP Services, Inc | WI | $105,025
City of Appleton | WI | $177,763
Starting Points, Inc | WI | $509,064
Hope House of Milwaukee, Inc | WI | $41,963
Hope House of Milwaukee, Inc | WI | $579,715
Hope House of Milwaukee, Inc | WI | $30,679
The Road Home Dane County | WI | $54,995
The Road Home Dane County | WI | $247,280
West Central Wisconsin Community Action Agency, Inc | WI | $434,523
Community Advocates, Inc | WI | $84,000
Starting Points, Inc | WI | $117,400
The Salvation Army | WI | $229,270
Starting Points, Inc | WI | $182,197
Housing Initiatives, Inc | WI | $11,659
Dane County, WI | WI | $608,028
The Salvation Army | WI | $31,474
The Salvation Army | WI | $307,635
State of Wisconsin | WI | $235,728
Legal Action of Wisconsin | WI | $111,300
Meta House, Inc | WI | $121,092
YWCA of the Coulee Region Transitional Housing Program | WI | $74,290
Meta House, Inc | WI | $328,031
Meta House, Inc | WI | $130,385
City of Appleton | WI | $51,513
State of Wisconsin | WI | $364,486
Women's Resource Center of Racine | WI | $19,066
Community Action, Inc. of Rock & Walworth Counties | WI | $85,079
Lakeshore CAP, Inc | WI | $117,663
Northwest Wisconsin Community Services Agency Inc | WI | $92,612
The Salvation Army | WI | $42,500
County of Milwaukee | WI | $2,751,864
County of Milwaukee | WI | $419,979
Community Advocates, Inc | WI | $344,544
Northwest Wisconsin Community Services Agency Inc | WI | $113,670
Community Advocates, Inc | WI | $120,514
Community Relations-Social Development Commission | WI | $450,454
Central Wisconsin Community Action Council, Inc | WI | $262,322
Hebron House of Hospitality, Inc | WI | $116,535
Transitional Living Services, Inc | WI | $114,428
Catherine Marian Housing, Inc | WI | $55,053
Matt Talbot Recovery Center, Inc | WI | $235,625
Women's Resource Center of Racine | WI | $16,963
Forward Service Corporation | WI | $402,991
Racine Vocational Ministry, Inc | WI | $28,941
Family Services of Northeast Wisconsin | WI | $159,800
The Salvation Army | WI | $38,193
My Home, Your Home Inc | WI | $183,547
Legal Action of Wisconsin, Inc | WI | $16,000
Women and Children's Horizons Inc | WI | $220,566
Hebron House of Hospitality, Inc | WI | $167,070
Religious Coalition for Community Renewal | WV | $72,513
Telamon Corporation | WV | $70,209
Telamon Corporation | WV | $14,347
Roark-Sullivan Lifeway Center | WV | $250,071
Caritas House, Inc | WV | $131,158
Huntington West Virginia Housing Authority | WV | $320,100
Young Women's Christian Association of Charleston, WV | WV | $174,126
Young Women's Christian Association of Charleston, WV | WV | $62,697
Young Women's Christian Association of Charleston, WV | WV | $29,859
Community Networks, Inc | WV | $76,756
Huntington West Virginia Housing Authority | WV | $145,500
Huntington West Virginia Housing Authority | WV | $116,400
Huntington West Virginia Housing Authority | WV | $38,274
Huntington West Virginia Housing Authority | WV | $74,990
Greater Wheeling Coalition for the Homeless | WV | $26,536
Huntington West Virginia Housing Authority | WV | $368,064
Stop Abusive Family Environments, Inc | WV | $135,799
Kanawha Valley Collective, Inc | WV | $14,000
Greater Wheeling Coalition for the Homeless | WV | $11,200
Greater Wheeling Coalition for the Homeless | WV | $135,796
Greater Wheeling Coalition for the Homeless | WV | $250,272
Cabell-Huntington Coalition for the Homeless, Inc | WV | $423,622
Cabell-Huntington Coalition for the Homeless, Inc | WV | $110,646
City of Charleston | WV | $99,144
Community Action Partnership of Natrona County | WY | $113,175
Women's Self Help Center, Inc | WY | $98,723
Wyoming Community Network | WY | $66,666
Council of Community Services | WY | $61,016
Mendocino County Health and Human Services Agency | CA | $132,134
New Jersey Department of Community Affairs | NJ | $850,440
NYS OFFICE OF Alcoholism and Substance Abuse Services | NY | $188,112
YWCA of Binghamton | NY | $107,081
YWCA of Binghamton | NY | $152,076
Total |  | $1,417,604,582

[FR Doc. E9-21831 Filed 9-14-09; 8:45 am]

BILLING CODE 4210-67-P